FEDERAL COMMUNICATIONS COMMISSION

47 CFR Part 1

[MD Docket Nos. 21-190; MD Docket Nos. 22-223; FCC 22-39; FR ID 91674]

Assessment and Collection of Regulatory Fees for Fiscal Year 2022

AGENCY: Federal Communications Commission.

ACTION: Proposed rule.

SUMMARY: In this document, the Federal Communications Commission (Commission) seeks comment on revising the fee schedule of FY 2022 regulatory fees to collect $381,950,000 in regulatory fees by fiscal year end. Regulatory fee collections offset one hundred percent of the Commission's budget.

DATES: Submit comments on or before July 5, 2022; and reply comments on or before July 18, 2022.

ADDRESSES: Pursuant to §§ 1.415 and 1.419 of the Commission's rules, 47 CFR 1.415, 1.419, interested parties may file comments and reply comments identified by MD Docket No. 22-223, by any of the following methods below. Comments and reply comments may be filed using the Commission's Electronic Comment Filing System (ECFS). See Electronic Filing of Documents in Rulemaking Proceedings, 63 FR 24121 (1998).

1. Comment Filing Procedures. Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

2. Effective March 19, 2020, and until further notice, the Commission no longer accepts any hand or messenger delivered filings. This is a temporary measure taken to help protect the health and safety of individuals, and to mitigate the transmission of COVID-19. In the event that the Commission announces the lifting of COVID-19 restrictions, a filing window will be opened at the Commission's office located at 9050 Junction Drive, Annapolis, MD 20701.

3. Pursuant to § 1.49 of the Commission's rules, 47 CFR 1.49, parties to this proceeding must file any documents in this proceeding using the Commission's Electronic Comment Filing System (ECFS): http://apps.fcc.gov/ecfs/.

4. Materials in Accessible Formats. To request materials in accessible formats for people with disabilities (Braille, large print, electronic files, audio format), send an email to fcc504@fcc.gov or call the Consumer and Governmental Affairs Bureau at 202-418-0530 (voice).

5. Availability of Documents. Comments, reply comments, and ex parte submissions will be available via ECFS. Documents will be available electronically in ASCII, Microsoft Word, and/or Adobe Acrobat. When the FCC Headquarters reopens to the public, these documents will also be available for public inspection during regular business hours in the FCC Reference Center, Federal Communications Commission, 45 L Street NE, Washington, DC 20554.

For detailed instructions for submitting comments and additional information on the rulemaking process, see the SUPPLEMENTARY INFORMATION section of this document.

FOR FURTHER INFORMATION CONTACT: Roland Helvajian, Office of Managing Director at (202) 418-0444.

SUPPLEMENTARY INFORMATION: This is a summary of the Commission's Notice of Proposed Rulemaking (NPRM), FCC 22-39, MD Docket No. 21-190, and MD Docket No. 22-223, adopted on June 1, 2022 and released on June 2, 2022. The full text of this document is available for inspection and copying during normal business hours in the FCC Reference Center, 445 12th Street SW, Room CY-A257, Portals II, Washington, DC 20554, and may also be purchased from the Commission's copy contractor, BCPI, Inc., Portals II, 445 12th Street SW, Room CY-B402, Washington, DC 20554. Customers may contact BCPI, Inc. via their website, http://www.bcpi.com, or call 1-800-378-3160. This document is available in alternative formats (computer diskette, large print, audio record, and braille). Persons with disabilities who need documents in these formats may contact the FCC by email: FCC504@fcc.gov or phone: 202-418-0530 or TTY: 202-418-0432.

I. Procedural Matters

6. Ex Parte Information. The proceeding initiated by this NPRM, in which we seek comment on proposals as described above, shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

7. Initial Regulatory Flexibility Analysis. An initial regulatory flexibility analysis (IRFA) is contained in this summary. Comments to the IRFA must be identified as responses to the IRFA and filed by the deadlines for comments on the NPRM. The Commission will send a copy of the NPRM, including the IRFA, to the Chief Counsel for Advocacy of the Small Business Administration.

8. Initial Paperwork Reduction Act of 1995 Analysis. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

I. Introduction

9. For fiscal year (FY) 2022, the Commission is required to collect $381,950,000 in regulatory fees for FY 2022, pursuant to sections 9 and 9A of the Communications Act of 1934, as amended (Communications Act), and the Commission's FY 2022 Appropriations Act. In this NPRM, we seek comment on associated changes to the non-geostationary orbit (NGSO) space stations regulatory fee rates. We also seek comment on the Commission's proposed regulatory fees for FY 2022 as set forth in Tables 2 and 3 in addition to other issues including: continuing to use our methodology for calculating television broadcaster regulatory fees based on population; calculating the costs of collection of regulatory fees in establishing the annual de minimis threshold; and how our proposals may promote or inhibit advances in diversity, equity, inclusion, and accessibility.

II. Background

10. Congress requires the Commission to assess and collect regulatory fees each year in an amount that can reasonably be expected to equal the amount of its annual salaries and expenses (S&E) appropriation. Regulatory fees cover direct costs, such as salaries and expenses; indirect costs, such as overhead functions; statutorily required tasks that do not directly equate with oversight and regulation of a particular regulatee but instead benefit the Commission and the industry as a whole; and support costs such as rent, utilities, and equipment. Regulatory fees also cover the costs incurred in oversight and regulation of entities that are statutorily exempt from paying regulatory fees (i.e., governmental and nonprofit entities, amateur radio operators, and noncommercial radio and television stations), entities that are exempt from payment of FY 2022 regulatory fees because their total assessed annual regulatory fees fall below the annual de minimis threshold, and entities whose regulatory fees are waived. Pursuant to section 9(d) of the Communications Act, the Commission's methodology for assessing regulatory fees must “reflect the full-time equivalent number of employees within the bureaus and offices of the Commission, adjusted to take into account factors that are reasonably related to the benefits provided to the payor of the fee by the Commission's activities.” For FY 2022, the Commission must recover $381,950,000, as set forth in the FY 2022 Consolidated Appropriations Act.

11. Each year, early in the fiscal year, the Commission receives full time equivalent (FTE) data from its Human Resources Office, and identifies FTE data at the core bureau level (i.e., direct FTEs), which is then used to determine the FTE allocations for the four core bureaus. This FTE data is then filtered down to the various fee categories within each core bureau based on the fee category percentages for each bureau. After the number of direct FTEs is determined within each core bureau of the Commission, a percentage of the total amount to be collected in regulatory fees for a given fiscal year is calculated for each core bureau based on the number of direct FTEs within a core bureau. The total of the percentages for each core bureau must equal 100% of the amount to be collected. The total percentage for a core bureau is then used to calculate the percentages for the various regulatory fee categories within each core bureau, as provided by the Commission's bureaus. Thus, the regulatory fee categories within each core bureau make up a percentage of a core bureau's total percentage to be collected in regulatory fees.

12. These percentages, either at the regulatory fee category level within a core bureau or summed up to the core bureau level, represent the dollar amount of regulatory fees to be collected by multiplying each fee category percentage by the target goal to be collected. For example, the Wireline Competition Bureau, a core bureau, has direct FTEs that constitute 33.74% of all regulatory fees to be collected. The Wireline Competition Bureau also has two fee categories from which 33.74% of the fees are to be collected: (1) the Interstate Telecommunications Service Provider Fee (ITSP) fee category constitutes 32.62%, and (2) the Toll Free Number fee category constitutes 1.12% for a total sum of 33.74%. The percentage for each fee category represents the amount to collect in regulatory fees for that fee category—for example, for the ITSP fee category, 32.62% amounts to $124.59 million from an FY 2022 target goal of $381,950,000. This dollar amount ($124.59 million) divided by the estimated units for the ITSP fee category determines the fee rate, which is then rounded to the nearest $5, where applicable. Indirect FTEs are then allocated proportionally based on the allocation percentage of direct FTEs of each core bureaus.

13. The indirect FTEs are the FTEs in the Enforcement Bureau, Consumer and Governmental Affairs Bureau, Public Safety and Homeland Security Bureau, Chairwoman's and Commissioners' offices, Office of the Managing Director, Office of General Counsel, Office of the Inspector General, Office of Communications Business Opportunities, Office of Engineering and Technology, Office of Legislative Affairs, Office of Workplace Diversity, Office of Media Relations, Office of Economics and Analytics, and Office of Administrative Law Judges, along with some FTEs in the Wireline Competition Bureau and the International Bureau that the Commission has previously classified as indirect for regulatory fee purposes. Unlike the work of direct FTEs, the work of FTEs designated as indirect benefits the Commission and the industry as a whole and is not specifically focused on the regulatees and licensees of a core bureau. The high percentage of indirect FTEs is indicative of the fact that many Commission activities and costs are not limited to a particular fee category and instead benefit the Commission and its work as a whole.

14. In section 9 of the Communications Act, Congress prescribed a method of collecting an amount equal to the full S&E appropriation by keying the regulatory fee assessment to FTE burden. As a result, the fee assigned to each regulatory fee category relates to the FTE burden associated with their oversight and regulation by the relevant core bureaus. Because the total amount the Commission must collect in an offsetting collection generally changes each fiscal year, payors' regulatory fees will also typically change each fiscal year as a mathematical consequence of the changes in the total amount to be collected, the number of Commission FTEs, and projected unit estimates for each fee category. Beyond those changed collection requirements, consideration of changes, additions, or deletions to the regulatory fee schedule is focused on the Commission's direct FTE cost burden related to the regulatory fee category at issue within each core bureau.

15. Adjustments and Amendments to Regulatory Fee Schedule. Each year, the Commission is required to adjust the schedule of regulatory fees to “(A) reflect unexpected increases or decreases in the number of units subject to the payment of such fees; and (B) result in the collection of the amount required” by the Commission's annual appropriation. Each year the Commission issues a Notice of Proposed Rulemaking to seek comment on its methodology for assessing regulatory fees and the proposed regulatory fees for the fiscal year.

III. Notice of Proposed Rulemaking

16. In this annual regulatory fee NPRM, we seek comment on our methodology for assessing regulatory fees and on the schedule of FY 2022 regulatory fees as set forth in Tables 2 and 3. We also seek comment on associated changes to the NGSO space station regulatory fee rates in addition to several other issues such as continuing to use our methodology for calculating television broadcaster regulatory fees based on population; calculating the costs of collection of regulatory fees in establishing the annual de minimis threshold; and how our proposals may promote or inhibit advances in diversity, equity, inclusion, and accessibility.

A. Assessment of Regulatory Fees

17. Methodology for Assessing Regulatory Fees. Congress has required us to collect $381,950,000 in regulatory fees for FY 2022. In doing so, section 9 of the Communications Act requires us to set regulatory fees to “reflect the full-time equivalent number of employees within the bureaus and offices of the Commission adjusted to take into account factors that are reasonably related to the benefits provided to the payor of the fee by the Commission's activities.” We implement this directive by first looking to the core bureaus within the Commission in order to identify the number of direct non-auction FTEs from each core bureau and then categorize the remaining non-auction FTEs and other Commission costs as indirect. Once the direct FTEs are identified, we then allocate fees to specific fee categories within each core bureau. These proportional calculations allocate all Commission non-auction related costs across all fee categories. We find that our methodology is consistent with section 9 of the Communications Act which requires us to base our methodology on the number of FTEs in calculating regulatory fees. We seek comment on this methodology and on the schedule of FY 2022 regulatory fees as set forth in Tables 2 and 3. Any proposals or comments requesting a change or modification to our proposed FY 2022 regulatory fees should include a thorough analysis showing a sufficient basis for making the change and provide alternative options for the Commission to meet its statutory obligation to collect the full amount of the appropriation by the end of the fiscal year. Commenters should also indicate how such alternative options are fair, administrable, and sustainable.

18. Allocating FTEs. Consistent with past practices, we propose to base the allocation of fee categories for FY 2022 on the Commission's calculation of FTEs in each regulatory fee category. Each year, early in the fiscal year, the Commission receives FTE data from the Commission's Human Resources Office, and identifies FTE data at the core bureau level (direct FTEs). This FTE data is then filtered down to the various fee categories within each core bureau. The total FTEs for each fee category include the direct FTEs associated with that category plus a proportional allocation of indirect FTEs. Applying the requirements of section 9 of the Communications Act to calculate regulatory fees, we propose to allocate the total collection target across all regulatory fee categories. Each regulatee within a fee category then pays its proportionate share based on an objective measure. To calculate fees for each licensee, we identify “units” used to calculate the fees. For example, broadcast licensees' fees will vary by population served and commercial mobile radio service (CMRS) wireless licensees will pay fees based on their number of subscribers. These calculations are illustrated in Table 2. The sources for the unit estimates that are used in these calculations are listed in Table 4.

19. In sum, there are 329 direct FTEs for FY 2022, distributed among the core bureaus as follows International Bureau (28), Wireless Telecommunications Bureau (70), Wireline Competition Bureau (111), and the Media Bureau (120). This results in 8.51% of the FTE allocation for International Bureau regulatees; 21.28% of the FTE allocation for Wireless Telecommunications Bureau regulatees; 33.74% of the FTE allocation for Wireline Competition Bureau regulatees; and 36.47% of FTE allocation for Media Bureau regulatees. There are in turn 943 indirect FTEs spread across the Commission: Enforcement Bureau (187), Consumer and Governmental Affairs Bureau (111), Public Safety and Homeland Security Bureau (98), part of the International Bureau (52), part of the Wireline Competition Bureau (38), Chairman and Commissioners' offices (22), Office of the Managing Director (136), Office of General Counsel (70), Office of the Inspector General (47), Office of Communications Business Opportunities (10), Office of Engineering and Technology (66), Office of Legislative Affairs (8), Office of Workforce Diversity (4), Office of Media Relations (12), Office of Economics and Analytics (78), and Office of Administrative Law Judges (4). Allocating these indirect FTEs based on the direct FTE allocations yields an additional 80.26 FTEs attributable to International Bureau regulatees, 200.64 FTEs attributable to Wireless Telecommunications Bureau regulatees, 318.16 FTEs attributable to Wireline Competition Bureau regulatees, and 343.95 FTEs attributable to Media Bureau regulatees.

20. Based on these allocations and the requirement to collect $381,950,000 in regulatory fees this year, we project collecting approximately $32.51 million (8.51%) in fees from International Bureau regulatees; $81.27 million (21.28%) in fees from Wireless Telecommunications Bureau regulatees; $128.86 million (33.74%) from Wireline Competition Bureau regulatees; and $139.31 million (36.47%) from Media Bureau regulatees. We set specific regulatory fees in Table 3 so that regulatees within a fee category pay their proportionate share based on an objective measure (e.g., revenues or number of subscribers). The proposed fees are based on the established methodology, applied to the allocated direct FTEs and based on the Commission's appropriation amount of $381,950,000. We seek comment on our methodology. Commenters proposing adjustments to our methodology should explain the basis for their proposals.

1. Regulatory Fee Rates for Space Stations

21. We seek comment on the proposed regulatory fees for space stations as provided in Table 2. In 2021, the Commission adopted new NGSO space stations regulatory fee subcategories: “less complex” and “other,” both under the broader category of “Space Stations (Non-Geostationary Orbit).” In the FY 2021 Report and Order, 86 FR 52742 (Sept. 22, 2021), the Commission subsequently adopted the proposal from the FY 2021 NPRM, 86 FR 52429 (Sept. 21, 2021), to allocate 20% of NGSO space station regulatory fees to “less complex” NGSO space stations and 80% of NGSO regulatory fees to “other” NGSO space stations. As discussed above, in this proceeding, we determine a fee methodology for small satellites, and integrate the small satellite fee category into the NGSO space stations fee category. Accordingly, in Table 2, we have included the proposed fees for NGSO space stations calculated by assessing the fees that small satellites will pay in FY 2022, reducing that amount from the overall NGSO space stations fee category, and allocating the remaining NGSO space station fees 20/80 using the two new fee subcategories: “less complex” NGSO space stations and all other NGSO space stations identified as “other” NGSO space stations.”

22. Below is a table illustrating the proposed NGSO fee rates for FY 2022. These proposed regulatory fees are also listed in Tables 2 and 3. We seek comment on these proposed regulatory fees. Commenters proposing alternative should explain the basis for their proposals.

Proposed NGSO—small satellite fee (per license) | Proposed NGSO—other space station fee (per system) | Proposed NGSO—less complex space station fee (per system)
$12,145 | $338,020 | $140,840

23. Spacecraft Performing On-Orbit Servicing and Rendezvous and Proximity Operations. Two commenters propose the creation of additional fee categories, citing similarities between the characteristics of small satellites and those other satellite services commenters contend should have a separate fee. Spaceflight proposes that the Commission create a separate fee category for spacecraft performing on-orbit services (OOS), which would include deployment, rendezvous and proximity services. Spaceflight posits that OOS spacecraft share characteristics of small satellites and “less complex” NGSO systems thereby justifying the creation of a new and lower fee category. Spaceflight also distinguishes between OOS spacecraft and traditional NGSO satellites in that OOS spacecraft have limited duration and scope of use as well as a limited number of earth stations; require a smaller investment in OOS technology; require less ongoing regulation owing to the shorter duration of OOS spacecraft; will likely be licensed on a shared use basis. Spaceflight also notes that OOS spacecraft are licensed on a non-interference basis without the need for processing round procedures or post-processing round disputes over matters such as interference protection and spectrum priority. In addition, Astroscale proposes that the Commission create a new fee category for rendezvous and proximity operations (RPO). Astroscale submits that a Commission proceeding to create service rules and a corresponding fee category for RPO services would provide much needed permanency and clarity to support this nascent infrastructure. In allocating this fee, Astroscale argues that the Commission should consider the similarities that RPO services share with small satellites, such as one-way data communication, and with “less complex” NGSO systems, such as the less-intensive use of ground stations.

24. At this time, we tentatively conclude that it would be premature to adopt new fee categories for OOS and RPO operations. To date, there have been a limited number of such operations and these have been treated on a case-by-case basis. Except for GSO servicing missions, we expect that most OOS and RPO operations will be NGSO, but we tentatively conclude that it is too early to identify exactly where operations such as those in low-Earth orbit (LEO) might fit into the regulatory fee structure in the future. Thus, at this time, we do not have a record sufficient to propose to establish a fee category(ies) and appropriate methodology for assessing such a fee category(ies). We propose that, until we gain more experience in regulating such systems, we continue to regulate these systems as we have and consider OOS and RPO spacecraft licensing on a mission-by-mission basis. We seek comment on these tentative conclusions. Commenters that nonetheless favor a new fee category or categories should fully explain the basis for their positions, including how the Commission might identify exactly where these operations might fit into the regulatory fee structure.

25. However, although we do not adopt a new regulatory and corresponding fee category for OOS and RPO spacecraft at this time, we further seek comment on whether and how to assess fees for these types of spacecraft, and other types of satellites servicing other satellites, which operate near to the GSO arc. Specifically, we seek comment on whether a satellite servicing other satellites that operates above the GSO arc should be treated as a GSO space station for regulatory fee purposes. We also seek comment on what factors should be considered in determining whether the servicing spacecraft should be assessed regulatory fees separately. For example, what percentage of time are the satellites co-located with a GSO satellite?

B. Full-Service Television Broadcaster Fees

26. In the FY 2020 Report and Order, 85 FR 59864 (Sept. 23, 2020), we completed the transition to a population-based full-service broadcast television regulatory fee. We do not reopen that decision relating to these regulatory fees being based on population at this time. For FY 2022, we propose to continue to assess fees for full-power broadcast television stations based on the population covered by a full-service broadcast television station's contour and seek comment on our mechanism, described below, for how we will calculate the regulatory fee based on the previously decided population-based methodology. As described in Table 7, we propose adopting a factor of .88 of one cent ($.008803) per person served for FY 2022 full-service broadcast television station fees. The population data for broadcasters' service areas are extracted from the TVStudy database, based on a station's projected noise-limited service contour. The population data for each licensee and the population-based fee (population multiplied by $.008803 for each full-service broadcast television station), including each satellite station is listed in Table 7. We seek comment on these proposed fees. Any commenters suggesting different ways to measure population-based fees for full-service television broadcasters should indicate the proposed fees and the underlying calculation and basis for the fees.

C. De Minimis Threshold

27. We seek comment on how to calculate the costs of collection of regulatory fees in establishing the annual de minimis threshold of $1,000. Section 9(e)(2) of the Communications Act permits the Commission to exempt a party from paying regulatory fees if “in the judgment of the Commission, the cost of collecting a regulatory fee established under this section from a party would exceed the amount collected from such party. . . .” NAB proposes that we increase the de minimis threshold, above $1,000, in order to assist small broadcasters. We remind commenters that the text of section 9(e)(2) of the Communications Act does not include language suggesting that such considerations be used in determining the cost of collecting a regulatory fee for purposes of setting the de minimis threshold.

28. In the FY 2019 Report and Order, 84 FR 50890 (Sept. 26, 2019), the Commission concluded that section 9(e)(2) of the Communications Act codifies our authority to adopt a de minimis exemption. At that time, the Commission analyzed the average cost of collecting delinquent debt and estimated that the Commission's cost of collecting the debt would exceed $1,000. The Commission determined that its administrative debt collection process involves many steps, including data compilation, preparation and validation; invoicing; debt transfer for third party collection; responding to debtor questions and disputes; and processing payments. Accordingly, the Commission retained the de minimis threshold for annual regulatory fee payors at $1,000.

29. We seek comment on NAB's proposal to increase the de minimis threshold. Commenters should discuss how we should calculate the costs of collection of regulatory fees and whether the cost of collecting a regulatory fee begins after the regulatory fees are due and once delinquencies occur. Alternatively, should the cost of collection begin when the Commission collects data on a payor's regulatory fee status, generally prior to the regulatory fee due date? Commenters advocating a higher annual de minimis threshold should discuss which steps in the debt collection process should be included in “the cost of collecting a regulatory fee.” For example, should the Commission also consider the costs associated with reviewing and resolving waiver requests and installment payment requests? Commenters suggesting an increase should indicate what the threshold should be increased to and the factual and statutory basis for such an increase. Commenters should also explain if the proposed definition of costs of collection is consistent with other uses of the term in the U.S. Code with respect to collection of federal fees.

D. Indirect Full Time Equivalents

30. As discussed above, the Commission has previously reclassified certain direct FTEs as indirect for regulatory purposes due to the nature of their work assignments. We seek comment on whether such reclassifications, on balance, produce a more accurate regulatory fee assessment. If reclassification is appropriate in certain circumstances, should we consider different calculation methods when reclassified FTEs work on issues that clearly do not benefit certain classes of licensees? If so, how should we adjust our calculation method? In addition, how frequently should the Commission revisit such reclassifications to ensure that the FTEs accurately reflect the work of the relevant Bureau? Are the current reclassifications still appropriate? To what extent does reclassification undermine the Commission's rationale for retaining its current direct/indirect methodology?

E. New Regulatory Fee Categories

31. In the FY 2021 NPRM, we sought comment on “whether we should adopt new regulatory fee categories and on ways to improve our regulatory fee process regarding any and all categories of service.” We invite additional comment in order to help inform our consideration of these issues.

F. Digital Equity and Inclusion

32. Finally, the Commission, as part of its continuing effort to advance digital equity for all, including people of color, persons with disabilities, persons who live in rural or tribal areas, and others who are or have been historically underserved, marginalized, or adversely affected by persistent poverty or inequality, invites comment on any equity-related considerations and benefits (if any) that may be associated with the proposals and issues discussed herein. Specifically, we seek comment on how our proposals may promote or inhibit advances in diversity, equity, inclusion, and accessibility, as well the scope of the Commission's relevant legal authority. We note that diversity and equity considerations, however, do not allow the Commission to shift fees from one party of fee payors to another nor to raise fees for any purpose other than as an offsetting collection in the amount of our annual S&E appropriation.

IV. Procedural Matters

33. Included below are procedural items as well as our current payment and collection methods. We include these payments and collection procedures here as a useful way of reminding regulatory fee payers and the public about these aspects of the annual regulatory fee collection process.

34. Credit Card Transaction Levels. In accordance with Treasury Financial Manual, Volume I, Part 5, Chapter 7000, Section 7045—Limitations on Card Collection Transactions, the highest amount that can be charged on a credit card for transactions with federal agencies is $24,999.99. Transactions greater than $24,999.99 will be rejected. This limit applies to single payments or bundled payments of more than one bill. Multiple transactions to a single agency in one day may be aggregated and treated as a single transaction subject to the $24,999.99 limit. Customers who wish to pay an amount greater than $24,999.99 should consider available electronic alternatives such as Visa or MasterCard debit cards, Automates Clearing House (ACH) debits from a bank account, and wire transfers. Each of these payment options is available after filing regulatory fee information in Fee Filer. Further details will be provided regarding payment methods and procedures at the time of FY 2022 regulatory fee collection in Fact Sheets, https://www.fcc.gov/regfees.

35. Payment Methods. During the fee season for collecting regulatory fees, regulatees can pay their fees by credit card through Pay.gov, ACH, debit card, or by wire transfer. Additional payment instructions are posted on the Commission's website at https://transition.fcc.gov/fees/regfees.html. The receiving bank for all wire payments is the U.S. Treasury, New York, NY (TREAS NYC). Any other form of payment (e.g., checks, cashier's checks, or money orders) will be rejected. For payments by wire, an FCC Form 159-E should still be transmitted via fax so that the Commission can associate the wire payment with the correct regulatory fee information. The fax should be sent to the Commission at (202) 418-2843 at least one hour before initiating the wire transfer (but on the same business day) so as not to delay crediting their account. Regulatees should discuss arrangements (including bank closing schedules) with their bankers several days before they plan to make the wire transfer to allow sufficient time for the transfer to be initiated and completed before the deadline. Complete instructions for making wire payments are posted at https://transition.fcc.gov/fees/wiretran.html.

36. Standard Fee Calculations and Payment Dates. The Commission will accept fee payments made in advance of the window for the payment of regulatory fees. The responsibility for payment of fees by service category is as follows:

• Media Services: Regulatory fees must be paid for initial construction permits that were granted on or before October 1, 2021 for AM/FM radio stations, VHF/UHF broadcast television stations, and satellite television stations. Regulatory fees must be paid for all broadcast facility licenses granted on or before October 1, 2021.

• Wireline (Common Carrier) Services: Regulatory fees must be paid for authorizations that were granted on or before October 1, 2021. In instances where a permit or license is transferred or assigned after October 1, 2021, responsibility for payment rests with the holder of the permit or license as of the fee due date. Audio bridging service providers are included in this category. For Responsible Organizations (RespOrgs) that manage Toll Free Numbers (TFN), regulatory fees should be paid on all working, assigned, and reserved toll free numbers as well as toll free numbers in any other status as defined in § 52.103 of the Commission's rules. The unit count should be based on toll free numbers managed by RespOrgs on or about December 31, 2021.

• Wireless Services: Commercial Mobile Radio Service (CMRS) cellular, mobile, and messaging services (fees based on number of subscribers or telephone number count): Regulatory fees must be paid for authorizations that were granted on or before October 1, 2021. The number of subscribers, units, or telephone numbers on December 31, 2021 will be used as the basis from which to calculate the fee payment. In instances where a permit or license is transferred or assigned after October 1, 2021, responsibility for payment rests with the holder of the permit or license as of the fee due date.

• Wireless Services, Multi-year fees: The first seven regulatory fee categories in our Schedule of Regulatory Fees pay “small multi-year wireless regulatory fees.” Entities pay these regulatory fees in advance for the entire amount period covered by the five-year or ten-year terms of their initial licenses, and pay regulatory fees again only when the license is renewed, or a new license is obtained. We include these fee categories in our rulemaking to publicize our estimates of the number of “small multi-year wireless” licenses that will be renewed or newly obtained in FY 2022.

• Multichannel Video Programming Distributor (MVPD) Services (cable television operators, Cable Television Relay Service (CARS) licensees, direct broadcast satellite (DBS), and internet Protocol TV (IPTV)): Regulatory fees must be paid for the number of basic cable television subscribers as of December 31, 2021. Regulatory fees also must be paid for CARS licenses that were granted on or before October 1, 2021. In instances where a permit or license is transferred or assigned after October 1, 2021, responsibility for payment rests with the holder of the permit or license as of the fee due date. For providers of DBS service and IPTV-based MVPDs, regulatory fees should be paid based on a subscriber count on or about December 31, 2021. In instances where a permit or license is transferred or assigned after October 1, 2021, responsibility for payment rests with the holder of the permit or license as of the fee due date.

• International Services: Regulatory fees must be paid for earth stations that were licensed (or authorized) on or before October 1, 2021. Regulatory fees must also be paid for Geostationary orbit space stations (GSO) and non-geostationary orbit satellite systems (NGSO), and the two NGSO subcategories “Other” and “Less Complex,” that were licensed and operational on or before October 1, 2021. Licensees of small satellites that were licensed and operational on or before October 1, 2021 must also pay regulatory fees. In instances where a permit or license is transferred or assigned after October 1, 2021, responsibility for payment rests with the holder of the permit or license as of the fee due date.

• International Services (Submarine Cable Systems, Terrestrial and Satellite Services): Regulatory fees for submarine cable systems are to be paid on a per cable landing license basis based on lit circuit capacity as of December 31, 2021. Regulatory fees for terrestrial and satellite IBCs are to be paid based on active (used or leased) international bearer circuits as of December 31, 2021, in any terrestrial or satellite transmission facility for the provision of service to an end user or resale carrier. When calculating the number of such active circuits, entities must include circuits used by themselves or their affiliates. For these purposes, “active circuits” include backup and redundant circuits as of December 31, 2021. Whether circuits are used specifically for voice or data is not relevant for purposes of determining that they are active circuits. In instances where a permit or license is transferred or assigned after October 1, 2021, responsibility for payment rests with the holder of the permit or license as of the fee due date.

37. CMRS and Mobile Services Assessments. The Commission will compile data from the Numbering Resource Utilization Forecast (NRUF) report that is based on “assigned” telephone number (subscriber) counts that have been adjusted for porting to net Type 0 ports (“in” and “out”). We have included non-geographic numbers in the calculation of the number of subscribers for each CMRS provider in Table 2 and the CMRS regulatory fee factor proposed in Table 3. CMRS provider regulatory fees will be calculated and should be paid based on the inclusion of non-geographic numbers. CMRS providers can adjust the total number of subscribers, if needed. This information of telephone numbers (subscriber count) will be posted on the Commission's electronic filing and payment system (Fee Filer) along with the carrier's Operating Company Numbers (OCNs).

38. A carrier wishing to revise its telephone number (subscriber) count can do so by accessing Fee Filer and follow the prompts to revise their telephone number counts. Any revisions to the telephone number counts should be accompanied by an explanation or supporting documentation. The Commission will then review the revised count and supporting documentation and either approve or disapprove the submission in Fee Filer. If the submission is disapproved, the Commission will contact the provider to afford the provider an opportunity to discuss its revised subscriber count and/or provide additional supporting documentation. If we receive no response from the provider, or we do not reverse our initial disapproval of the provider's revised count submission, the fee payment must be based on the number of subscribers listed initially in Fee Filer. Once the timeframe for revision has passed, the telephone number counts are final and are the basis upon which CMRS regulatory fees are to be paid. Providers can view their final telephone counts online in Fee Filer. A final CMRS assessment letter will not be mailed out.

39. Because some carriers do not file the NRUF report, they may not see their telephone number counts in Fee Filer. In these instances, the carriers should compute their fee payment using the standard methodology that is currently in place for CMRS Wireless services (i.e., compute their telephone number counts as of December 31, 2021), and submit their fee payment accordingly. Whether a carrier reviews its telephone number counts in Fee Filer or not, the Commission reserves the right to audit the number of telephone numbers for which regulatory fees are paid. In the event that the Commission determines that the number of telephone numbers that are paid is inaccurate, the Commission will bill the carrier for the difference between what was paid and what should have been paid.

V. List of Tables

Table 1
Commenter | Abbreviated commenter name | Date filed
Comments to the FY 2021 Report and Order and NPRM
MD Docket No. 21-190
ACT—The App Association, American Lighting Association (ALA), American Public Gas Association (APGA), Association of Equipment Manufacturers (AEM), Association of Home Appliance Manufacturers (AHAM), Bluetooth SIG, Consumer Technology Association (CTA), Information Technology industry Council (ITI), National Electrical Manufacturers Association (NEMA), North American Association of Food Equipment Manufacturers (NAFEM), Outdoor Power Equipment Institute (OPEI), Plumbing Manufacturers International (PMI), Power Tool Institute (PTI), Telecommunications Industry Association (TIA), and Wi-SUN Alliance | ACT Joint Commenters | 10/21/21
Alliance of Automotive Innovation | Auto Innovators | 10/21/21
Association of Home Appliance Manufacturers | AHAM | 10/21/21
Astro Digital US, Inc | Astro Digital | 10/21/21
Astroscale US | Astroscale | 10/21/21
Computer and Communications Industry Association, Digital Media Association, INCOMPAS, and Internet Association | CCIA Joint Commenters | 10/21/21
Consumer Technology Association | CTA | 10/21/21
DECT Forum | DECT Forum | 10/21/21
Engine | Engine | 10/21/21
Eutelsat Communications SA | Eutelsat | 10/21/21
Hearing Industries Association | HIA | 10/21/21
Information Technology Industry Council | ITI | 10/21/21
Intuitive Machines, LLC | Intuitive Machines | 10/21/21
Low Power Radio Association | LPRA | 10/22/21
Motor and Equipment Manufacturers Association | MEMA | 10/21/21
National Association of Broadcasters | NAB | 10/21/21
National Electrical Manufacturers Association | NEMA | 10/21/21
NCTA—The Internet & Television Association | NCTA | 10/21/21
New America's Open Technology Institute, Public Knowledge, the Benton Institute for Broadband & Society, Access Humboldt, Center for Rural Strategies, Tribal Digital Village, the Institute for Local Self Reliance, and the Schools, Health, Libraries & Broadband Coalition | Public Interest Spectrum Commenters | 10/21/21
Dr. Scott Palo | Palo | 10/21/21
RBC Signals, LLC | RBC Signals | 10/21/21
Spaceflight, Inc | Spaceflight | 10/21/21
TechFreedom | TechFreedom | 10/21/21
Telesat Canada, Kepler Communications Inc., WorldVu Satellites Limited (d/b/a OneWeb), O3b Limited, and SES Americom, Inc | Satellite Coalition | 10/21/21
US Telecom—The Broadband Association | USTelecom ex parte | 10/21/21
Wi-Fi Alliance® | Wi-Fi Alliance | 10/21/21
Wireless Internet Service Providers Association | WISPA | 10/21/21
Reply Comments to FY 2021 Report and Order and NPRM
MD Docket No. 21-190
ABC Television Affiliates Association, CBS Television Network Affiliates Association, FBC Television Affiliates Association, and NBC Television Affiliates | Television Affiliates Associations | 11/5/21
Alabama Broadcasters Association, Alaska Broadcasters Association, Arizona Broadcasters Association, Arkansas Broadcasters Association, California Broadcasters Association, Colorado Broadcasters Association, Connecticut Broadcasters Association, Florida Association of Broadcasters, Georgia Association of Broadcasters, Hawaii Association of Broadcasters, Idaho State Broadcasters Association, Illinois Broadcasters Association, Indiana Broadcasters Association, Iowa Broadcasters Association, Kansas Association of Broadcasters, Kentucky Broadcasters Association, Louisiana Association of Broadcasters, Maine Association of Broadcasters, MD/DC/DE Broadcasters Association, Massachusetts Broadcasters Association, Michigan Association of Broadcasters, Minnesota Broadcasters Association, Mississippi Association of Broadcasters, Missouri Broadcasters Association, Montana Broadcasters Association, Nebraska Broadcasters Association, Nevada Broadcasters Association, New Hampshire Association of Broadcasters, New Jersey Broadcasters Association, New Mexico Broadcasters Association, The New York State Broadcasters Association, Inc., North Carolina Association of Broadcasters, North Dakota Broadcasters Association, Ohio Association of Broadcasters, Oklahoma Association of Broadcasters, Oregon Association of Broadcasters, Pennsylvania Association of Broadcasters, Radio Broadcasters Association of Puerto Rico, Rhode Island Broadcasters Association, South Carolina Broadcasters Association, South Dakota Broadcasters Association, Tennessee Association of Broadcasters, Texas Association of Broadcasters, Utah Broadcasters Association, Vermont Association of Broadcasters, Virginia Association of Broadcasters, Washington State Association of Broadcasters, West Virginia Broadcasters Association, Wisconsin Broadcasters Association, and Wyoming Association of Broadcasters | State Broadcasters Associations | 11/5/21
Consumer Technology Association | CTA | 11/5/21
CTIA—The Wireless Association® | CTIA | 11/5/21
Entertainment Software Association | ESA | 11/5/21
Itron, Inc | Itron | 11/5/21
John Jaworski | Jaworski | 11/5/21
Mobile & Wireless Forum | MWF | 11/5/21
National Association of Broadcasters | NAB | 11/5/21
NCTA—The Internet & Television Association | NCTA | 11/5/21
R Street Institute | R Street | 11/4/21
Dr. Scott Palo | Palo | 11/5/21
Telesat Canada, Kepler Communications Inc., WorldVu Satellites Limited (d/b/a OneWeb), O3b Limited, and SES Americom, Inc | Satellite Coalition | 11/5/21
Utilities Technology Council | UTC | 11/5/21
Wi-Fi Alliance® | Wi-Fi Alliance | 11/5/21
Wireless Internet Service Providers Association | WISPA | 11/5/21
Ex Parte Comments to FY 2021 Report and Order and NPRM
MD Docket No. 21-190
NCTA—The Internet & Television Association | NCTA | 11/15/21
Thomas Lawler | Lawler | 11/16/21
ACT—The App Association, American Lighting Association (ALA), Association of Equipment Manufacturers (AEM), Association of Home Appliance Manufacturers (AHAM), Bluetooth SIG, Consumer Technology Association (CTA), Information Technology industry Council (ITI), National Electrical Manufacturers Association (NEMA), Telecommunications Industry Association (TIA), and Wi-SUN Alliance | NEMA | 11/3/21
Kepler, SES, Telesat | Kepler, SES, Telesat | 3/10/22
National Association of Broadcasters | NAB | 3/3/22
National Association of Broadcasters | NAB | 3/31/22
National Rural Electric Cooperative Association | NRECA | 12/27/21
Open Technology Institute at New America (OTI) and Public Knowledge (PK) | OTI, PK | 12/6/21
Wireless Internet Service Providers Association | WISPA | 12/3/21

Regulatory fees for the categories shaded in gray are collected by the Commission in advance to cover the term of the license and are submitted at the time the application is filed.

Table 2—Revenue Requirements and Pro-Rata Fees
Fee category | FY 2022 payment units | Yrs | FY 2021 revenue estimate | Pro-rated FY 2022 revenue requirement | Computed FY 2022 regulatory fee | Rounded FY 2022 reg. fee | Expected FY 2022 revenue
PLMRS (Exclusive Use) | 750 | 10 | 75,000 | 187,500 | 25.00 | 25 | 187,500
PLMRS (Shared use) | 12,500 | 10 | 990,000 | 1,250,000 | 10.00 | 10 | 1,250,000
Microwave | 18,000 | 10 | 4,750,000 | 4,500,000 | 25.00 | 25 | 4,500,000
Marine (Ship) | 6,900 | 10 | 922,500 | 1,035,000 | 15.00 | 15 | 1,035,500
Aviation (Aircraft) | 4,200 | 10 | 390,000 | 420,000 | 10.00 | 10 | 420,000
Marine (Coast) | 210 | 10 | 16,000 | 84,000 | 40.00 | 40 | 84,000
Aviation (Ground) | 350 | 10 | 110,000 | 70,000 | 20.00 | 20 | 70,000
AM Class A ¹ | 62 | 1 | 290,745 | 326,635 | 5,268 | 5,270 | 326,740
AM Class B ¹ | 1,430 | 1 | 3,610,880 | 4,052,570 | 2,834 | 2,835 | 4,054,050
AM Class C ¹ | 808 | 1 | 1,291,125 | 1,450,902 | 1,796 | 1,795 | 1,450,360
AM Class D ¹ | 1,356 | 1 | 4,267,835 | 4,793,696 | 3,535 | 3,535 | 4,793,460
FM Classes A, B1 & C3 ¹ | 3,045 | 1 | 8,886,395 | 10,109,721 | 3,320 | 3,320 | 10,109,400
FM Classes B, C, C0, C1 & C2 ¹ | 3,118 | 1 | 11,100,080 | 12,379,377 | 3,970 | 3,970 | 12,378,460
AM Construction Permits ² | 5 | 1 | 3,660 | 3,450 | 690 | 690 | 3,450
FM Construction Permits ² | 16 | 1 | 58,850 | 19,360 | 1,210 | 1,210 | 19,360
Digital Television ⁵ (including Satellite TV) | 3.283 billion population | 1 | 25,416,380 | 28,896,824 | .00880277 | .008803 | 28,897,591
Digital TV Construction Permits ² | 4 | 1 | 20,400 | 20,840 | 5,210 | 5,210 | 20,840
LPTV/Class A/Translators FM Trans/Boosters | 5,466 | 1 | 1,649,920 | 1,855,851 | 339.5 | 340 | 1,858,440
CARS Stations | 135 | 1 | 233,250 | 229,890 | 1,702.9 | 1,705 | 230,175
Cable TV Systems, including IPTV & DBS | 65,000,000 | 1 | 76,244,000 | 76,369,621 | 1.1484 | 1.15 | 76,475,000
Interstate Telecommunication Service Providers | $28,800,000,000 | 1 | 120,400,000 | 124,588,996 | 0.004326 | 0.004330 | 124,704,000
Toll Free Numbers | 34,700,000 | 1 | 4,020,000 | 4,280,934 | 0.12337 | 0.12 | 4,164,000
CMRS Mobile Services (Cellular/Public Mobile) | 509,000,000 | 1 | 75,600,000 | 72,687,506 | 0.1436 | 0.14 | 71,260,000
CMRS Messaging Services | 1,500,000 | 1 | 136,000 | 120,000 | 0.0800 | 0.080 | 120,000
BRS/ ³ | 1,225 | 1 | 756,250 | 716,625 | 585 | 585 | 716,625
LMDS | 350 | 1 | 206,910 | 204,750 | 585 | 585 | 204,750
Per Gbps circuit Int'l Bearer Circuits Terrestrial (Common & Non-Common) & Satellite (Common & Non-Common) | 12,000 | 1 | 468,700 | 464,319 | 38.69 | 39 | 468,000
Submarine Cable Providers (See chart at bottom of Table 3) ⁴ | 64.438 | 1 | 8,839,554 | 8,822,058 | 136,909 | 136,910 | 8,822,138
Earth Stations | 2,900 | 1 | 1,785,000 | 1,787,717 | 616.5 | 615 | 1,783,500
Space Stations (Geostationary) | 141 | 1 | 17,177,685 | 17,143,881 | 121,588 | 121,590 | 17,144,190
Space Stations (Non-Geostationary, Other) | 10 | 1 | 3,435,550 | 3,380,200 | 338,020 | 338,020 | 3,380,200
Space Stations (Non-Geostationary, Less Complex) | 6 | 1 | 858,865 | 845,050 | 140,842 | 140,840 | 845,040
Space Stations (Non-Geostationary, Small Satellite) | 5 | 1 | 0 | 60,720 | 12,144 | 12,145 | 60,725
Total Estimated Revenue to be Collected |  |  | 373,920,077 | 383,225,896 |  |  | 381,836,994
Total Revenue Requirement |  |  | 374,000,000 | 381,950,000 |  |  | 381,950,000
Difference |  |  | (79,923) | 1,275,896 |  |  | (113,006)
Notes on Table 2:
¹ The fee amounts listed in the column entitled “Rounded New FY 2022 Regulatory Fee” constitute a weighted average broadcast regulatory fee by class of service. The actual FY 2022 regulatory fees for AM/FM radio station are listed on a grid located at the end of Table 3.
² The AM and FM Construction Permit revenues and the Digital (VHF/UHF) Construction Permit revenues were adjusted, respectively, to set the regulatory fee to an amount no higher than the lowest licensed fee for that class of service. Reductions in the Digital (VHF/UHF) Construction Permit revenues, and in the AM and FM Construction Permit revenues, were offset by increases in the revenue totals for Digital television stations by market size, and in the AM and FM radio stations by class size and population served, respectively.
³ The MDS/MMDS category was renamed Broadband Radio Service (BRS). See Amendment of Parts 1, 21, 73, 74 and 101 of the Commission's Rules to Facilitate the Provision of Fixed and Mobile Broadband Access, Educational and Other Advanced Services in the 2150-2162 and 2500-2690 MHz Bands, Report & Order, 69 FR 72020 (Dec. 10, 2004), and Further Notice of Proposed Rulemaking, 69 FR 72048 (Dec. 10, 2004), 19 FCC Rcd 14165, 14169, para. 6 (2004).
⁴ The chart at the end of Table 3 lists the submarine cable bearer circuit regulatory fees (common and non-common carrier basis) that resulted from the adoption of the Assessment and Collection of Regulatory Fees for Fiscal Year 2008, Report and Order, 73 FR 50201(Aug. 26, 2008), and Further Notice of Proposed Rulemaking, 73 FR 50285 (Aug. 26, 2008), 24 FCC Rcd 6388 (2008) and Assessment and Collection of Regulatory Fees for Fiscal Year 2008, Second Report and Order, 74 FR 36948 (July 27, 2009), 24 FCC Rcd 4208 (2009). The Submarine Cable fee in Table 2 is a weighted average of the various fee payers in the chart at the end of Table 3.
⁵ The actual digital television regulatory fees to be paid by call sign are identified in Table 7.

Regulatory fees for the categories shaded in gray are collected by the Commission in advance to cover the term of the license and are submitted at the time the application is filed.

Table 3—FY 2022 Schedule of Regulatory Fees
Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80, and 90) (Includes Non-Geographic telephone numbers) | .14.
CMRS Messaging Services (per unit) (47 CFR parts 20, 22, 24, and 90) | .08.
Broadband Radio Service (formerly MMDS/MDS) (per license) (47 CFR part 27) | 585.
Local Multipoint Distribution Service (per call sign) (47 CFR part 101) | 585.
AM Radio Construction Permits | 690.
FM Radio Construction Permits | 1,210.
AM and FM Broadcast Radio Station Fees | See Table Below.
Digital TV (47 CFR part 73) VHF and UHF Commercial Fee Factor | $.008803. See Table 7 for fee amounts due, also available at https://www.fcc.gov/licensing-databases/fees/regulatory-fees.
Digital TV Construction Permits | 5,210.
Low Power TV, Class A TV, TV/FM Translators & FM Boosters (47 CFR part 74) | 340.
CARS (47 CFR part 78) | 1,705.
Cable Television Systems (per subscriber) (47 CFR part 76), Including IPTV | 1.15.
Interstate Telecommunication Service Providers (per revenue dollar) | .00433.
Toll Free (per toll free subscriber) (47 CFR (f)) | .12.
Earth Stations (47 CFR part 25) | 615.
Space Stations (per operational station in geostationary orbit) (47 CFR part 25) also includes DBS Service (per operational station) (47 CFR part 100) | 121,590.
Space Stations (per operational system in non-geostationary orbit) (47 CFR part 25) (Other) | 338,020.
Space Stations (per operational system in non-geostationary orbit) (47 CFR part 25) (Less Complex) | 140,840.
Space Stations (per license/call sign in non-geostationary orbit) (47 CFR part 25) (Small Satellite) | 12,145.
International Bearer Circuits—Terrestrial/Satellites (per Gbps circuit) | 39.
Submarine Cable Landing Licenses Fee (per cable system) | See Table Below.

FY 2022 Radio Station Regulatory Fees
Population served | AM Class A | AM Class B | AM Class C | AM Class D | FM Classes A, B1 & C3 | FM Classes B, C, C0, C1 & C2
<=25,000 | $1,105 | $795 | $690 | $760 | $1,210 | $1,380
25,001-75,000 | 1,660 | 1,195 | 1,035 | 1,140 | 1,815 | 2,070
75,001-150,000 | 2,485 | 1,790 | 1,555 | 1,710 | 2,725 | 3,105
150,001-500,000 | 3,735 | 2,685 | 2,330 | 2,570 | 4,090 | 4,665
500,001-1,200,000 | 5,590 | 4,025 | 3,490 | 3,845 | 6,125 | 6,985
1,200,001-3,000,000 | 8,400 | 6,040 | 5,245 | 5,775 | 9,195 | 10,490
3,000,001-6,000,000 | 12,585 | 9,055 | 7,860 | 8,655 | 13,780 | 15,720
>6,000,000 | 18,885 | 13,585 | 11,790 | 12,990 | 20,680 | 23,585

FY 2022 International Bearer Circuits—Submarine Cable Systems
Submarine cable systems (capacity as of December 31, 2021) | Fee ratio (units) | FY 2021 regulatory fees
Less than 50 Gbps | .0625 | $8,560
50 Gbps or greater, but less than 250 Gbps | .125 | 17,115
250 Gbps or greater, but less than 1,500 Gbps | .25 | 34,230
1,500 Gbps or greater, but less than 3,500 Gbps | .5 | 68,455
3,500 Gbps or greater, but less than 6,500 Gbps | 1.0 | 136,910
6,500 Gbps or greater | 2.0 | 273,820

In order to calculate individual service fees for FY 2022, we adjusted FY 2021 payment units for each service to more accurately reflect expected FY 2022 payment liabilities. We obtained our updated estimates through a variety of means and sources. For example, we used Commission licensee data bases, actual prior year payment records and industry and trade association projections, where available. The databases we consulted include our Universal Licensing System (ULS), International Bureau Filing System (IBFS), Consolidated Database System (CDBS), Licensing and Management System (LMS) and Cable Operations and Licensing System (COALS), as well as reports generated within the Commission such as the Wireless Telecommunications Bureau's Numbering Resource Utilization Forecast. Regulatory fee payment units are not all the same for all fee categories. For most fee categories, the term “units” reflect licenses or permits that have been issued, but for other fee categories, the term “units” reflect quantities such as subscribers, population counts, circuit counts, telephone numbers, and revenues.

We sought verification for these estimates from multiple sources and, in all cases, we compared FY 2022 estimates with actual FY 2021 payment units to ensure that our revised estimates were reasonable. Where appropriate, we adjusted and/or rounded our final estimates to take into consideration the fact that certain variables that impact on the number of payment units cannot yet be estimated with sufficient accuracy. These include an unknown number of waivers and/or exemptions that may occur in FY 2022 and the fact that, in many services, the number of actual licensees or station operators fluctuates from time to time due to economic, technical, or other reasons. When we note, for example, that our estimated FY 2022 payment units are based on FY 2021 actual payment units, it does not necessarily mean that our FY 2022 projection is exactly the same number as in FY 2021. We have either rounded the FY 2022 number or adjusted it slightly to account for these variables.

Table 4—Sources of Payment Unit Estimates for FY 2022
Fee category | Sources of payment unit estimates
Land Mobile (All), Microwave, Marine (Ship & Coast), Aviation (Aircraft & Ground), Domestic Public Fixed | Based on Wireless Telecommunications Bureau (WTB) projections of new applications and renewals taking into consideration existing Commission licensee data bases. Aviation (Aircraft) and Marine (Ship) estimates have been adjusted to take into consideration the licensing of portions of these services on a voluntary basis.
CMRS Cellular/Mobile Services | Based on WTB projection reports, and FY 2021 payment data.
CMRS Messaging Services | Based on WTB reports, and FY 2021 payment data.
AM/FM Radio Stations | Based on CDBS data, adjusted for exemptions, and actual FY 2021 payment units.
Digital TV Stations (Combined VHF/UHF units) | Based on LMS data, fee rate adjusted for exemptions, and population figures are calculated based on individual station parameters.
AM/FM/TV Construction Permits | Based on CDBS data, adjusted for exemptions, and actual FY 2021 payment units.
LPTV, Translators and Boosters, Class A Television | Based on LMS data, adjusted for exemptions, and actual FY 2021 payment units.
BRS (formerly MDS/MMDS) LMDS | Based on WTB reports and actual FY 2021 payment units. Based on WTB reports and actual FY 2021 payment units.
Cable Television Relay Service (CARS) Stations | Based on data from Media Bureau's COALS database and actual FY 2021 payment units.
Cable Television System Subscribers, Including IPTV Subscribers | Based on publicly available data sources for estimated subscriber counts, trend information from past payment data, and actual FY 2021 payment units.
Interstate Telecommunication Service Providers | Based on FCC Form 499-A worksheets due in April 2022, and any data assistance provided by the Wireline Competition Bureau.
Earth Stations | Based on International Bureau licensing data and actual FY 2021 payment units.
Space Stations (GSOs & NGSOs) | Based on International Bureau data reports and actual FY 2021 payment units.
International Bearer Circuits | Based on assistance provided by the International Bureau, any data submissions by licensees, adjusted as necessary, and actual FY 2021 payment units.
Submarine Cable Licenses | Based on International Bureau license information, and actual FY 2021 payment units.

Table 5
Factors, Measurements, and Calculations That Determine Station Signal Contours and Associated Population Coverages
AM Stations:
For stations with nondirectional daytime antennas, the theoretical radiation was used at all azimuths. For stations with directional daytime antennas, specific information on each day tower, including field ratio, phase, spacing, and orientation was retrieved, as well as the theoretical pattern root-mean-square of the radiation in all directions in the horizontal plane (RMS) figure (milliVolt per meter (mV/m) @1 km) for the antenna system. The standard, or augmented standard if pertinent, horizontal plane radiation pattern was calculated using techniques and methods specified in §§ 73.150 and 73.152 of the Commission's rules. Radiation values were calculated for each of 360 radials around the transmitter site. Next, estimated soil conductivity data was retrieved from a database representing the information in FCC Figure R3. Using the calculated horizontal radiation values, and the retrieved soil conductivity data, the distance to the principal community (5 mV/m) contour was predicted for each of the 360 radials. The resulting distance to principal community contours were used to form a geographical polygon. Population counting was accomplished by determining which 2010 block centroids were contained in the polygon. (A block centroid is the center point of a small area containing population as computed by the U.S. Census Bureau.) The sum of the population figures for all enclosed blocks represents the total population for the predicted principal community coverage area.
FM Stations:
The greater of the horizontal or vertical effective radiated power (ERP) (kW) and respective height above average terrain (HAAT) (m) combination was used. Where the antenna height above mean sea level (HAMSL) was available, it was used in lieu of the average HAAT figure to calculate specific HAAT figures for each of 360 radials under study. Any available directional pattern information was applied as well, to produce a radial-specific ERP figure. The HAAT and ERP figures were used in conjunction with the Field Strength (50-50) propagation curves specified in 47 CFR 73.313 of the Commission's rules to predict the distance to the principal community (70 dBu (decibel above 1 microVolt per meter) or 3.17 mV/m) contour for each of the 360 radials. The resulting distance to principal community contours were used to form a geographical polygon. Population counting was accomplished by determining which 2010 block centroids were contained in the polygon. The sum of the population figures for all enclosed blocks represents the total population for the predicted principal community coverage area.

Table 6—Satellite Charts for FY 2022 Regulatory Fees
Licensee | Call sign | Satellite name | Type
U.S.-Licensed Space Stations
DIRECTV Enterprises, LLC | S2922 | SKY-B1 | GSO.
DIRECTV Enterprises, LLC | S2640 | DIRECTV T11 | GSO.
DIRECTV Enterprises, LLC | S2711 | DIRECTV RB-1 | GSO.
DIRECTV Enterprises, LLC | S2632 | DIRECTV T8 | GSO.
DIRECTV Enterprises, LLC | S2669 | DIRECTV T9S | GSO.
DIRECTV Enterprises, LLC | S2641 | DIRECTV T10 | GSO.
DIRECTV Enterprises, LLC | S2797 | DIRECTV T12 | GSO.
DIRECTV Enterprises, LLC | S2930 | DIRECTV T15 | GSO.
DIRECTV Enterprises, LLC | S2673 | DIRECTV T5 | GSO.
DIRECTV Enterprises, LLC | S2133 | SPACEWAY 2 | GSO.
DIRECTV Enterprises, LLC | S3039 | DIRECTV T16 | GSO.
DISH Operating L.L.C | S2931 | ECHOSTAR 18 | GSO.
DISH Operating L.L.C | S2738 | ECHOSTAR 11 | GSO.
DISH Operating L.L.C | S2694 | ECHOSTAR 10 | GSO.
DISH Operating L.L.C | S2740 | ECHOSTAR 7 | GSO.
DISH Operating L.L.C | S2790 | ECHOSTAR 14 | GSO.
EchoStar Satellite Operating Corporation | S2811 | ECHOSTAR 15 | GSO.
EchoStar Satellite Operating Corporation | S2844 | ECHOSTAR 16 | GSO.
EchoStar Satellite Services L.L.C | S2179 | ECHOSTAR 9 | GSO.
ES 172 LLC | S2610 | EUTELSAT 174A | GSO.
ES 172 LLC | S3021 | EUTELSAT 172B | GSO
Horizon-3 Satellite LLC | S2947 | HORIZONS-3e | GSO.
Hughes Network Systems, LLC | S2663 | SPACEWAY 3 | GSO.
Hughes Network Systems, LLC | S2834 | ECHOSTAR 19 | GSO.
Hughes Network Systems, LLC | S2753 | ECHOSTAR XVII | GSO.
Intelsat License LLC/ViaSat, Inc | S2160 | GALAXY 28 | GSO.
Intelsat License LLC, Debtor-in-Possession | S2414 | INTELSAT 10-02 | GSO.
Intelsat License LLC, Debtor-in-Possession | S2972 | INTELSAT 37e | GSO.
Intelsat License LLC, Debtor-in-Possession | S2854 | NSS-7 | GSO.
Intelsat License LLC, Debtor-in-Possession | S2409 | INELSAT 905 | GSO.
Intelsat License LLC, Debtor-in-Possession | S2405 | INTELSAT 901 | GSO.
Intelsat License LLC, Debtor-in-Possession | S2408 | INTELSAT 904 | GSO.
Intelsat License LLC, Debtor-in-Possession | S2804 | INTELSAT 25 | GSO.
Intelsat License LLC, Debtor-in-Possession | S2959 | INTELSAT 35e | GSO.
Intelsat License LLC, Debtor-in-Possession | S2237 | INTELSAT 11 | GSO.
Intelsat License LLC, Debtor-in-Possession | S2785 | INTELSAT 14 | GSO.
Intelsat License LLC, Debtor-in-Possession | S2380 | INTELSAT 9 | GSO.
Intelsat License LLC, Debtor-in-Possession | S2831 | INTELSAT 23 | GSO.
Intelsat License LLC, Debtor-in-Possession | S2915 | INTELSAT 34 | GSO.
Intelsat License LLC, Debtor-in-Possession | S2863 | INTELSAT 21 | GSO.
Intelsat License LLC, Debtor-in-Possession | S2750 | INTELSAT 16 | GSO.
Intelsat License LLC, Debtor-in-Possession | S2715 | GALAXY 17 | GSO.
Intelsat License LLC, Debtor-in-Possession | S2154 | GALAXY 25 | GSO.
Intelsat License LLC, Debtor-in-Possession | S2253 | GALAXY 11 | GSO.
Intelsat License LLC, Debtor-in-Possession | S2381 | GALAXY 3C | GSO.
Intelsat License LLC, Debtor-in-Possession | S2887 | INTELSAT 30 | GSO.
Intelsat License LLC, Debtor-in-Possession | S2924 | INTELSAT 31 | GSO.
Intelsat License LLC, Debtor-in-Possession | S2647 | GALAXY 19 | GSO.
Intelsat License LLC, Debtor-in-Possession | S2687 | GALAXY 16 | GSO.
Intelsat License LLC, Debtor-in-Possession | S2733 | GALAXY 18 | GSO.
Intelsat License LLC, Debtor-in-Possession | S2385 | GALAXY 14 | GSO.
Intelsat License LLC, Debtor-in-Possession | S2386 | GALAXY 13 | GSO.
Intelsat License LLC, Debtor-in-Possession | S2422 | GALAXY 12 | GSO.
Intelsat License LLC, Debtor-in-Possession | S2387 | GALAXY 15 | GSO.
Intelsat License LLC, Debtor-in-Possession | S2704 | INTELSAT 5 | GSO.
Intelsat License LLC, Debtor-in-Possession | S2817 | INTELSAT 18 | GSO.
Intelsat License LLC, Debtor-in-Possession | S2960 | JCSAT-RA | GSO.
Intelsat License LLC, Debtor-in-Possession | S2850 | INTELSAT 19 | GSO.
Intelsat License LLC, Debtor-in-Possession | S2368 | INTELSAT 1R | GSO.
Intelsat License LLC, Debtor-in-Possession | S2988 | TELKOM-2 | GSO.
Intelsat License LLC, Debtor-in-Possession | S2789 | INTELSAT 15 | GSO.
Intelsat License LLC, Debtor-in-Possession | S2423 | HORIZONS 2 | GSO.
Intelsat License LLC, Debtor-in-Possession | S2846 | INTELSAT 22 | GSO.
Intelsat License LLC, Debtor-in-Possession | S2847 | INTELSAT 20 | GSO.
Intelsat License LLC, Debtor-in-Possession | S2948 | INTELSAT 36 | GSO.
Intelsat License LLC, Debtor-in-Possession | S2814 | INTELSAT 17 | GSO.
Intelsat License LLC, Debtor-in-Possession | S2410 | INTELSAT 906 | GSO.
Intelsat License LLC, Debtor-in-Possession | S2406 | INTELSAT 902 | GSO.
Intelsat License LLC, Debtor-in-Possession | S2939 | INTELSAT 33e | GSO.
Intelsat License LLC, Debtor-in-Possession | S2382 | INTELSAT 10 | GSO.
Intelsat License LLC, Debtor-in-Possession | S2751 | NEW DAWN | GSO.
Intelsat License LLC, Debtor-in-Possession | S3023 | INTELSAT 39 | GSO.
Leidos, Inc | S2371 | LM-RPS2 | GSO.
Ligado Networks Subsidiary, LLC | S2358 | SKYTERRA-1 | GSO.
Ligado Networks Subsidiary, LLC | AMSC-1 | MSAT-2 | GSO.
Novavision Group, Inc | S2861 | DIRECTV KU-79W | GSO.
Satellite CD Radio LLC | S2812 | FM-6 | GSO.
SES Americom, Inc | S2415 | NSS-10 | GSO.
SES Americom, Inc | S2162 | AMC-3 | GSO.
SES Americom, Inc | S2347 | AMC-6 | GSO.
SES Americom, Inc | S2826 | SES-2 | GSO.
SES Americom, Inc | S2807 | SES-1 | GSO.
SES Americom, Inc | S2892 | SES-3 | GSO.
SES Americom, Inc | S2180 | AMC-15 | GSO.
SES Americom, Inc | S2445 | AMC-1 | GSO.
SES Americom, Inc | S2135 | AMC-4 | GSO.
SES Americom, Inc | S2713 | AMC-18 | GSO.
SES Americom, Inc | S2433 | AMC-11 | GSO.
SES Americom, Inc./Alascom, Inc | S2379 | AMC-8 | GSO.
Sirius XM Radio Inc | S2710 | FM-5 | GSO.
Sirius XM Radio Inc | S3033 | XM-7 | GSO.
Sirius XM Radio Inc | S3034 | XM-8 | GSO.
Skynet Satellite Corporation | S2933 | TELSTAR 12V | GSO.
Skynet Satellite Corporation | S2357 | TELSTAR 11N | GSO.
ViaSat, Inc | S2747 | VIASAT-1 | GSO.
XM Radio LLC | S2617 | XM-3 | GSO.
XM Radio LLC | S2616 | XM-4 | GSO.

Licensee | Call sign | Satellite common name | Satellite type
Non-U.S.-Licensed Space Stations—Market Access Through Petition for Declaratory Ruling
ABS Global Ltd | S2987 | ABS-3A | GSO.
DBSD Services Ltd | S2651 | DBSD G1 | GSO.
Empresa Argentina de Soluciones Satelitales S.A | S2956 | ARSAT-2 | GSO.
European Telecommunications Satellite Organization | S3031 | EUTELSAT 133 WEST A | GSO.
Eutelsat S.A | S3056 | EUTELSAT 8 WEST B | GSO.
Gamma Acquisition L.L.C | S2633 | TerreStar 1 | GSO.
Hispamar Satélites, S.A | S2793 | AMAZONAS-2 | GSO.
Hispamar Satélites, S.A | S2886 | AMAZONAS-3 | GSO.
Hispasat, S.A | S2969 | HISPASAT 30W-6 | GSO.
Inmarsat PLC | S2932 | Inmarsat-4 F3 | GSO.
Inmarsat PLC | S2949 | Inmarsat-3 F5 | GSO.
Intelsat License LLC | S3058 | HISPASAT 143W-1 | GSO.
New Skies Satellites B.V | S2756 | NSS-9 | GSO.
New Skies Satellites B.V | S2870 | SES-6 | GSO.
New Skies Satellites B.V | S3048 | NSS-6 | GSO.
New Skies Satellites B.V | S2828 | SES-4 | GSO.
New Skies Satellites B.V | S2950 | SES-10 | GSO.
Satelites Mexicanos, S.A. de C.V | S2695 | EUTELSAT 113 WEST A | GSO.
Satelites Mexicanos, S.A. de C.V | S2926 | EUTELSAT 117 WEST B | GSO.
Satelites Mexicanos, S.A. de C.V | S2938 | EUTELSAT 115 WEST B | GSO.
Satelites Mexicanos, S.A. de C.V | S2873 | EUTELSAT 117 WEST A | GSO.
SES Satellites (Gibraltar) Ltd | S2676 | AMC 21 | GSO.
SES Americom, Inc | S3037 | NSS-11 | GSO.
SES Americom, Inc | S2964 | SES-11 | GSO.
SES DTH do Brasil Ltda | S2974 | SES-14 | GSO.
SES Satellites (Gibraltar) Ltd | S2951 | SES-15 | GSO.
Embratel Tvsat Telecommunicacoes S.A | S2677 | STAR ONE C1 | GSO.
Embratel Tvsat Telecommunicacoes S.A | S2678 | STAR ONE C2 | GSO.
Embratel Tvsat Telecommunicacoes S.A | S2845 | STAR ONE C3 | GSO
Telesat Brasil Capacidade de Satelites Ltda | S2821 | ESTRELA DO SUL 2 | GSO.
Telesat Canada | S2674 | ANIK F1R | GSO.
Telesat Canada | S2703 | ANIK F3 | GSO.
Telesat Canada | S2646/S2472 | ANIK F2 | GSO.
Telesat International Ltd | S2955 | TELSTAR 19 VANTAGE | GSO.
Viasat, Inc | S2902 | VIASAT-2 | GSO.

ITU name (if available) | Common name | Call sign | GSO/NGSO
Non-U.S.-Licensed Space Stations—Market Access Through Earth Station Licenses
APSTAR VI | APSTAR 6 | M292090 | GSO.
AUSSAT B 152E | OPTUS D2 | M221170 | GSO.
CAN-BSS3 and CAN-BSS | ECHOSTAR 23 | SM1987/SM2975 | GSO.
Ciel Satellite Group | Ciel-2 | E050029 | GSO.
Eutelsat 65 West A | Eutelsat 65 West A | E160081 | GSO.
INMARSAT 3F3 | INMARSAT 3F3 | E000284 | GSO.
INMARSAT 4F1 | INMARSAT 4F1 | KA25 | GSO.
INMARSAT 5F2 | INMARSAT 5F2 | E120072 | GSO.
INMARSAT 5F3 | INMARSAT 5F3 | E150028 | GSO.
JCSAT-2B | JCSAT-2B | M174163 | GSO.
NIMIQ 5 | NIMIQ 5 | E080107 | GSO.
QUETZSAT-1(MEX) | QUETZSAT-1 | NUS1101 | GSO.
Superbird C2 | Superbird C2 | M334100 | GSO.
WILDBLUE-1 | WILDBLUE-1 | E040213 | GSO.
Yamal 300K | Yamal 300K | M174162 | GSO.

ITU name (if available) | Common name | Call sign | NGSO
Non-Geostationary Space Stations (NGSO)
U.S.-Licensed NGSO Systems
ORBCOMM License Corp | ORBCOMM | S2103 | Other.
Iridium Constellation LLC | IRIDIUM | S2110 | Other.
Space Exploration Holdings, LLC | SPACEX Ku/Ka-Band | S2983/S3018 | Other.
Swarm Technologies | SWARM | S3041 | Other.
Planet Labs | Flock/Skysats | S2912 | Less Complex.
Maxar License | WorldView 1,2 & 3, GeoEye-1 | S2129/S2348 | Less Complex.
BlackSky Global | Global | S3032 | Less Complex.
Astro Digital U.S., Inc | LANDMAPPER | S3014 | Less Complex.
Hawkeye 360 | HE360 | S3042 | Less Complex.
Non-U.S.-Licensed NGSO Systems—Market Access Through Petition for Declaratory Ruling
Telesat Canada | TELESAT Ku/Ka-Band | S2976 | Other.
Kepler Communications, Inc | KEPLER | S2981 | Other.
WorldVu Satellites Ltd | ONEWEB | S2963 | Other.
Myriota Pty. Ltd | MYRIOTA | S3047 | Other.
O3b Ltd | O3b | S2935 | Other.
NGSO Systems That Are Partly U.S.-Licensed and Partly Non-U.S.-Licensed With Market Access Through Petition for Declaratory Ruling
Globalstar License LLC | GLOBALSTAR | S2115 | Other.
Spire Global | LEMUR & MINAS | S2946/S3045 | Less Complex.
NGSO Systems Licensed Under the Streamlined Small Satellite Rules
Capella Space Corp | Capella-2, Capella-3, Capella-4 | S3073 | Small Satellite.
Capella Space Corp | Capella-5, Capella-6 | S3080 | Small Satellite.
Loft Orbital Solutions Inc | YAM-2 | S3052 | Small Satellite.
Loft Orbital Solutions Inc | YAM-3 | S3072 | Small Satellite.
R2 Space, Inc | XR-1 | S3067 | Small Satellite.

Table 7—FY 2022 Full-Service Broadcast Television Stations by Call Sign
Facility Id. | Call sign | Service area population | Terrain limited population | Terrain limited fee amount
3246 | KAAH-TV | 955,391 | 879,906 | $7,746
18285 | KAAL | 589,502 | 568,169 | 5,002
11912 | KAAS-TV | 220,262 | 219,922 | 1,936
56528 | KABB | 2,474,296 | 2,456,689 | 21,626
282 | KABC-TV | 17,540,791 | 16,957,292 | 149,275
1236 | KACV-TV | 372,627 | 372,330 | 3,278
33261 | KADN-TV | 877,965 | 877,965 | 7,729
8263 | KAEF-TV | 138,085 | 122,808 | 1,081
2728 | KAET | 4,217,217 | 4,184,386 | 36,835
2767 | KAFT | 1,204,376 | 1,122,928 | 9,885
62442 | KAID | 711,035 | 702,721 | 6,186
4145 | KAII-TV | 188,810 | 165,396 | 1,456
67494 | KAIL | 1,947,635 | 1,914,765 | 16,856
13988 | KAIT | 861,149 | 845,812 | 7,446
40517 | KAJB | 383,886 | 383,195 | 3,373
65522 | KAKE | 803,937 | 799,254 | 7,036
804 | KAKM | 380,240 | 379,105 | 3,337
148 | KAKW-DT | 2,615,956 | 2,531,813 | 22,288
51598 | KALB-TV | 943,307 | 942,043 | 8,293
51241 | KALO | 954,557 | 910,409 | 8,014
40820 | KAMC | 391,526 | 391,502 | 3,446
8523 | KAMR-TV | 366,476 | 366,335 | 3,225
65301 | KAMU-TV | 346,892 | 342,455 | 3,015
2506 | KAPP | 319,797 | 283,944 | 2,500
3658 | KARD | 703,234 | 700,887 | 6,170
23079 | KARE | 3,924,944 | 3,907,483 | 34,398
33440 | KARK-TV | 1,212,038 | 1,196,196 | 10,530
37005 | KARZ-TV | 1,113,486 | 1,095,224 | 9,641
32311 | KASA-TV | 1,161,837 | 1,119,457 | 9,855
41212 | KASN | 1,175,627 | 1,159,721 | 10,209
7143 | KASW | 4,174,437 | 4,160,497 | 36,625
55049 | KASY-TV | 1,145,133 | 1,100,391 | 9,687
33471 | KATC | 1,348,897 | 1,348,897 | 11,874
13813 | KATN | 97,466 | 97,128 | 855
21649 | KATU | 3,030,547 | 2,881,993 | 25,370
33543 | KATV | 1,257,777 | 1,234,933 | 10,871
50182 | KAUT-TV | 1,637,333 | 1,636,330 | 14,405
21488 | KAUU | 381,413 | 380,355 | 3,348
6864 | KAUZ-TV | 381,671 | 379,435 | 3,340
73101 | KAVU-TV | 319,618 | 319,484 | 2,812
49579 | KAWB | 186,919 | 186,845 | 1,645
49578 | KAWE | 136,033 | 133,937 | 1,179
58684 | KAYU-TV | 809,464 | 750,766 | 6,609
29234 | KAZA-TV | 14,973,535 | 13,810,130 | 121,571
17433 | KAZD | 6,776,778 | 6,774,172 | 59,633
1151 | KAZQ | 1,097,010 | 1,084,327 | 9,545
35811 | KAZT-TV | 436,925 | 359,273 | 3,163
4148 | KBAK-TV | 1,510,400 | 1,263,910 | 11,126
16940 | KBCA | 479,260 | 479,219 | 4,219
53586 | KBCB | 1,256,193 | 1,223,883 | 10,774
69619 | KBCW | 8,227,562 | 7,375,199 | 64,924
22685 | KBDI-TV | 4,042,177 | 3,683,394 | 32,425
56384 | KBEH | 17,736,497 | 17,695,306 | 155,772
65395 | KBFD-DT | 953,207 | 834,341 | 7,345
169030 | KBGS-TV | 159,269 | 156,802 | 1,380
61068 | KBHE-TV | 140,860 | 133,082 | 1,172
48556 | KBIM-TV | 205,701 | 205,647 | 1,810
29108 | KBIN-TV | 912,921 | 911,725 | 8,026
33658 | KBJR-TV | 275,585 | 271,298 | 2,388
83306 | KBLN-TV | 297,384 | 134,927 | 1,188
63768 | KBLR | 1,964,979 | 1,915,861 | 16,865
53324 | KBME-TV | 123,571 | 123,485 | 1,087
10150 | KBMT | 743,009 | 742,369 | 6,535
22121 | KBMY | 119,993 | 119,908 | 1,056
49760 | KBOI-TV | 715,191 | 708,374 | 6,236
55370 | KBRR | 149,869 | 149,868 | 1,319
66414 | KBSD-DT | 155,012 | 154,891 | 1,364
66415 | KBSH-DT | 102,781 | 100,433 | 884
19593 | KBSI | 756,501 | 754,722 | 6,644
66416 | KBSL-DT | 49,814 | 48,483 | 427
4939 | KBSV | 1,352,166 | 1,262,708 | 11,116
62469 | KBTC-TV | 3,697,981 | 3,621,965 | 31,884
61214 | KBTV-TV | 734,008 | 734,008 | 6,461
6669 | KBTX-TV | 4,404,648 | 4,401,048 | 38,742
35909 | KBVO | 1,498,015 | 1,312,360 | 11,553
58618 | KBVU | 135,249 | 120,827 | 1,064
6823 | KBYU-TV | 2,389,548 | 2,209,060 | 19,446
33756 | KBZK | 123,523 | 109,131 | 961
21422 | KCAL-TV | 17,499,483 | 16,889,157 | 148,675
11265 | KCAU-TV | 714,315 | 706,224 | 6,217
14867 | KCBA | 3,088,394 | 2,369,803 | 20,861
27507 | KCBD | 414,804 | 414,091 | 3,645
9628 | KCBS-TV | 17,853,152 | 16,656,778 | 146,630
49750 | KCBY-TV | 89,156 | 73,211 | 644
33710 | KCCI | 1,109,952 | 1,102,514 | 9,705
9640 | KCCW-TV | 284,280 | 276,935 | 2,438
63158 | KCDO-TV | 2,798,103 | 2,650,225 | 23,330
62424 | KCDT | 698,389 | 657,101 | 5,784
83913 | KCEB | 417,491 | 417,156 | 3,672
57219 | KCEC | 3,831,192 | 3,613,287 | 31,808
10245 | KCEN-TV | 1,795,767 | 1,757,018 | 15,467
13058 | KCET | 16,875,019 | 15,402,588 | 135,589
18079 | KCFW-TV | 177,697 | 140,192 | 1,234
132606 | KCGE-DT | 123,930 | 123,930 | 1,091
60793 | KCHF | 1,118,671 | 1,085,205 | 9,553
33722 | KCIT | 382,477 | 381,818 | 3,361
62468 | KCKA | 953,680 | 804,362 | 7,081
41969 | KCLO-TV | 138,413 | 132,157 | 1,163
47903 | KCNC-TV | 3,794,400 | 3,541,089 | 31,172
71586 | KCNS | 8,270,858 | 7,381,656 | 64,981
33742 | KCOP-TV | 17,386,133 | 16,647,708 | 146,550
19117 | KCOS | 1,014,396 | 1,014,205 | 8,928
63165 | KCOY-TV | 664,655 | 459,468 | 4,045
33894 | KCPQ | 4,439,875 | 4,312,133 | 37,960
53843 | KCPT | 2,507,879 | 2,506,224 | 22,062
33875 | KCRA-TV | 10,612,483 | 6,500,774 | 57,226
9719 | KCRG-TV | 1,136,762 | 1,107,130 | 9,746
60728 | KCSD-TV | 273,553 | 273,447 | 2,407
59494 | KCSG | 174,814 | 164,765 | 1,450
33749 | KCTS-TV | 4,177,824 | 4,115,603 | 36,230
41230 | KCTV | 2,547,456 | 2,545,645 | 22,409
58605 | KCVU | 684,900 | 674,585 | 5,938
10036 | KCWC-DT | 44,216 | 39,439 | 347
64444 | KCWE | 2,459,924 | 2,458,302 | 21,640
51502 | KCWI-TV | 1,043,811 | 1,042,642 | 9,178
42008 | KCWO-TV | 50,707 | 50,685 | 446
166511 | KCWV | 207,398 | 207,370 | 1,825
24316 | KCWX | 3,961,268 | 3,954,787 | 34,814
68713 | KCWY-DT | 80,904 | 80,479 | 708
22201 | KDAF | 6,648,507 | 6,645,226 | 58,498
33764 | KDBC-TV | 1,015,564 | 1,015,162 | 8,936
79258 | KDCK | 43,088 | 43,067 | 379
166332 | KDCU-DT | 753,204 | 753,190 | 6,630
38375 | KDEN-TV | 3,376,799 | 3,351,182 | 29,500
17037 | KDFI | 6,684,439 | 6,682,487 | 58,826
33770 | KDFW | 6,659,312 | 6,657,023 | 58,602
29102 | KDIN-TV | 1,088,376 | 1,083,845 | 9,541
25454 | KDKA-TV | 3,611,796 | 3,450,690 | 30,376
60740 | KDKF | 71,413 | 64,567 | 568
4691 | KDLH | 263,422 | 260,394 | 2,292
41975 | KDLO-TV | 208,354 | 208,118 | 1,832
55379 | KDLT-TV | 639,284 | 628,281 | 5,531
55375 | KDLV-TV | 96,873 | 96,620 | 851
25221 | KDMD | 375,328 | 373,408 | 3,287
78915 | KDMI | 1,141,990 | 1,140,939 | 10,044
56524 | KDNL-TV | 2,987,219 | 2,982,311 | 26,253
24518 | KDOC-TV | 17,503,793 | 16,701,233 | 147,021
1005 | KDOR-TV | 1,112,060 | 1,108,556 | 9,759
60736 | KDRV | 519,706 | 440,002 | 3,873
61064 | KDSD-TV | 64,314 | 59,635 | 525
53329 | KDSE | 42,896 | 41,432 | 365
56527 | KDSM-TV | 1,096,220 | 1,095,478 | 9,643
49326 | KDTN | 6,602,327 | 6,600,186 | 58,101
83491 | KDTP | 26,564 | 24,469 | 215
33778 | KDTV-DT | 7,959,349 | 7,129,638 | 62,762
67910 | KDTX-TV | 6,680,738 | 6,679,424 | 58,799
126 | KDVR | 3,644,912 | 3,521,884 | 31,003
18084 | KECI-TV | 211,745 | 193,803 | 1,706
51208 | KECY-TV | 399,372 | 394,379 | 3,472
58408 | KEDT | 513,683 | 513,683 | 4,522
55435 | KEET | 177,313 | 159,960 | 1,408
37103 | KEKE | 97,959 | 94,560 | 832
41983 | KELO-TV | 705,364 | 646,126 | 5,688
34440 | KEMO-TV | 8,270,858 | 7,381,656 | 64,981
2777 | KEMV | 619,889 | 559,135 | 4,922
26304 | KENS | 2,544,094 | 2,529,382 | 22,266
63845 | KENV-DT | 47,220 | 40,677 | 358
18338 | KENW | 87,017 | 87,017 | 766
50591 | KEPB-TV | 576,964 | 523,655 | 4,610
56029 | KEPR-TV | 453,259 | 433,260 | 3,814
49324 | KERA-TV | 6,681,083 | 6,677,852 | 58,785
40878 | KERO-TV | 1,285,357 | 1,164,979 | 10,255
61067 | KESD-TV | 166,018 | 159,195 | 1,401
25577 | KESQ-TV | 1,334,172 | 572,057 | 5,036
50205 | KETA-TV | 1,702,441 | 1,688,227 | 14,861
62182 | KETC | 2,913,924 | 2,911,313 | 25,628
37101 | KETD | 3,323,570 | 3,285,231 | 28,920
2768 | KETG | 426,883 | 409,511 | 3,605
12895 | KETH-TV | 6,088,821 | 6,088,677 | 53,599
55643 | KETK-TV | 1,031,567 | 1,030,122 | 9,068
2770 | KETS | 1,185,111 | 1,166,796 | 10,271
53903 | KETV | 1,355,714 | 1,350,740 | 11,891
92872 | KETZ | 526,890 | 523,877 | 4,612
68853 | KEYC-TV | 544,900 | 531,079 | 4,675
33691 | KEYE-TV | 2,732,257 | 2,652,529 | 23,350
60637 | KEYT-TV | 1,419,564 | 1,239,577 | 10,912
83715 | KEYU | 339,348 | 339,302 | 2,987
34406 | KEZI | 1,113,171 | 1,065,880 | 9,383
34412 | KFBB-TV | 93,519 | 91,964 | 810
125 | KFCT | 795,114 | 788,747 | 6,943
51466 | KFDA-TV | 385,064 | 383,977 | 3,380
22589 | KFDM | 732,665 | 732,588 | 6,449
65370 | KFDX-TV | 381,703 | 381,318 | 3,357
49264 | KFFV | 4,020,926 | 3,987,153 | 35,099
12729 | KFFX-TV | 409,952 | 403,692 | 3,554
83992 | KFJX | 515,708 | 505,647 | 4,451
42122 | KFMB-TV | 3,947,735 | 3,699,981 | 32,571
53321 | KFME | 393,045 | 392,472 | 3,455
74256 | KFNB | 80,382 | 79,842 | 703
21613 | KFNE | 54,988 | 54,420 | 479
21612 | KFNR | 10,988 | 10,965 | 97
66222 | KFOR-TV | 1,616,459 | 1,615,614 | 14,222
33716 | KFOX-TV | 1,023,999 | 1,018,549 | 8,966
41517 | KFPH-DT | 347,579 | 282,838 | 2,490
81509 | KFPX-TV | 963,969 | 963,846 | 8,485
31597 | KFQX | 186,473 | 163,637 | 1,440
59013 | KFRE-TV | 1,721,275 | 1,705,484 | 15,013
51429 | KFSF-DT | 7,348,828 | 6,528,430 | 57,470
66469 | KFSM-TV | 906,728 | 884,919 | 7,790
8620 | KFSN-TV | 1,836,607 | 1,819,585 | 16,018
29560 | KFTA-TV | 818,859 | 809,173 | 7,123
83714 | KFTC | 61,990 | 61,953 | 545
60537 | KFTH-DT | 6,080,688 | 6,080,373 | 53,526
60549 | KFTR-DT | 17,560,679 | 16,305,726 | 143,539
61335 | KFTS | 74,936 | 65,126 | 573
81441 | KFTU-DT | 113,876 | 109,731 | 966
34439 | KFTV-DT | 1,794,984 | 1,779,917 | 15,669
664 | KFVE | 82,902 | 73,553 | 647
592 | KFVS-TV | 895,871 | 873,777 | 7,692
29015 | KFWD | 6,666,428 | 6,660,565 | 58,633
35336 | KFXA | 875,538 | 874,070 | 7,694
17625 | KFXB-TV | 373,280 | 368,466 | 3,244
70917 | KFXK-TV | 934,043 | 931,791 | 8,203
84453 | KFXL-TV | 862,531 | 854,678 | 7,524
56079 | KFXV | 1,225,732 | 1,225,732 | 10,790
41427 | KFYR-TV | 130,881 | 128,301 | 1,129
25685 | KGAN | 1,083,213 | 1,057,597 | 9,310
34457 | KGBT-TV | 1,239,001 | 1,238,870 | 10,906
7841 | KGCW | 949,575 | 945,476 | 8,323
24485 | KGEB | 1,186,225 | 1,150,201 | 10,125
34459 | KGET-TV | 917,927 | 874,332 | 7,697
53320 | KGFE | 114,564 | 114,564 | 1,009
7894 | KGIN | 230,535 | 228,338 | 2,010
83945 | KGLA-DT | 1,645,641 | 1,645,641 | 14,487
34445 | KGMB | 953,398 | 851,088 | 7,492
58608 | KGMC | 1,936,675 | 1,914,168 | 16,850
36914 | KGMD-TV | 94,323 | 93,879 | 826
36920 | KGMV | 193,564 | 162,230 | 1,428
10061 | KGNS-TV | 267,236 | 259,548 | 2,285
34470 | KGO-TV | 8,637,074 | 7,929,294 | 69,802
56034 | KGPE | 1,699,131 | 1,682,082 | 14,807
81694 | KGPX-TV | 685,626 | 624,955 | 5,501
25511 | KGTF | 161,885 | 160,568 | 1,413
40876 | KGTV | 3,960,667 | 3,682,219 | 32,415
36918 | KGUN-TV | 1,398,527 | 1,212,484 | 10,673
34874 | KGW | 3,026,617 | 2,878,510 | 25,340
63177 | KGWC-TV | 80,475 | 80,009 | 704
63162 | KGWL-TV | 38,125 | 38,028 | 335
63166 | KGWN-TV | 469,467 | 440,388 | 3,877
63170 | KGWR-TV | 51,315 | 50,957 | 449
4146 | KHAW-TV | 95,204 | 94,851 | 835
60353 | KHBS | 631,770 | 608,052 | 5,353
27300 | KHCE-TV | 2,353,883 | 2,348,391 | 20,673
26431 | KHET | 959,060 | 944,568 | 8,315
21160 | KHGI-TV | 233,973 | 229,173 | 2,017
36917 | KHII-TV | 953,895 | 851,585 | 7,497
29085 | KHIN | 1,041,244 | 1,039,383 | 9,150
17688 | KHME | 181,345 | 179,706 | 1,582
47670 | KHMT | 175,601 | 170,957 | 1,505
47987 | KHNE-TV | 203,931 | 202,944 | 1,787
34867 | KHNL | 953,398 | 851,088 | 7,492
60354 | KHOG-TV | 765,360 | 702,984 | 6,188
4144 | KHON-TV | 953,207 | 886,431 | 7,803
34529 | KHOU | 6,083,336 | 6,081,785 | 53,538
4690 | KHQA-TV | 318,469 | 316,134 | 2,783
34537 | KHQ-TV | 822,371 | 774,821 | 6,821
30601 | KHRR | 1,227,847 | 1,166,890 | 10,272
34348 | KHSD-TV | 188,735 | 185,202 | 1,630
24508 | KHSL-TV | 625,904 | 608,850 | 5,360
69677 | KHSV | 2,059,794 | 2,020,045 | 17,782
64544 | KHVO | 94,226 | 93,657 | 824
23394 | KIAH | 6,099,694 | 6,099,297 | 53,692
34564 | KICU-TV | 8,233,041 | 7,174,316 | 63,156
56028 | KIDK | 305,509 | 302,535 | 2,663
58560 | KIDY | 116,614 | 116,596 | 1,026
53382 | KIEM-TV | 174,390 | 160,801 | 1,416
66258 | KIFI-TV | 324,422 | 320,118 | 2,818
16950 | KIFR | 2,180,045 | 2,160,460 | 19,019
10188 | KIII | 569,864 | 566,796 | 4,990
29095 | KIIN | 1,365,215 | 1,335,707 | 11,758
34527 | KIKU | 953,896 | 850,963 | 7,491
63865 | KILM | 17,256,205 | 15,804,489 | 139,127
56033 | KIMA-TV | 308,604 | 260,593 | 2,294
66402 | KIMT | 654,083 | 643,384 | 5,664
67089 | KINC | 2,002,066 | 1,920,903 | 16,910
34847 | KING-TV | 4,074,288 | 4,036,926 | 35,537
51708 | KINT-TV | 1,015,582 | 1,015,274 | 8,937
26249 | KION-TV | 2,400,317 | 855,808 | 7,534
62427 | KIPT | 171,405 | 170,455 | 1,501
66781 | KIRO-TV | 4,058,101 | 4,030,968 | 35,485
62430 | KISU-TV | 311,827 | 307,651 | 2,708
12896 | KITU-TV | 712,362 | 712,362 | 6,271
64548 | KITV | 953,207 | 839,906 | 7,394
59255 | KIVI-TV | 710,819 | 702,619 | 6,185
47285 | KIXE-TV | 467,518 | 428,118 | 3,769
13792 | KJJC-TV | 82,749 | 81,865 | 721
14000 | KJLA | 17,929,100 | 16,794,896 | 147,845
20015 | KJNP-TV | 98,403 | 98,097 | 864
53315 | KJRE | 16,187 | 16,170 | 142
59439 | KJRH-TV | 1,416,108 | 1,397,311 | 12,301
55364 | KJRR | 45,515 | 44,098 | 388
7675 | KJTL | 379,594 | 379,263 | 3,339
55031 | KJTV-TV | 406,283 | 406,260 | 3,576
13814 | KJUD | 31,229 | 30,106 | 265
36607 | KJZZ-TV | 2,388,965 | 2,209,183 | 19,447
83180 | KKAI | 953,400 | 919,742 | 8,096
58267 | KKAP | 957,786 | 923,172 | 8,127
24766 | KKCO | 206,018 | 172,628 | 1,520
35097 | KKJB | 629,939 | 624,784 | 5,500
22644 | KKPX-TV | 7,588,288 | 6,758,490 | 59,495
35037 | KKTV | 2,892,126 | 2,478,864 | 21,821
35042 | KLAS-TV | 2,094,297 | 1,940,030 | 17,078
52907 | KLAX-TV | 367,212 | 366,839 | 3,229
3660 | KLBK-TV | 387,783 | 387,743 | 3,413
65523 | KLBY | 31,102 | 31,096 | 274
38430 | KLCS | 16,875,019 | 15,402,588 | 135,589
77719 | KLCW-TV | 381,889 | 381,816 | 3,361
51479 | KLDO-TV | 250,832 | 250,832 | 2,208
37105 | KLEI | 175,045 | 138,087 | 1,216
56032 | KLEW-TV | 164,908 | 148,256 | 1,305
35059 | KLFY-TV | 1,355,890 | 1,355,409 | 11,932
54011 | KLJB | 1,027,104 | 1,012,309 | 8,911
11264 | KLKN | 1,161,979 | 1,122,111 | 9,878
52593 | KLML | 270,089 | 218,544 | 1,924
47975 | KLNE-TV | 123,324 | 123,246 | 1,085
38590 | KLPA-TV | 414,699 | 414,447 | 3,648
38588 | KLPB-TV | 749,053 | 749,053 | 6,594
749 | KLRN | 2,374,472 | 2,353,440 | 20,717
11951 | KLRT-TV | 1,171,678 | 1,152,541 | 10,146
8564 | KLRU | 2,614,658 | 2,575,518 | 22,672
8322 | KLSR-TV | 564,415 | 508,157 | 4,473
31114 | KLST | 199,067 | 169,551 | 1,493
24436 | KLTJ | 6,034,131 | 6,033,867 | 53,116
38587 | KLTL-TV | 423,574 | 423,574 | 3,729
38589 | KLTM-TV | 694,280 | 688,915 | 6,065
38591 | KLTS-TV | 947,141 | 944,257 | 8,312
68540 | KLTV | 1,069,690 | 1,051,361 | 9,255
12913 | KLUJ-TV | 1,195,751 | 1,195,751 | 10,526
57220 | KLUZ-TV | 1,079,718 | 1,019,302 | 8,973
11683 | KLVX | 2,044,150 | 1,936,083 | 17,043
82476 | KLWB | 1,065,748 | 1,065,748 | 9,382
40250 | KLWY | 541,043 | 538,231 | 4,738
64551 | KMAU | 213,060 | 188,953 | 1,663
51499 | KMAX-TV | 10,767,605 | 7,132,240 | 62,785
65686 | KMBC-TV | 2,506,035 | 2,504,622 | 22,048
35183 | KMCB | 69,357 | 66,203 | 583
41237 | KMCC | 2,064,592 | 2,010,262 | 17,696
42636 | KMCI-TV | 2,429,392 | 2,428,626 | 21,379
38584 | KMCT-TV | 267,004 | 266,880 | 2,349
22127 | KMCY | 71,797 | 71,793 | 632
162016 | KMDE | 35,409 | 35,401 | 312
26428 | KMEB | 221,810 | 203,470 | 1,791
39665 | KMEG | 708,748 | 704,130 | 6,198
35123 | KMEX-DT | 17,628,354 | 16,318,720 | 143,654
40875 | KMGH-TV | 3,815,224 | 3,574,344 | 31,465
35131 | KMID | 383,449 | 383,439 | 3,375
16749 | KMIR-TV | 2,760,914 | 730,764 | 6,433
63164 | KMIZ | 532,025 | 530,008 | 4,666
53541 | KMLM-DT | 293,290 | 293,290 | 2,582
52046 | KMLU | 711,951 | 708,107 | 6,233
47981 | KMNE-TV | 47,232 | 44,189 | 389
24753 | KMOH-TV | 199,885 | 184,283 | 1,622
4326 | KMOS-TV | 804,745 | 803,129 | 7,070
41425 | KMOT | 81,517 | 79,504 | 700
70034 | KMOV | 3,035,077 | 3,029,405 | 26,668
51488 | KMPH-TV | 1,725,397 | 1,697,871 | 14,946
73701 | KMPX | 6,678,829 | 6,674,706 | 58,757
44052 | KMSB | 1,321,614 | 1,039,442 | 9,150
68883 | KMSP-TV | 3,832,040 | 3,805,141 | 33,497
12525 | KMSS-TV | 1,068,120 | 1,066,388 | 9,387
43095 | KMTP-TV | 5,252,062 | 4,457,617 | 39,240
35189 | KMTR | 589,948 | 520,666 | 4,583
35190 | KMTV-TV | 1,346,549 | 1,344,796 | 11,838
77063 | KMTW | 761,521 | 761,516 | 6,704
35200 | KMVT | 184,647 | 176,351 | 1,552
32958 | KMVU-DT | 308,150 | 231,506 | 2,038
86534 | KMYA-DT | 200,764 | 200,719 | 1,767
51518 | KMYS | 2,273,888 | 2,267,913 | 19,964
54420 | KMYT-TV | 1,314,197 | 1,302,378 | 11,465
35822 | KMYU | 133,563 | 130,198 | 1,146
993 | KNAT-TV | 1,157,630 | 1,124,619 | 9,900
24749 | KNAZ-TV | 332,321 | 227,658 | 2,004
47906 | KNBC | 17,859,647 | 16,555,232 | 145,736
81464 | KNBN | 145,493 | 136,995 | 1,206
9754 | KNCT | 1,751,838 | 1,726,148 | 15,195
82611 | KNDB | 118,154 | 118,122 | 1,040
82615 | KNDM | 72,216 | 72,209 | 636
12395 | KNDO | 314,875 | 270,892 | 2,385
12427 | KNDU | 475,612 | 462,556 | 4,072
17683 | KNEP | 101,389 | 95,890 | 844
48003 | KNHL | 277,777 | 277,308 | 2,441
125710 | KNIC-DT | 2,398,296 | 2,383,294 | 20,980
59363 | KNIN-TV | 708,289 | 703,838 | 6,196
48525 | KNLC | 2,981,508 | 2,978,979 | 26,224
48521 | KNLJ | 655,000 | 642,705 | 5,658
84215 | KNMD-TV | 1,135,642 | 1,108,358 | 9,757
55528 | KNME-TV | 1,148,741 | 1,105,095 | 9,728
47707 | KNMT | 2,887,142 | 2,794,995 | 24,604
48975 | KNOE-TV | 733,097 | 729,703 | 6,424
49273 | KNOP-TV | 87,904 | 85,423 | 752
10228 | KNPB | 604,614 | 462,732 | 4,073
55362 | KNRR | 25,957 | 25,931 | 228
35277 | KNSD | 3,861,660 | 3,618,321 | 31,852
19191 | KNSN-TV | 611,981 | 459,485 | 4,045
23302 | KNSO | 1,824,786 | 1,803,796 | 15,879
35280 | KNTV | 8,525,818 | 8,027,505 | 70,666
144 | KNVA | 2,550,225 | 2,529,184 | 22,264
33745 | KNVN | 495,902 | 470,252 | 4,140
69692 | KNVO | 1,247,014 | 1,247,014 | 10,977
29557 | KNWA-TV | 822,906 | 804,682 | 7,084
59440 | KNXV-TV | 4,183,943 | 4,173,022 | 36,735
59014 | KOAA-TV | 1,608,528 | 1,203,731 | 10,596
50588 | KOAB-TV | 207,070 | 203,371 | 1,790
50590 | KOAC-TV | 1,957,282 | 1,543,401 | 13,587
58552 | KOAM-TV | 595,307 | 584,921 | 5,149
53928 | KOAT-TV | 1,132,372 | 1,105,116 | 9,728
35313 | KOB | 1,152,841 | 1,113,162 | 9,799
35321 | KOBF | 201,911 | 166,177 | 1,463
8260 | KOBI | 562,463 | 519,063 | 4,569
62272 | KOBR | 211,709 | 211,551 | 1,862
50170 | KOCB | 1,629,783 | 1,629,152 | 14,341
4328 | KOCE-TV | 17,446,133 | 16,461,581 | 144,911
84225 | KOCM | 1,434,325 | 1,433,605 | 12,620
12508 | KOCO-TV | 1,716,569 | 1,708,085 | 15,036
83181 | KOCW | 83,807 | 83,789 | 738
18283 | KODE-TV | 740,156 | 731,512 | 6,440
66195 | KOED-TV | 1,497,297 | 1,459,833 | 12,851
50198 | KOET | 658,606 | 637,640 | 5,613
51189 | KOFY-TV | 5,252,062 | 4,457,617 | 39,240
34859 | KOGG | 190,829 | 161,310 | 1,420
166534 | KOHD | 201,310 | 197,662 | 1,740
35380 | KOIN | 3,028,482 | 2,881,460 | 25,365
35388 | KOKH-TV | 1,627,116 | 1,625,246 | 14,307
11910 | KOKI-TV | 1,366,220 | 1,352,227 | 11,904
48663 | KOLD-TV | 1,216,228 | 887,754 | 7,815
7890 | KOLN | 1,225,400 | 1,190,178 | 10,477
63331 | KOLO-TV | 959,178 | 826,985 | 7,280
28496 | KOLR | 1,076,144 | 1,038,613 | 9,143
21656 | KOMO-TV | 4,132,260 | 4,087,435 | 35,982
65583 | KOMU-TV | 551,658 | 542,544 | 4,776
35396 | KONG | 4,006,008 | 3,985,271 | 35,082
60675 | KOOD | 113,416 | 113,285 | 997
50589 | KOPB-TV | 3,059,231 | 2,875,815 | 25,316
2566 | KOPX-TV | 1,501,110 | 1,500,883 | 13,212
64877 | KORO | 560,983 | 560,983 | 4,938
6865 | KOSA-TV | 340,978 | 338,070 | 2,976
34347 | KOTA-TV | 174,876 | 152,861 | 1,346
8284 | KOTI | 298,175 | 97,132 | 855
35434 | KOTV-DT | 1,417,753 | 1,403,838 | 12,358
56550 | KOVR | 10,784,477 | 7,162,989 | 63,056
51101 | KOZJ | 429,982 | 427,991 | 3,768
51102 | KOZK | 839,841 | 834,308 | 7,344
3659 | KOZL-TV | 992,495 | 963,281 | 8,480
35455 | KPAX-TV | 206,895 | 193,201 | 1,701
67868 | KPAZ-TV | 4,190,080 | 4,176,323 | 36,764
6124 | KPBS | 3,584,237 | 3,463,189 | 30,486
50044 | KPBT-TV | 340,080 | 340,080 | 2,994
77452 | KPCB-DT | 30,861 | 30,835 | 271
35460 | KPDX | 2,970,703 | 2,848,423 | 25,075
12524 | KPEJ-TV | 368,212 | 368,208 | 3,241
41223 | KPHO-TV | 4,195,073 | 4,175,139 | 36,754
61551 | KPIC | 156,687 | 105,807 | 931
86205 | KPIF | 265,080 | 258,174 | 2,273
25452 | KPIX-TV | 8,226,463 | 7,360,625 | 64,796
58912 | KPJK | 7,884,411 | 6,955,179 | 61,226
166510 | KPJR-TV | 3,402,088 | 3,372,831 | 29,691
13994 | KPLC | 1,406,085 | 1,403,853 | 12,358
41964 | KPLO-TV | 55,827 | 52,765 | 464
35417 | KPLR-TV | 2,991,598 | 2,988,106 | 26,304
12144 | KPMR | 1,731,370 | 1,473,251 | 12,969
47973 | KPNE-TV | 92,675 | 89,021 | 784
35486 | KPNX | 4,180,982 | 4,176,442 | 36,765
77512 | KPNZ | 2,394,311 | 2,208,707 | 19,443
73998 | KPOB-TV | 144,525 | 143,656 | 1,265
26655 | KPPX-TV | 4,186,998 | 4,171,450 | 36,721
53117 | KPRC-TV | 6,099,422 | 6,099,076 | 53,690
48660 | KPRY-TV | 42,521 | 42,426 | 373
61071 | KPSD-TV | 19,886 | 18,799 | 165
53544 | KPTB-DT | 322,780 | 320,646 | 2,823
81445 | KPTF-DT | 84,512 | 84,512 | 744
77451 | KPTH | 660,556 | 655,373 | 5,769
51491 | KPTM | 1,414,998 | 1,414,014 | 12,448
33345 | KPTS | 832,000 | 827,866 | 7,288
50633 | KPTV | 2,998,460 | 2,847,263 | 25,064
82575 | KPTW | 80,374 | 80,012 | 704
1270 | KPVI-DT | 271,379 | 264,204 | 2,326
58835 | KPXB-TV | 6,062,458 | 6,062,238 | 53,366
68695 | KPXC-TV | 3,362,518 | 3,341,951 | 29,419
68834 | KPXD-TV | 6,555,157 | 6,553,373 | 57,689
33337 | KPXE-TV | 2,437,178 | 2,436,024 | 21,444
5801 | KPXG-TV | 3,026,219 | 2,882,598 | 25,376
81507 | KPXJ | 1,138,632 | 1,135,626 | 9,997
61173 | KPXL-TV | 2,257,007 | 2,243,520 | 19,750
35907 | KPXM-TV | 3,507,312 | 3,506,503 | 30,868
58978 | KPXN-TV | 17,256,205 | 15,804,489 | 139,127
77483 | KPXO-TV | 953,329 | 913,341 | 8,040
21156 | KPXR-TV | 828,915 | 821,250 | 7,229
10242 | KQCA | 10,077,891 | 6,276,197 | 55,249
41430 | KQCD-TV | 35,623 | 33,415 | 294
18287 | KQCK | 3,220,160 | 3,162,711 | 27,841
78322 | KQCW-DT | 1,128,198 | 1,123,324 | 9,889
35525 | KQDS-TV | 304,935 | 301,439 | 2,654
35500 | KQED | 8,195,398 | 7,283,828 | 64,120
35663 | KQEH | 8,195,398 | 7,283,828 | 64,120
8214 | KQET | 2,981,040 | 2,076,157 | 18,276
5471 | KQIN | 596,371 | 596,277 | 5,249
17686 | KQME | 188,783 | 184,719 | 1,626
61063 | KQSD-TV | 32,526 | 31,328 | 276
8378 | KQSL | 196,316 | 139,439 | 1,227
20427 | KQTV | 1,494,987 | 1,401,160 | 12,334
78921 | KQUP | 697,016 | 551,824 | 4,858
306 | KRBC-TV | 229,395 | 229,277 | 2,018
166319 | KRBK | 983,888 | 966,187 | 8,505
22161 | KRCA | 17,540,791 | 16,957,292 | 149,275
57945 | KRCB | 8,783,441 | 8,503,802 | 74,859
41110 | KRCG | 684,989 | 662,418 | 5,831
8291 | KRCR-TV | 423,000 | 402,594 | 3,544
10192 | KRCW-TV | 2,966,912 | 2,842,523 | 25,023
49134 | KRDK-TV | 349,941 | 349,929 | 3,080
52579 | KRDO-TV | 2,622,603 | 2,272,383 | 20,004
70578 | KREG-TV | 149,306 | 95,141 | 838
34868 | KREM | 817,619 | 752,113 | 6,621
51493 | KREN-TV | 810,039 | 681,212 | 5,997
70596 | KREX-TV | 145,700 | 145,606 | 1,282
70579 | KREY-TV | 74,963 | 65,700 | 578
48589 | KREZ-TV | 148,079 | 105,121 | 925
43328 | KRGV-TV | 1,247,057 | 1,247,029 | 10,978
82698 | KRII | 133,840 | 132,912 | 1,170
29114 | KRIN | 949,313 | 923,735 | 8,132
25559 | KRIS-TV | 565,052 | 563,805 | 4,963
22204 | KRIV | 6,078,936 | 6,078,846 | 53,512
14040 | KRMA-TV | 3,722,512 | 3,564,949 | 31,382
14042 | KRMJ | 174,094 | 159,511 | 1,404
20476 | KRMT | 2,956,144 | 2,864,236 | 25,214
84224 | KRMU | 85,274 | 72,499 | 638
20373 | KRMZ | 36,293 | 33,620 | 296
47971 | KRNE-TV | 47,473 | 38,273 | 337
60307 | KRNV-DT | 955,490 | 792,543 | 6,977
65526 | KRON-TV | 8,573,167 | 8,028,256 | 70,673
53539 | KRPV-DT | 65,943 | 65,943 | 580
48575 | KRQE | 1,135,461 | 1,105,093 | 9,728
57431 | KRSU-TV | 1,000,289 | 998,310 | 8,788
82613 | KRTN-TV | 84,231 | 68,550 | 603
35567 | KRTV | 92,645 | 90,849 | 800
84157 | KRWB-TV | 111,538 | 110,979 | 977
35585 | KRWF | 85,596 | 85,596 | 754
55516 | KRWG-TV | 894,492 | 661,703 | 5,825
48360 | KRXI-TV | 725,391 | 548,865 | 4,832
307 | KSAN-TV | 135,063 | 135,051 | 1,189
11911 | KSAS-TV | 752,513 | 752,504 | 6,624
53118 | KSAT-TV | 2,539,658 | 2,502,246 | 22,027
35584 | KSAX | 365,209 | 365,209 | 3,215
35587 | KSAZ-TV | 4,203,126 | 4,178,448 | 36,783
38214 | KSBI | 1,577,231 | 1,575,865 | 13,872
19653 | KSBW | 5,083,461 | 4,429,165 | 38,990
19654 | KSBY | 535,029 | 495,562 | 4,362
82910 | KSCC | 517,740 | 517,740 | 4,558
10202 | KSCE | 1,015,148 | 1,010,581 | 8,896
35608 | KSCI | 17,446,133 | 16,461,581 | 144,911
72348 | KSCW-DT | 915,691 | 910,511 | 8,015
46981 | KSDK | 2,986,776 | 2,979,047 | 26,225
35594 | KSEE | 1,761,193 | 1,746,282 | 15,373
48658 | KSFY-TV | 670,536 | 607,844 | 5,351
17680 | KSGW-TV | 62,178 | 57,629 | 507
59444 | KSHB-TV | 2,432,205 | 2,431,273 | 21,402
73706 | KSHV-TV | 943,947 | 942,978 | 8,301
29096 | KSIN-TV | 340,143 | 338,811 | 2,983
34846 | KSIX-TV | 74,884 | 74,884 | 659
35606 | KSKN | 731,818 | 643,590 | 5,666
70482 | KSLA | 1,017,556 | 1,016,667 | 8,950
6359 | KSL-TV | 2,390,742 | 2,206,920 | 19,428
71558 | KSMN | 320,813 | 320,808 | 2,824
33336 | KSMO-TV | 2,401,201 | 2,398,686 | 21,116
28510 | KSMQ-TV | 524,391 | 507,983 | 4,472
35611 | KSMS-TV | 1,589,263 | 882,948 | 7,773
21161 | KSNB-TV | 658,560 | 656,650 | 5,780
72359 | KSNC | 174,135 | 173,744 | 1,529
67766 | KSNF | 621,919 | 617,868 | 5,439
72361 | KSNG | 145,058 | 144,822 | 1,275
72362 | KSNK | 48,715 | 45,414 | 400
67335 | KSNT | 622,818 | 594,604 | 5,234
10179 | KSNV | 1,967,781 | 1,919,296 | 16,896
72358 | KSNW | 791,403 | 791,127 | 6,964
61956 | KSPS-TV | 819,101 | 769,852 | 6,777
52953 | KSPX-TV | 7,078,228 | 5,275,946 | 46,444
166546 | KSQA | 382,328 | 374,290 | 3,295
53313 | KSRE | 75,181 | 75,181 | 662
35843 | KSTC-TV | 3,843,788 | 3,835,674 | 33,765
63182 | KSTF | 51,317 | 51,122 | 450
28010 | KSTP-TV | 3,788,898 | 3,782,053 | 33,293
60534 | KSTR-DT | 6,632,577 | 6,629,296 | 58,358
64987 | KSTS | 8,363,473 | 7,264,852 | 63,952
22215 | KSTU | 2,384,996 | 2,201,716 | 19,382
23428 | KSTW | 4,265,956 | 4,186,266 | 36,852
5243 | KSVI | 175,390 | 173,667 | 1,529
58827 | KSWB-TV | 3,677,190 | 3,488,655 | 30,711
60683 | KSWK | 79,012 | 78,784 | 694
35645 | KSWO-TV | 483,132 | 458,057 | 4,032
61350 | KSYS | 519,209 | 443,204 | 3,902
59988 | KTAB-TV | 274,707 | 274,536 | 2,417
999 | KTAJ-TV | 2,343,843 | 2,343,227 | 20,627
35648 | KTAL-TV | 1,094,332 | 1,092,958 | 9,621
12930 | KTAS | 471,882 | 464,149 | 4,086
81458 | KTAZ | 4,182,503 | 4,160,481 | 36,625
35649 | KTBC | 3,242,215 | 2,956,614 | 26,027
67884 | KTBN-TV | 17,795,677 | 16,510,302 | 145,340
67999 | KTBO-TV | 1,585,283 | 1,583,664 | 13,941
35652 | KTBS-TV | 1,163,228 | 1,159,665 | 10,209
28324 | KTBU | 6,035,927 | 6,035,725 | 53,132
67950 | KTBW-TV | 4,202,104 | 4,108,031 | 36,163
35655 | KTBY | 348,080 | 346,562 | 3,051
68594 | KTCA-TV | 3,693,877 | 3,684,081 | 32,431
68597 | KTCI-TV | 3,606,606 | 3,597,183 | 31,666
35187 | KTCW | 103,341 | 89,207 | 785
36916 | KTDO | 1,015,336 | 1,010,771 | 8,898
2769 | KTEJ | 419,750 | 417,368 | 3,674
83707 | KTEL-TV | 52,878 | 52,875 | 465
35666 | KTEN | 602,788 | 599,778 | 5,280
24514 | KTFD-TV | 3,210,669 | 3,172,543 | 27,928
35512 | KTFF-DT | 2,225,169 | 2,203,398 | 19,397
20871 | KTFK-DT | 6,969,307 | 5,211,719 | 45,879
68753 | KTFN | 1,017,335 | 1,013,157 | 8,919
35084 | KTFQ-TV | 1,151,433 | 1,117,061 | 9,833
29232 | KTGM | 159,358 | 159,091 | 1,400
2787 | KTHV | 1,275,053 | 1,246,348 | 10,972
29100 | KTIN | 281,096 | 279,385 | 2,459
66170 | KTIV | 751,089 | 746,274 | 6,569
49397 | KTKA-TV | 759,369 | 746,370 | 6,570
35670 | KTLA | 18,156,910 | 16,870,262 | 148,509
62354 | KTLM | 1,044,526 | 1,044,509 | 9,195
49153 | KTLN-TV | 5,381,955 | 4,740,894 | 41,734
64984 | KTMD | 6,095,741 | 6,095,606 | 53,660
14675 | KTMF | 187,251 | 168,526 | 1,484
10177 | KTMW | 2,261,671 | 2,144,791 | 18,881
21533 | KTNC-TV | 8,270,858 | 7,381,656 | 64,981
47996 | KTNE-TV | 100,341 | 95,324 | 839
60519 | KTNL-TV | 8,642 | 8,642 | 76
74100 | KTNV-TV | 2,094,506 | 1,936,752 | 17,049
71023 | KTNW | 450,926 | 432,398 | 3,806
8651 | KTOO-TV | 31,269 | 31,176 | 274
7078 | KTPX-TV | 1,066,196 | 1,063,754 | 9,364
68541 | KTRE | 441,879 | 421,406 | 3,710
35675 | KTRK-TV | 6,114,259 | 6,112,870 | 53,812
28230 | KTRV-TV | 714,833 | 707,557 | 6,229
69170 | KTSC | 3,124,536 | 2,949,795 | 25,967
61066 | KTSD-TV | 83,645 | 82,828 | 729
37511 | KTSF | 7,959,349 | 7,129,638 | 62,762
67760 | KTSM-TV | 1,015,348 | 1,011,264 | 8,902
35678 | KTTC | 815,213 | 731,919 | 6,443
28501 | KTTM | 76,133 | 73,664 | 648
11908 | KTTU | 1,324,801 | 1,060,613 | 9,337
22208 | KTTV | 17,380,551 | 16,693,085 | 146,949
28521 | KTTW | 329,633 | 326,405 | 2,873
65355 | KTTZ-TV | 380,240 | 380,225 | 3,347
35685 | KTUL | 1,416,959 | 1,388,183 | 12,220
10173 | KTUU-TV | 380,240 | 379,047 | 3,337
77480 | KTUZ-TV | 1,668,531 | 1,666,026 | 14,666
49632 | KTVA | 342,517 | 342,300 | 3,013
34858 | KTVB | 714,865 | 707,882 | 6,231
31437 | KTVC | 137,239 | 100,204 | 882
68581 | KTVD | 3,800,970 | 3,547,607 | 31,230
35692 | KTVE | 641,139 | 640,201 | 5,636
49621 | KTVF | 98,068 | 97,929 | 862
5290 | KTVH-DT | 228,832 | 184,264 | 1,622
35693 | KTVI | 2,995,764 | 2,991,513 | 26,334
40993 | KTVK | 4,184,825 | 4,173,028 | 36,735
22570 | KTVL | 419,849 | 369,469 | 3,252
18066 | KTVM-TV | 260,105 | 217,694 | 1,916
59139 | KTVN | 955,490 | 800,420 | 7,046
21251 | KTVO | 227,128 | 226,616 | 1,995
35694 | KTVQ | 179,797 | 173,271 | 1,525
50592 | KTVR | 147,808 | 54,480 | 480
23422 | KTVT | 6,912,366 | 6,908,715 | 60,817
35703 | KTVU | 8,297,634 | 7,406,751 | 65,202
35705 | KTVW-DT | 4,174,310 | 4,160,877 | 36,628
68889 | KTVX | 2,389,392 | 2,200,520 | 19,371
55907 | KTVZ | 201,828 | 198,558 | 1,748
18286 | KTWO-TV | 80,426 | 79,905 | 703
70938 | KTWU | 1,703,798 | 1,562,305 | 13,753
51517 | KTXA | 6,915,461 | 6,911,822 | 60,845
42359 | KTXD-TV | 6,706,651 | 6,704,781 | 59,022
51569 | KTXH | 6,092,710 | 6,092,525 | 53,632
10205 | KTXL | 8,306,449 | 5,896,320 | 51,905
308 | KTXS-TV | 247,603 | 246,760 | 2,172
69315 | KUAC-TV | 98,717 | 98,189 | 864
51233 | KUAM-TV | 159,358 | 159,358 | 1,403
2722 | KUAS-TV | 994,802 | 977,391 | 8,604
2731 | KUAT-TV | 1,485,024 | 1,253,342 | 11,033
60520 | KUBD | 14,817 | 13,363 | 118
70492 | KUBE-TV | 6,090,970 | 6,090,817 | 53,617
1136 | KUCW | 2,388,889 | 2,199,787 | 19,365
69396 | KUED | 2,388,995 | 2,203,093 | 19,394
69582 | KUEN | 2,364,481 | 2,184,483 | 19,230
82576 | KUES | 30,925 | 25,978 | 229
82585 | KUEW | 132,168 | 120,411 | 1,060
66611 | KUFM-TV | 187,680 | 166,697 | 1,467
169028 | KUGF-TV | 86,622 | 85,986 | 757
68717 | KUHM-TV | 154,836 | 145,241 | 1,279
69269 | KUHT | 6,080,222 | 6,078,866 | 53,512
62382 | KUID-TV | 432,855 | 284,023 | 2,500
169027 | KUKL-TV | 124,505 | 115,844 | 1,020
35724 | KULR-TV | 177,242 | 170,142 | 1,498
41429 | KUMV-TV | 41,607 | 41,224 | 363
81447 | KUNP | 130,559 | 43,472 | 383
4624 | KUNS-TV | 4,027,849 | 4,015,626 | 35,350
86532 | KUOK | 28,974 | 28,945 | 255
66589 | KUON-TV | 1,375,257 | 1,360,005 | 11,972
86263 | KUPB | 318,914 | 318,914 | 2,807
65535 | KUPK | 149,642 | 148,180 | 1,304
27431 | KUPT | 87,602 | 87,602 | 771
89714 | KUPU | 956,178 | 948,005 | 8,345
57884 | KUPX-TV | 2,374,672 | 2,191,229 | 19,289
23074 | KUSA | 3,802,407 | 3,560,546 | 31,343
61072 | KUSD-TV | 460,480 | 460,277 | 4,052
10238 | KUSI-TV | 3,572,818 | 3,435,670 | 30,244
43567 | KUSM-TV | 122,678 | 109,830 | 967
69694 | KUTF | 1,210,774 | 1,031,870 | 9,084
81451 | KUTH-DT | 2,219,788 | 2,027,174 | 17,845
68886 | KUTP | 4,191,015 | 4,176,014 | 36,761
35823 | KUTV | 2,388,625 | 2,199,731 | 19,364
63927 | KUVE-DT | 1,294,971 | 964,396 | 8,490
7700 | KUVI-DT | 1,204,490 | 1,009,943 | 8,891
35841 | KUVN-DT | 6,680,126 | 6,678,157 | 58,788
58609 | KUVS-DT | 4,043,413 | 4,005,657 | 35,262
49766 | KVAL-TV | 1,016,673 | 866,173 | 7,625
32621 | KVAW | 76,153 | 76,153 | 670
58795 | KVCR-DT | 18,215,524 | 17,467,140 | 153,763
35846 | KVCT | 288,221 | 287,446 | 2,530
10195 | KVCW | 1,967,550 | 1,918,809 | 16,891
64969 | KVDA | 2,566,563 | 2,548,720 | 22,436
19783 | KVEA | 17,538,249 | 16,335,335 | 143,800
12523 | KVEO-TV | 1,244,504 | 1,244,504 | 10,955
2495 | KVEW | 476,720 | 464,347 | 4,088
35852 | KVHP | 747,917 | 747,837 | 6,583
49832 | KVIA-TV | 1,015,350 | 1,011,266 | 8,902
35855 | KVIE | 10,759,440 | 7,467,369 | 65,735
40450 | KVIH-TV | 91,912 | 91,564 | 806
40446 | KVII-TV | 379,042 | 378,218 | 3,329
61961 | KVLY-TV | 350,732 | 350,449 | 3,085
16729 | KVMD | 15,274,297 | 14,512,400 | 127,753
83825 | KVME-TV | 26,711 | 22,802 | 201
25735 | KVOA | 1,317,956 | 1,030,404 | 9,071
35862 | KVOS-TV | 2,202,674 | 2,131,652 | 18,765
69733 | KVPT | 1,744,349 | 1,719,318 | 15,135
55372 | KVRR | 356,645 | 356,645 | 3,140
166331 | KVSN-DT | 2,706,244 | 2,283,409 | 20,101
608 | KVTH-DT | 303,755 | 299,230 | 2,634
2784 | KVTJ-DT | 1,466,426 | 1,465,802 | 12,903
607 | KVTN-DT | 936,328 | 925,884 | 8,151
35867 | KVUE | 2,661,290 | 2,611,314 | 22,987
78910 | KVUI | 257,964 | 251,872 | 2,217
35870 | KVVU-TV | 2,045,255 | 1,935,583 | 17,039
36170 | KVYE | 396,495 | 392,498 | 3,455
35095 | KWBA-TV | 1,129,524 | 1,073,029 | 9,446
78314 | KWBM | 657,822 | 639,560 | 5,630
27425 | KWBN | 953,207 | 840,455 | 7,399
76268 | KWBQ | 1,149,598 | 1,107,211 | 9,747
66413 | KWCH-DT | 883,647 | 881,674 | 7,761
71549 | KWCM-TV | 252,284 | 244,033 | 2,148
35419 | KWDK | 4,194,152 | 4,117,852 | 36,249
42007 | KWES-TV | 424,862 | 423,544 | 3,728
50194 | KWET | 127,976 | 112,750 | 993
35881 | KWEX-DT | 2,376,463 | 2,370,469 | 20,867
35883 | KWGN-TV | 3,706,455 | 3,513,537 | 30,930
37099 | KWHB | 979,393 | 978,719 | 8,616
36846 | KWHE | 952,966 | 834,341 | 7,345
26231 | KWHY-TV | 17,736,497 | 17,695,306 | 155,772
35096 | KWKB | 1,121,676 | 1,111,629 | 9,786
162115 | KWKS | 39,708 | 39,323 | 346
12522 | KWKT-TV | 1,299,675 | 1,298,478 | 11,431
21162 | KWNB-TV | 91,093 | 89,332 | 786
67347 | KWOG | 512,412 | 505,049 | 4,446
56852 | KWPX-TV | 4,220,008 | 4,148,577 | 36,520
6885 | KWQC-TV | 1,063,507 | 1,054,618 | 9,284
29121 | KWSD | 280,675 | 280,672 | 2,471
53318 | KWSE | 54,471 | 53,400 | 470
71024 | KWSU-TV | 725,554 | 468,295 | 4,122
25382 | KWTV-DT | 1,628,106 | 1,627,198 | 14,324
35903 | KWTX-TV | 2,071,023 | 1,972,365 | 17,363
593 | KWWL | 1,089,498 | 1,078,458 | 9,494
84410 | KWWT | 293,291 | 293,291 | 2,582
14674 | KWYB | 86,495 | 69,598 | 613
10032 | KWYP-DT | 128,874 | 126,992 | 1,118
35920 | KXAN-TV | 2,678,666 | 2,624,648 | 23,105
49330 | KXAS-TV | 6,774,295 | 6,771,827 | 59,612
24287 | KXGN-TV | 14,217 | 13,883 | 122
35954 | KXII | 2,323,974 | 2,264,951 | 19,938
55083 | KXLA | 17,929,100 | 16,794,896 | 147,845
35959 | KXLF-TV | 258,100 | 217,808 | 1,917
53847 | KXLN-DT | 6,085,891 | 6,085,712 | 53,573
35906 | KXLT-TV | 348,025 | 347,296 | 3,057
61978 | KXLY-TV | 772,116 | 740,960 | 6,523
55684 | KXMA-TV | 32,005 | 31,909 | 281
55686 | KXMB-TV | 142,755 | 138,506 | 1,219
55685 | KXMC-TV | 97,569 | 89,483 | 788
55683 | KXMD-TV | 37,962 | 37,917 | 334
47995 | KXNE-TV | 305,839 | 304,682 | 2,682
81593 | KXNW | 602,168 | 597,747 | 5,262
35991 | KXRM-TV | 1,843,363 | 1,500,689 | 13,211
1255 | KXTF | 140,746 | 140,312 | 1,235
25048 | KXTV | 10,759,864 | 7,477,140 | 65,821
35994 | KXTX-TV | 6,721,578 | 6,718,616 | 59,144
62293 | KXVA | 185,478 | 185,276 | 1,631
23277 | KXVO | 1,404,703 | 1,403,380 | 12,354
9781 | KXXV | 1,771,620 | 1,748,287 | 15,390
31870 | KYAZ | 6,038,257 | 6,038,071 | 53,153
29086 | KYIN | 581,748 | 574,691 | 5,059
60384 | KYLE-TV | 323,330 | 323,225 | 2,845
33639 | KYMA-DT | 396,278 | 391,619 | 3,447
47974 | KYNE-TV | 980,094 | 979,887 | 8,626
53820 | KYOU-TV | 651,334 | 640,935 | 5,642
36003 | KYTV | 1,095,904 | 1,083,524 | 9,538
55644 | KYTX | 927,327 | 925,550 | 8,148
13815 | KYUR | 379,943 | 379,027 | 3,337
5237 | KYUS-TV | 12,496 | 12,356 | 109
33752 | KYVE | 301,951 | 259,559 | 2,285
55762 | KYVV-TV | 67,201 | 67,201 | 592
25453 | KYW-TV | 11,212,189 | 11,008,413 | 96,907
69531 | KZJL | 6,037,458 | 6,037,272 | 53,146
69571 | KZJO | 4,147,016 | 4,097,776 | 36,073
61062 | KZSD-TV | 41,207 | 35,825 | 315
33079 | KZTV | 567,635 | 564,464 | 4,969
57292 | WAAY-TV | 1,498,006 | 1,428,197 | 12,572
1328 | WABC-TV | 20,948,273 | 20,560,001 | 180,990
4190 | WABE-TV | 5,308,575 | 5,291,523 | 46,581
43203 | WABG-TV | 393,020 | 392,348 | 3,454
17005 | WABI-TV | 530,773 | 510,729 | 4,496
16820 | WABM | 1,772,367 | 1,742,240 | 15,337
23917 | WABW-TV | 1,097,560 | 1,096,376 | 9,651
19199 | WACH | 1,403,222 | 1,400,385 | 12,328
189358 | WACP | 9,415,263 | 9,301,049 | 81,877
23930 | WACS-TV | 786,536 | 783,207 | 6,895
60018 | WACX | 4,292,829 | 4,288,149 | 37,749
361 | WACY-TV | 946,580 | 946,071 | 8,328
455 | WADL | 4,610,065 | 4,606,521 | 40,551
589 | WAFB | 1,857,882 | 1,857,418 | 16,351
591 | WAFF | 1,527,517 | 1,456,436 | 12,821
70689 | WAGA-TV | 6,000,355 | 5,923,191 | 52,142
48305 | WAGM-TV | 64,721 | 63,331 | 558
37809 | WAGV | 1,313,257 | 1,159,076 | 10,203
706 | WAIQ | 611,733 | 609,794 | 5,368
701 | WAKA | 799,637 | 793,645 | 6,986
4143 | WALA-TV | 1,320,419 | 1,318,127 | 11,603
70713 | WALB | 773,899 | 772,467 | 6,800
60536 | WAMI-DT | 5,449,193 | 5,449,193 | 47,969
70852 | WAND | 1,388,118 | 1,386,074 | 12,202
39270 | WANE-TV | 1,146,442 | 1,146,442 | 10,092
52280 | WAOE | 2,963,253 | 2,907,224 | 25,592
64546 | WAOW | 636,957 | 629,068 | 5,538
52073 | WAPA-TV ² ⁷ | 3,764,742 | 2,794,738 | 24,602
49712 | WAPT | 793,621 | 791,620 | 6,969
67792 | WAQP | 2,135,670 | 2,131,399 | 18,763
13206 | WATC-DT | 5,732,204 | 5,705,819 | 50,228
71082 | WATE-TV | 1,874,433 | 1,638,059 | 14,420
22819 | WATL | 5,882,837 | 5,819,099 | 51,226
20287 | WATM-TV | 893,989 | 749,183 | 6,595
11907 | WATN-TV | 1,787,595 | 1,784,560 | 15,709
13989 | WAVE | 1,891,797 | 1,880,563 | 16,555
71127 | WAVY-TV | 2,080,708 | 2,080,691 | 18,316
54938 | WAWD | 579,079 | 579,023 | 5,097
65247 | WAWV-TV | 705,790 | 700,361 | 6,165
12793 | WAXN-TV | 2,677,951 | 2,669,224 | 23,497
65696 | WBAL-TV | 9,743,335 | 9,344,875 | 82,263
74417 | WBAY-TV | 1,225,928 | 1,225,335 | 10,787
71085 | WBBH-TV | 2,017,267 | 2,017,267 | 17,758
65204 | WBBJ-TV | 662,148 | 658,839 | 5,800
9617 | WBBM-TV | 9,914,233 | 9,907,806 | 87,218
9088 | WBBZ-TV | 1,269,256 | 1,260,686 | 11,098
70138 | WBDT | 3,831,757 | 3,819,550 | 33,623
51349 | WBEC-TV | 5,421,355 | 5,421,355 | 47,724
10758 | WBFF | 8,523,983 | 8,381,042 | 73,778
12497 | WBFS-TV | 5,349,613 | 5,349,613 | 47,093
6568 | WBGU-TV | 1,343,816 | 1,343,816 | 11,830
81594 | WBIF | 309,707 | 309,707 | 2,726
84802 | WBIH | 718,439 | 706,994 | 6,224
717 | WBIQ | 1,563,080 | 1,532,266 | 13,489
46984 | WBIR-TV | 1,978,347 | 1,701,857 | 14,981
67048 | WBKB-TV | 136,823 | 130,625 | 1,150
34167 | WBKI | 2,104,090 | 2,085,393 | 18,358
4692 | WBKO | 963,413 | 862,651 | 7,594
76001 | WBKP | 55,655 | 55,305 | 487
68427 | WBMM | 562,284 | 562,123 | 4,948
73692 | WBNA | 1,699,683 | 1,666,248 | 14,668
23337 | WBNG-TV | 1,435,634 | 1,051,932 | 9,260
71217 | WBNS-TV | 2,847,721 | 2,784,795 | 24,515
72958 | WBNX-TV | 3,639,256 | 3,630,531 | 31,960
71218 | WBOC-TV | 813,888 | 813,888 | 7,165
71220 | WBOY-TV | 711,302 | 621,367 | 5,470
60850 | WBPH-TV | 10,613,847 | 9,474,797 | 83,407
7692 | WBPX-TV | 6,833,712 | 6,761,949 | 59,525
5981 | WBRA-TV | 1,726,408 | 1,677,204 | 14,764
71221 | WBRC | 1,884,007 | 1,849,135 | 16,278
71225 | WBRE-TV | 2,879,196 | 2,244,735 | 19,760
38616 | WBRZ-TV | 2,223,336 | 2,222,309 | 19,563
82627 | WBSF | 1,836,543 | 1,832,446 | 16,131
30826 | WBTV | 4,433,795 | 4,296,893 | 37,826
66407 | WBTW | 1,975,457 | 1,959,172 | 17,247
16363 | WBUI | 981,884 | 981,868 | 8,643
59281 | WBUP | 126,472 | 112,603 | 991
60830 | WBUY-TV | 1,569,254 | 1,567,815 | 13,801
72971 | WBXX-TV | 2,142,759 | 1,984,544 | 17,470
25456 | WBZ-TV | 7,960,556 | 7,730,847 | 68,055
63153 | WCAU | 11,269,831 | 11,098,540 | 97,700
363 | WCAV | 1,032,270 | 874,886 | 7,702
46728 | WCAX-TV | 784,748 | 665,685 | 5,860
39659 | WCBB | 964,079 | 910,222 | 8,013
10587 | WCBD-TV | 1,149,489 | 1,149,489 | 10,119
12477 | WCBI-TV | 680,511 | 678,424 | 5,972
9610 | WCBS-TV | 22,087,789 | 21,511,236 | 189,363
49157 | WCCB | 3,642,232 | 3,574,928 | 31,470
9629 | WCCO-TV | 3,837,442 | 3,829,714 | 33,713
14050 | WCCT-TV | 5,818,471 | 5,307,612 | 46,723
69544 | WCCU | 694,550 | 693,317 | 6,103
3001 | WCCV-TV | 3,391,703 | 2,062,994 | 18,161
23937 | WCES-TV | 1,098,868 | 1,097,706 | 9,663
65666 | WCET | 3,123,290 | 3,110,519 | 27,382
46755 | WCFE-TV | 459,417 | 419,756 | 3,695
71280 | WCHS-TV | 1,352,824 | 1,274,766 | 11,222
42124 | WCIA | 834,084 | 833,547 | 7,338
711 | WCIQ | 3,186,320 | 3,016,907 | 26,558
71428 | WCIU-TV | 10,052,136 | 10,049,244 | 88,463
9015 | WCIV | 1,152,800 | 1,152,800 | 10,148
42116 | WCIX | 554,002 | 549,911 | 4,841
16993 | WCJB-TV | 977,492 | 977,492 | 8,605
11125 | WCLF | 4,097,389 | 4,096,624 | 36,063
68007 | WCLJ-TV | 2,305,723 | 2,303,534 | 20,278
50781 | WCMH-TV | 2,756,260 | 2,712,989 | 23,882
9917 | WCML | 233,439 | 224,255 | 1,974
9908 | WCMU-TV | 707,702 | 699,551 | 6,158
9922 | WCMV | 425,499 | 411,288 | 3,621
9913 | WCMW | 106,975 | 104,859 | 923
32326 | WCNC-TV | 3,883,049 | 3,809,706 | 33,537
53734 | WCNY-TV | 1,342,821 | 1,279,429 | 11,263
73642 | WCOV-TV | 889,102 | 884,417 | 7,786
40618 | WCPB | 560,426 | 560,426 | 4,933
59438 | WCPO-TV | 3,330,885 | 3,313,654 | 29,170
10981 | WCPX-TV | 9,753,235 | 9,751,916 | 85,846
71297 | WCSC-TV | 1,028,018 | 1,028,018 | 9,050
39664 | WCSH | 1,755,325 | 1,548,824 | 13,634
69479 | WCTE | 612,760 | 541,314 | 4,765
18334 | WCTI-TV | 1,688,065 | 1,685,638 | 14,839
31590 | WCTV | 1,065,524 | 1,065,464 | 9,379
33081 | WCTX | 7,844,936 | 7,332,431 | 64,547
65684 | WCVB-TV | 7,780,868 | 7,618,496 | 67,066
9987 | WCVE-TV | 1,721,004 | 1,712,249 | 15,073
83304 | WCVI-TV | 50,601 | 50,495 | 445
34204 | WCVN-TV | 2,129,816 | 2,120,349 | 18,665
9989 | WCVW | 1,505,484 | 1,505,330 | 13,251
73042 | WCWF | 1,077,314 | 1,077,194 | 9,483
35385 | WCWG | 3,630,551 | 3,299,114 | 29,042
29712 | WCWJ | 1,661,270 | 1,661,132 | 14,623
73264 | WCWN | 1,909,223 | 1,621,751 | 14,276
2455 | WCYB-TV | 2,363,002 | 2,057,404 | 18,111
11291 | WDAF-TV | 2,539,581 | 2,537,411 | 22,337
21250 | WDAM-TV | 512,594 | 500,343 | 4,405
22129 | WDAY-TV | 339,239 | 338,856 | 2,983
22124 | WDAZ-TV | 151,720 | 151,659 | 1,335
71325 | WDBB | 1,792,728 | 1,762,643 | 15,517
71326 | WDBD | 940,665 | 939,489 | 8,270
71329 | WDBJ | 1,626,017 | 1,435,762 | 12,639
51567 | WDCA | 8,101,358 | 8,049,329 | 70,858
16530 | WDCQ-TV | 1,269,199 | 1,269,199 | 11,173
30576 | WDCW | 8,155,998 | 8,114,847 | 71,435
54385 | WDEF-TV | 1,730,762 | 1,530,403 | 13,472
32851 | WDFX-TV | 271,499 | 270,942 | 2,385
43846 | WDHN | 452,377 | 451,978 | 3,979
71338 | WDIO-DT | 341,506 | 327,469 | 2,883
714 | WDIQ | 663,062 | 620,124 | 5,459
53114 | WDIV-TV | 5,450,318 | 5,450,174 | 47,978
71427 | WDJT-TV | 3,267,652 | 3,256,507 | 28,667
39561 | WDKA | 658,699 | 658,277 | 5,795
64017 | WDKY-TV | 1,204,817 | 1,173,579 | 10,331
67893 | WDLI-TV | 4,147,298 | 4,114,920 | 36,224
72335 | WDPB | 596,888 | 596,888 | 5,254
83740 | WDPM-DT | 1,365,977 | 1,364,744 | 12,014
1283 | WDPN-TV | 11,594,463 | 11,467,616 | 100,949
6476 | WDPX-TV | 6,833,712 | 6,761,949 | 59,525
28476 | WDRB | 2,054,813 | 2,037,086 | 17,932
12171 | WDSC-TV | 3,389,559 | 3,389,559 | 29,838
17726 | WDSE | 330,994 | 316,643 | 2,787
71353 | WDSI-TV | 1,100,302 | 1,042,191 | 9,174
71357 | WDSU | 1,649,083 | 1,649,083 | 14,517
7908 | WDTI | 2,092,242 | 2,091,941 | 18,415
65690 | WDTN | 3,831,757 | 3,819,550 | 33,623
70592 | WDTV | 962,532 | 850,394 | 7,486
25045 | WDVM-TV | 3,074,837 | 2,646,508 | 23,297
4110 | WDWL | 2,638,361 | 1,977,410 | 17,407
49421 | WEAO | 3,960,217 | 3,945,408 | 34,731
71363 | WEAR-TV | 1,520,973 | 1,520,386 | 13,384
7893 | WEAU | 1,006,393 | 971,050 | 8,548
61003 | WEBA-TV | 641,354 | 632,282 | 5,566
19561 | WECN | 2,886,669 | 2,157,288 | 18,991
48666 | WECT | 1,156,807 | 1,156,807 | 10,183
13602 | WEDH | 5,328,800 | 4,724,167 | 41,587
13607 | WEDN | 3,451,170 | 2,643,344 | 23,269
69338 | WEDQ | 5,379,887 | 5,365,612 | 47,233
21808 | WEDU | 5,379,887 | 5,365,612 | 47,233
13594 | WEDW | 5,996,408 | 5,544,708 | 48,810
13595 | WEDY | 5,328,800 | 4,724,167 | 41,587
24801 | WEEK-TV | 752,596 | 752,539 | 6,625
6744 | WEFS | 3,380,743 | 3,380,743 | 29,761
24215 | WEHT | 857,558 | 844,070 | 7,430
721 | WEIQ | 1,055,632 | 1,055,193 | 9,289
18301 | WEIU-TV | 458,480 | 458,416 | 4,035
69271 | WEKW-TV | 1,263,049 | 773,108 | 6,806
60825 | WELF-TV | 1,477,691 | 1,387,044 | 12,210
26602 | WELU | 2,248,146 | 1,678,682 | 14,777
40761 | WEMT | 1,726,085 | 1,186,706 | 10,447
69237 | WENH-TV | 4,500,498 | 4,328,222 | 38,101
71508 | WENY-TV | 656,240 | 517,754 | 4,558
83946 | WEPH | 604,105 | 602,833 | 5,307
81508 | WEPX-TV | 950,012 | 950,012 | 8,363
25738 | WESH | 4,063,973 | 4,053,252 | 35,681
65670 | WETA-TV | 8,315,499 | 8,258,807 | 72,702
69944 | WETK | 670,087 | 558,842 | 4,919
60653 | WETM-TV | 870,206 | 770,731 | 6,785
18252 | WETP-TV | 2,167,383 | 1,888,574 | 16,625
2709 | WEUX | 380,569 | 373,680 | 3,290
72041 | WEVV-TV | 752,417 | 751,094 | 6,612
59441 | WEWS-TV | 4,112,984 | 4,078,299 | 35,901
72052 | WEYI-TV | 3,715,686 | 3,652,991 | 32,157
72054 | WFAA | 6,917,502 | 6,907,616 | 60,808
81669 | WFBD | 817,914 | 817,389 | 7,195
69532 | WFDC-DT | 8,155,998 | 8,114,847 | 71,435
10132 | WFFF-TV | 633,649 | 552,182 | 4,861
25040 | WFFT-TV | 1,095,429 | 1,095,411 | 9,643
11123 | WFGC | 3,018,351 | 3,018,351 | 26,571
6554 | WFGX | 1,493,866 | 1,493,319 | 13,146
13991 | WFIE | 743,079 | 740,909 | 6,522
715 | WFIQ | 546,563 | 544,258 | 4,791
64592 | WFLA-TV | 5,583,544 | 5,576,649 | 49,091
22211 | WFLD | 9,957,301 | 9,954,828 | 87,632
72060 | WFLI-TV | 1,294,209 | 1,189,897 | 10,475
39736 | WFLX | 5,740,086 | 5,740,086 | 50,530
72062 | WFMJ-TV | 4,328,477 | 3,822,691 | 33,651
72064 | WFMY-TV | 4,772,783 | 4,746,167 | 41,781
39884 | WFMZ-TV | 10,613,847 | 9,474,797 | 83,407
83943 | WFNA | 1,391,519 | 1,390,447 | 12,240
47902 | WFOR-TV | 5,398,266 | 5,398,266 | 47,521
11909 | WFOX-TV | 1,603,324 | 1,603,324 | 14,114
40626 | WFPT | 5,829,153 | 5,442,279 | 47,908
21245 | WFPX-TV | 2,637,949 | 2,634,141 | 23,188
25396 | WFQX-TV | 537,340 | 534,314 | 4,704
9635 | WFRV-TV | 1,263,353 | 1,256,376 | 11,060
53115 | WFSB | 4,752,788 | 4,370,519 | 38,474
6093 | WFSG | 364,961 | 364,796 | 3,211
21801 | WFSU-TV | 576,105 | 576,093 | 5,071
11913 | WFTC | 3,787,177 | 3,770,207 | 33,189
64588 | WFTS-TV | 5,236,379 | 5,236,287 | 46,095
16788 | WFTT-TV | 4,523,828 | 4,521,879 | 39,806
72076 | WFTV | 3,882,888 | 3,882,888 | 34,181
70649 | WFTX-TV | 1,758,172 | 1,758,172 | 15,477
60553 | WFTY-DT | 5,678,755 | 5,560,460 | 48,949
25395 | WFUP | 234,863 | 234,436 | 2,064
60555 | WFUT-DT | 20,362,721 | 19,974,644 | 175,837
22108 | WFWA | 1,035,114 | 1,034,862 | 9,110
9054 | WFXB | 1,393,865 | 1,393,510 | 12,267
3228 | WFXG | 1,070,032 | 1,057,760 | 9,311
70815 | WFXL | 793,637 | 785,106 | 6,911
19707 | WFXP | 583,315 | 562,500 | 4,952
24813 | WFXR | 1,426,061 | 1,286,450 | 11,325
6463 | WFXT | 7,494,070 | 7,400,830 | 65,150
22245 | WFXU | 218,273 | 218,273 | 1,921
43424 | WFXV | 702,682 | 612,494 | 5,392
25236 | WFXW | 274,078 | 270,967 | 2,385
41397 | WFYI | 2,389,627 | 2,388,970 | 21,030
53930 | WGAL | 6,287,688 | 5,610,833 | 49,392
2708 | WGBA-TV | 1,170,375 | 1,170,127 | 10,301
24314 | WGBC | 249,415 | 249,235 | 2,194
72099 | WGBH-TV | 7,711,842 | 7,601,732 | 66,918
12498 | WGBO-DT | 9,828,737 | 9,826,530 | 86,503
11113 | WGBP-TV | 1,820,589 | 1,812,232 | 15,953
72098 | WGBX-TV | 7,803,280 | 7,636,641 | 67,225
72096 | WGBY-TV | 4,470,009 | 3,739,675 | 32,920
72120 | WGCL-TV | 6,027,276 | 5,961,471 | 52,479
62388 | WGCU | 1,510,671 | 1,510,671 | 13,298
54275 | WGEM-TV | 361,598 | 356,682 | 3,140
27387 | WGEN-TV | 43,037 | 43,037 | 379
7727 | WGFL | 877,163 | 877,163 | 7,722
25682 | WGGB-TV | 3,443,386 | 3,053,436 | 26,879
11027 | WGGN-TV | 4,002,841 | 3,981,382 | 35,048
9064 | WGGS-TV | 2,759,326 | 2,705,067 | 23,813
72106 | WGHP | 4,174,964 | 4,123,106 | 36,296
710 | WGIQ | 363,849 | 363,806 | 3,203
12520 | WGMB-TV | 1,742,708 | 1,742,659 | 15,341
25683 | WGME-TV | 1,495,724 | 1,325,465 | 11,668
24618 | WGNM | 742,458 | 741,502 | 6,527
72119 | WGNO | 1,641,765 | 1,641,765 | 14,452
9762 | WGNT | 2,128,079 | 2,127,891 | 18,732
72115 | WGN-TV | 9,942,959 | 9,941,552 | 87,515
40619 | WGPT | 578,294 | 344,300 | 3,031
65074 | WGPX-TV | 2,765,350 | 2,754,743 | 24,250
64547 | WGRZ | 1,878,725 | 1,812,309 | 15,954
63329 | WGTA | 1,061,654 | 1,030,538 | 9,072
66285 | WGTE-TV | 2,210,496 | 2,208,927 | 19,445
59279 | WGTQ | 95,618 | 92,019 | 810
59280 | WGTU | 358,543 | 353,477 | 3,112
23948 | WGTV | 5,989,342 | 5,917,966 | 52,096
7623 | WGTW-TV | 807,797 | 807,797 | 7,111
24783 | WGVK | 2,439,225 | 2,437,526 | 21,458
24784 | WGVU-TV | 1,825,744 | 1,784,264 | 15,707
21536 | WGWG | 986,963 | 986,963 | 8,688
56642 | WGWW | 1,677,166 | 1,647,976 | 14,507
58262 | WGXA | 779,955 | 779,087 | 6,858
73371 | WHAM-TV | 1,381,564 | 1,334,653 | 11,749
32327 | WHAS-TV | 1,955,983 | 1,925,901 | 16,954
6096 | WHA-TV | 1,635,777 | 1,628,950 | 14,340
13950 | WHBF-TV | 1,712,339 | 1,704,072 | 15,001
12521 | WHBQ-TV | 1,736,335 | 1,708,345 | 15,039
10894 | WHBR | 1,302,764 | 1,302,041 | 11,462
65128 | WHDF | 1,553,469 | 1,502,852 | 13,230
72145 | WHDH | 7,441,208 | 7,343,735 | 64,647
83929 | WHDT | 5,768,239 | 5,768,239 | 50,778
70041 | WHEC-TV | 1,322,243 | 1,279,606 | 11,264
67971 | WHFT-TV | 5,417,409 | 5,417,409 | 47,689
41458 | WHIO-TV | 3,877,520 | 3,868,597 | 34,055
713 | WHIQ | 1,278,174 | 1,225,940 | 10,792
61216 | WHIZ-TV | 911,245 | 840,696 | 7,401
65919 | WHKY-TV | 3,358,493 | 3,294,261 | 28,999
18780 | WHLA-TV | 554,446 | 515,561 | 4,538
48668 | WHLT | 484,432 | 483,532 | 4,257
24582 | WHLV-TV | 3,906,201 | 3,906,201 | 34,386
37102 | WHMB-TV | 2,959,585 | 2,889,145 | 25,433
61004 | WHMC | 774,921 | 774,921 | 6,822
36117 | WHME-TV | 1,455,358 | 1,455,110 | 12,809
37106 | WHNO | 1,499,653 | 1,499,653 | 13,201
72300 | WHNS | 2,549,610 | 2,270,868 | 19,990
48693 | WHNT-TV | 1,569,885 | 1,487,578 | 13,095
66221 | WHO-DT | 1,120,480 | 1,099,818 | 9,682
6866 | WHOI | 736,125 | 736,047 | 6,479
72313 | WHP-TV | 4,030,693 | 3,538,096 | 31,146
51980 | WHPX-TV | 5,579,464 | 5,114,336 | 45,021
73036 | WHRM-TV | 535,778 | 532,820 | 4,690
25932 | WHRO-TV | 2,169,238 | 2,169,237 | 19,096
68058 | WHSG-TV | 5,870,314 | 5,808,605 | 51,133
4688 | WHSV-TV | 845,013 | 711,912 | 6,267
9990 | WHTJ | 807,960 | 690,381 | 6,077
72326 | WHTM-TV | 2,829,585 | 2,367,000 | 20,837
11117 | WHTN | 1,914,755 | 1,905,733 | 16,776
27772 | WHUT-TV | 7,649,763 | 7,617,337 | 67,055
18793 | WHWC-TV | 1,123,941 | 1,091,281 | 9,607
72338 | WHYY-TV | 10,448,829 | 10,049,700 | 88,468
5360 | WIAT | 1,837,072 | 1,802,810 | 15,870
63160 | WIBW-TV | 1,234,347 | 1,181,009 | 10,396
25684 | WICD | 1,238,332 | 1,237,046 | 10,890
25686 | WICS | 1,149,358 | 1,147,264 | 10,099
24970 | WICU-TV | 740,115 | 683,435 | 6,016
62210 | WICZ-TV | 1,249,974 | 965,416 | 8,499
18410 | WIDP | 2,559,306 | 1,899,768 | 16,724
26025 | WIFS | 1,583,693 | 1,578,870 | 13,899
720 | WIIQ | 353,241 | 347,685 | 3,061
68939 | WILL-TV | 1,178,545 | 1,158,147 | 10,195
6863 | WILX-TV | 3,378,644 | 3,218,221 | 28,330
22093 | WINK-TV | 1,851,105 | 1,851,105 | 16,295
67787 | WINM | 1,001,485 | 971,031 | 8,548
41314 | WINP-TV | 2,935,057 | 2,883,944 | 25,387
3646 | WIPB | 1,965,353 | 1,965,174 | 17,299
48408 | WIPL | 850,656 | 799,165 | 7,035
53863 | WIPM-TV ¹ | 2,196,157 | 1,554,017 | 2,543
53859 | WIPR-TV ¹ | 3,596,802 | 2,811,148 | 24,747
10253 | WIPX-TV | 2,305,723 | 2,303,534 | 20,278
39887 | WIRS ¹² | 1,091,825 | 757,978 | 5,281
71336 | WIRT-DT | 127,001 | 126,300 | 1,112
13990 | WIS | 2,644,715 | 2,600,887 | 22,896
65143 | WISC-TV | 1,734,112 | 1,697,537 | 14,943
13960 | WISE-TV | 1,070,155 | 1,070,155 | 9,421
39269 | WISH-TV | 2,912,963 | 2,855,253 | 25,135
65680 | WISN-TV | 3,003,636 | 2,997,695 | 26,389
73083 | WITF-TV | 2,412,561 | 2,191,501 | 19,292
73107 | WITI | 3,111,641 | 3,102,097 | 27,308
594 | WITN-TV | 1,861,458 | 1,836,905 | 16,170
61005 | WITV | 871,783 | 871,783 | 7,674
7780 | WIVB-TV | 1,900,503 | 1,820,106 | 16,022
11260 | WIVT | 855,138 | 613,934 | 5,404
60571 | WIWN | 3,338,845 | 3,323,941 | 29,261
62207 | WIYC | 639,641 | 637,499 | 5,612
73120 | WJAC-TV | 2,219,529 | 1,897,986 | 16,708
10259 | WJAL | 8,750,706 | 8,446,074 | 74,351
50780 | WJAR | 7,108,180 | 6,976,099 | 61,411
35576 | WJAX-TV | 1,630,782 | 1,630,782 | 14,356
27140 | WJBF | 1,601,088 | 1,588,444 | 13,983
73123 | WJBK | 5,748,623 | 5,711,224 | 50,276
37174 | WJCL | 938,086 | 938,086 | 8,258
73130 | WJCT | 1,618,817 | 1,617,292 | 14,237
29719 | WJEB-TV | 1,607,603 | 1,607,603 | 14,152
65749 | WJET-TV | 747,431 | 717,721 | 6,318
7651 | WJFB | 2,310,517 | 2,302,217 | 20,266
49699 | WJFW-TV | 277,530 | 268,295 | 2,362
73136 | WJHG-TV | 864,121 | 859,823 | 7,569
57826 | WJHL-TV | 2,034,663 | 1,462,129 | 12,871
68519 | WJKT | 655,780 | 655,373 | 5,769
1051 | WJLA-TV | 8,750,706 | 8,447,643 | 74,365
86537 | WJLP | 21,384,863 | 21,119,366 | 185,914
9630 | WJMN-TV | 160,991 | 154,424 | 1,359
61008 | WJPM-TV | 623,939 | 623,787 | 5,491
58340 | WJPX ⁶ ¹⁰ ¹² | 3,254,481 | 2,500,195 | 22,009
21735 | WJRT-TV | 2,788,684 | 2,543,446 | 22,390
23918 | WJSP-TV | 4,225,860 | 4,188,428 | 36,871
41210 | WJTC | 1,381,529 | 1,379,283 | 12,142
48667 | WJTV | 987,206 | 980,717 | 8,633
73150 | WJW | 3,977,148 | 3,905,325 | 34,379
61007 | WJWJ-TV | 1,034,555 | 1,034,555 | 9,107
58342 | WJWN-TV ⁶ | 2,063,156 | 1,461,497 | 5,281
53116 | WJXT | 1,622,616 | 1,622,616 | 14,284
11893 | WJXX | 1,618,191 | 1,617,272 | 14,237
32334 | WJYS | 9,667,341 | 9,667,317 | 85,101
25455 | WJZ-TV | 9,743,335 | 9,350,346 | 82,311
73152 | WJZY | 4,432,745 | 4,301,117 | 37,863
64983 | WKAQ-TV ³ | 3,697,088 | 2,731,588 | 2,969
6104 | WKAR-TV | 1,693,373 | 1,689,830 | 14,876
34171 | WKAS | 542,308 | 512,994 | 4,516
51570 | WKBD-TV | 5,065,617 | 5,065,350 | 44,590
73153 | WKBN-TV | 4,898,622 | 4,535,576 | 39,927
13929 | WKBS-TV | 1,082,894 | 937,847 | 8,256
74424 | WKBT-DT | 866,325 | 824,795 | 7,261
54176 | WKBW-TV | 2,247,191 | 2,161,366 | 19,027
53465 | WKCF | 4,241,181 | 4,240,354 | 37,328
73155 | WKEF | 3,730,595 | 3,716,127 | 32,713
34177 | WKGB-TV | 413,268 | 411,587 | 3,623
34196 | WKHA | 511,281 | 400,721 | 3,528
34207 | WKLE | 856,237 | 846,630 | 7,453
34212 | WKMA-TV | 524,617 | 524,035 | 4,613
71293 | WKMG-TV | 3,817,673 | 3,817,673 | 33,607
34195 | WKMJ-TV | 1,477,906 | 1,470,645 | 12,946
34202 | WKMR | 463,316 | 428,462 | 3,772
34174 | WKMU | 344,430 | 344,050 | 3,029
42061 | WKNO | 1,645,867 | 1,642,092 | 14,455
83931 | WKNX-TV | 1,684,178 | 1,459,493 | 12,848
34205 | WKOH | 584,645 | 579,258 | 5,099
67869 | WKOI-TV | 3,831,757 | 3,819,550 | 33,623
34211 | WKON | 1,080,274 | 1,072,320 | 9,440
18267 | WKOP-TV | 1,555,654 | 1,382,098 | 12,167
64545 | WKOW | 1,918,224 | 1,899,746 | 16,723
21432 | WKPC-TV | 1,525,919 | 1,517,701 | 13,360
65758 | WKPD | 283,454 | 282,250 | 2,485
34200 | WKPI-TV | 606,666 | 481,220 | 4,236
27504 | WKPT-TV | 1,131,213 | 887,806 | 7,815
58341 | WKPV ¹⁰ | 1,132,932 | 731,199 | 5,213
11289 | WKRC-TV | 3,281,914 | 3,229,223 | 28,427
73187 | WKRG-TV | 1,526,600 | 1,526,075 | 13,434
73188 | WKRN-TV | 2,409,767 | 2,388,588 | 21,027
34222 | WKSO-TV | 658,441 | 642,090 | 5,652
40902 | WKTC | 1,387,229 | 1,386,779 | 12,208
60654 | WKTV | 1,573,503 | 1,342,387 | 11,817
73195 | WKYC | 4,180,327 | 4,124,135 | 36,305
24914 | WKYT-TV | 1,174,615 | 1,156,978 | 10,185
71861 | WKYU-TV | 411,448 | 409,310 | 3,603
34181 | WKZT-TV | 1,044,532 | 1,020,878 | 8,987
18819 | WLAE-TV | 1,397,967 | 1,397,967 | 12,306
36533 | WLAJ | 4,100,475 | 4,063,963 | 35,775
2710 | WLAX | 469,017 | 447,381 | 3,938
68542 | WLBT | 948,671 | 947,857 | 8,344
39644 | WLBZ | 373,129 | 364,346 | 3,207
69328 | WLED-TV | 332,718 | 174,998 | 1,541
63046 | WLEF-TV | 200,517 | 199,188 | 1,753
73203 | WLEX-TV | 969,481 | 964,735 | 8,493
37806 | WLFB | 798,916 | 688,519 | 6,061
37808 | WLFG | 1,614,321 | 1,282,063 | 11,286
73204 | WLFI-TV | 2,243,009 | 2,221,313 | 19,554
73205 | WLFL | 3,747,583 | 3,743,960 | 32,958
19777 | WLII-DT ⁴ ⁸ | 2,801,102 | 2,153,564 | 18,958
37503 | WLIO | 1,067,232 | 1,050,170 | 9,245
38336 | WLIW | 20,027,920 | 19,717,729 | 173,575
27696 | WLJC-TV | 1,401,072 | 1,281,256 | 11,279
71645 | WLJT-DT | 385,493 | 385,380 | 3,393
53939 | WLKY | 1,927,997 | 1,919,810 | 16,900
11033 | WLLA | 2,081,693 | 2,081,436 | 18,323
17076 | WLMB | 2,754,484 | 2,747,490 | 24,186
68518 | WLMT | 1,736,552 | 1,733,496 | 15,260
22591 | WLNE-TV | 6,429,522 | 6,381,825 | 56,179
74420 | WLNS-TV | 4,100,475 | 4,063,963 | 35,775
73206 | WLNY-TV | 7,501,199 | 7,415,578 | 65,279
84253 | WLOO | 913,960 | 912,674 | 8,034
56537 | WLOS | 3,086,751 | 2,544,360 | 22,398
37732 | WLOV-TV | 609,526 | 607,780 | 5,350
13995 | WLOX | 1,182,149 | 1,170,659 | 10,305
38586 | WLPB-TV | 1,219,624 | 1,219,407 | 10,734
73189 | WLPX-TV | 1,066,912 | 1,022,543 | 9,001
66358 | WLRN-TV | 5,447,399 | 5,447,399 | 47,953
73226 | WLS-TV | 10,174,464 | 10,170,757 | 89,533
73230 | WLTV-DT | 5,427,398 | 5,427,398 | 47,777
37176 | WLTX | 1,580,677 | 1,578,645 | 13,897
37179 | WLTZ | 689,521 | 685,358 | 6,033
21259 | WLUC-TV | 92,246 | 85,393 | 752
4150 | WLUK-TV | 1,251,563 | 1,247,414 | 10,981
73238 | WLVI | 7,441,208 | 7,343,735 | 64,647
36989 | WLVT-TV | 10,613,847 | 9,474,797 | 83,407
3978 | WLWC | 3,281,532 | 3,150,875 | 27,737
46979 | WLWT | 3,367,381 | 3,355,009 | 29,534
54452 | WLXI | 4,184,851 | 4,166,318 | 36,676
55350 | WLYH | 2,829,585 | 2,367,000 | 20,837
43192 | WMAB-TV | 405,483 | 399,560 | 3,517
43170 | WMAE-TV | 686,076 | 653,173 | 5,750
43197 | WMAH-TV | 1,257,393 | 1,256,995 | 11,065
43176 | WMAO-TV | 369,696 | 369,343 | 3,251
47905 | WMAQ-TV | 9,914,395 | 9,913,272 | 87,267
59442 | WMAR-TV | 9,198,495 | 9,072,076 | 79,861
43184 | WMAU-TV | 642,328 | 636,504 | 5,603
43193 | WMAV-TV | 1,008,339 | 1,008,208 | 8,875
43169 | WMAW-TV | 726,173 | 715,450 | 6,298
46991 | WMAZ-TV | 1,185,678 | 1,136,616 | 10,006
66398 | WMBB | 935,027 | 914,607 | 8,051
43952 | WMBC-TV | 18,706,132 | 18,458,331 | 162,489
42121 | WMBD-TV | 742,729 | 742,660 | 6,538
83969 | WMBF-TV | 445,363 | 445,363 | 3,921
60829 | WMCF-TV | 612,942 | 609,635 | 5,367
9739 | WMCN-TV | 10,448,829 | 10,049,700 | 88,468
19184 | WMC-TV | 2,047,403 | 2,043,125 | 17,986
189357 | WMDE | 6,384,827 | 6,257,910 | 55,088
73255 | WMDN | 278,227 | 278,018 | 2,447
16455 | WMDT | 731,868 | 731,868 | 6,443
39656 | WMEA-TV | 902,755 | 853,857 | 7,517
39648 | WMEB-TV | 511,761 | 494,574 | 4,354
70537 | WMEC | 218,027 | 217,839 | 1,918
39649 | WMED-TV | 30,488 | 29,577 | 260
39662 | WMEM-TV | 71,700 | 69,981 | 616
41893 | WMFD-TV | 1,561,367 | 1,324,244 | 11,657
41436 | WMFP | 5,792,048 | 5,564,295 | 48,982
61111 | WMGM-TV | 807,797 | 807,797 | 7,111
43847 | WMGT-TV | 601,894 | 601,309 | 5,293
73263 | WMHT | 1,719,949 | 1,550,977 | 13,653
68545 | WMLW-TV | 1,843,933 | 1,843,663 | 16,230
53819 | WMOR-TV | 5,394,541 | 5,394,541 | 47,488
81503 | WMOW | 121,150 | 105,957 | 933
65944 | WMPB | 7,279,563 | 7,190,696 | 63,300
43168 | WMPN-TV | 856,237 | 854,089 | 7,519
65942 | WMPT | 8,637,742 | 8,584,398 | 75,568
60827 | WMPV-TV | 1,423,052 | 1,422,411 | 12,521
10221 | WMSN-TV | 1,947,942 | 1,927,158 | 16,965
2174 | WMTJ ¹¹ | 3,143,148 | 2,365,308 | 20,822
6870 | WMTV | 1,548,616 | 1,545,459 | 13,605
73288 | WMTW | 1,940,292 | 1,658,816 | 14,603
23935 | WMUM-TV | 925,814 | 920,835 | 8,106
73292 | WMUR-TV | 5,242,334 | 5,057,770 | 44,524
42663 | WMVS | 3,172,534 | 3,112,231 | 27,397
42665 | WMVT | 3,172,534 | 3,112,231 | 27,397
81946 | WMWC-TV | 946,858 | 916,989 | 8,072
56548 | WMYA-TV | 1,650,798 | 1,571,594 | 13,835
74211 | WMYD | 5,750,989 | 5,750,873 | 50,625
20624 | WMYT-TV | 4,432,745 | 4,301,117 | 37,863
25544 | WMYV | 3,901,915 | 3,875,210 | 34,113
73310 | WNAB | 2,176,984 | 2,166,809 | 19,074
73311 | WNAC-TV | 7,310,183 | 6,959,064 | 61,261
47535 | WNBC | 21,952,082 | 21,399,204 | 188,377
83965 | WNBW-DT | 1,400,631 | 1,396,012 | 12,289
72307 | WNCF | 667,683 | 665,950 | 5,862
50782 | WNCN | 3,795,494 | 3,783,131 | 33,303
57838 | WNCT-TV | 1,935,414 | 1,887,929 | 16,619
41674 | WNDU-TV | 1,863,764 | 1,835,398 | 16,157
28462 | WNDY-TV | 2,912,963 | 2,855,253 | 25,135
71928 | WNED-TV | 1,387,961 | 1,370,480 | 12,064
60931 | WNEH | 1,261,482 | 1,255,218 | 11,050
41221 | WNEM-TV | 1,475,094 | 1,471,908 | 12,957
49439 | WNEO | 3,353,869 | 3,271,369 | 28,798
73318 | WNEP-TV | 3,429,213 | 2,838,000 | 24,983
18795 | WNET | 21,113,760 | 20,615,190 | 181,476
51864 | WNEU | 7,135,190 | 7,067,520 | 62,215
23942 | WNGH-TV | 5,744,856 | 5,595,366 | 49,256
67802 | WNIN | 908,275 | 891,946 | 7,852
41671 | WNIT | 1,305,447 | 1,305,447 | 11,492
48457 | WNJB | 20,787,272 | 20,036,393 | 176,380
48477 | WNJN | 20,787,272 | 20,036,393 | 176,380
48481 | WNJS | 7,383,483 | 7,343,269 | 64,643
48465 | WNJT | 7,383,483 | 7,343,269 | 64,643
73333 | WNJU | 21,952,082 | 21,399,204 | 188,377
73336 | WNJX-TV ² | 1,628,732 | 1,170,083 | 2,688
61217 | WNKY | 379,002 | 377,357 | 3,322
71905 | WNLO | 1,900,503 | 1,820,106 | 16,022
4318 | WNMU | 181,736 | 179,662 | 1,582
73344 | WNNE | 792,551 | 676,539 | 5,956
54280 | WNOL-TV | 1,632,389 | 1,632,389 | 14,370
71676 | WNPB-TV | 2,130,047 | 1,941,707 | 17,093
62137 | WNPI-DT | 167,931 | 161,748 | 1,424
41398 | WNPT | 2,266,543 | 2,235,316 | 19,677
28468 | WNPX-TV | 2,084,890 | 2,071,017 | 18,231
61009 | WNSC-TV | 2,431,154 | 2,425,044 | 21,348
61010 | WNTV | 2,419,841 | 2,211,019 | 19,464
16539 | WNTZ-TV | 344,704 | 343,849 | 3,027
7933 | WNUV | 9,098,694 | 8,906,508 | 78,404
9999 | WNVC | 807,960 | 690,381 | 6,077
10019 | WNVT | 1,721,004 | 1,712,249 | 15,073
73354 | WNWO-TV | 2,872,428 | 2,872,250 | 25,284
136751 | WNYA | 1,923,118 | 1,651,777 | 14,541
30303 | WNYB | 1,785,269 | 1,756,096 | 15,459
6048 | WNYE-TV | 19,414,613 | 19,180,858 | 168,849
34329 | WNYI | 1,627,542 | 1,338,811 | 11,786
67784 | WNYO-TV | 1,430,491 | 1,409,756 | 12,410
73363 | WNYT | 1,679,494 | 1,516,775 | 13,352
22206 | WNYW | 20,075,874 | 19,753,060 | 173,886
69618 | WOAI-TV | 2,525,811 | 2,513,887 | 22,130
66804 | WOAY-TV | 581,486 | 443,210 | 3,902
41225 | WOFL | 4,048,104 | 4,043,672 | 35,596
70651 | WOGX | 1,112,408 | 1,112,408 | 9,793
8661 | WOI-DT | 1,173,757 | 1,170,432 | 10,303
39746 | WOIO | 3,821,233 | 3,745,335 | 32,970
71725 | WOLE-DT ⁴ | 1,784,094 | 1,312,984 | 8,332
73375 | WOLF-TV | 2,990,646 | 2,522,858 | 22,209
60963 | WOLO-TV | 2,635,715 | 2,594,980 | 22,844
36838 | WOOD-TV | 2,507,053 | 2,501,084 | 22,017
67602 | WOPX-TV | 3,877,863 | 3,877,805 | 34,136
64865 | WORA-TV ³ ¹³ | 3,594,115 | 2,762,755 | 24,321
73901 | WORO-DT | 3,243,301 | 2,511,742 | 22,111
60357 | WOST | 1,193,381 | 853,762 | 7,516
66185 | WOSU-TV | 2,843,651 | 2,776,901 | 24,445
131 | WOTF-TV | 3,451,383 | 3,451,383 | 30,383
10212 | WOTV | 2,368,797 | 2,368,397 | 20,849
50147 | WOUB-TV | 756,762 | 734,988 | 6,470
50141 | WOUC-TV | 1,713,515 | 1,649,853 | 14,524
23342 | WOWK-TV | 1,159,175 | 1,083,663 | 9,539
65528 | WOWT | 1,380,979 | 1,377,287 | 12,124
31570 | WPAN | 1,254,821 | 1,254,636 | 11,045
51988 | WPBF | 3,190,307 | 3,186,405 | 28,050
21253 | WPBN-TV | 442,005 | 430,953 | 3,794
62136 | WPBS-TV | 338,448 | 301,692 | 2,656
13456 | WPBT | 5,416,604 | 5,416,604 | 47,682
13924 | WPCB-TV | 2,934,614 | 2,800,516 | 24,653
64033 | WPCH-TV | 5,948,778 | 5,874,163 | 51,710
4354 | WPCT | 195,270 | 194,869 | 1,715
69880 | WPCW | 3,393,365 | 3,188,441 | 28,068
17012 | WPDE-TV | 1,772,233 | 1,769,553 | 15,577
52527 | WPEC | 5,764,571 | 5,764,571 | 50,746
84088 | WPFO | 1,329,690 | 1,209,873 | 10,651
54728 | WPGA-TV | 559,495 | 559,025 | 4,921
60820 | WPGD-TV | 2,355,629 | 2,343,715 | 20,632
73875 | WPGH-TV | 3,236,098 | 3,121,767 | 27,481
2942 | WPGX | 425,098 | 422,872 | 3,723
73879 | WPHL-TV | 10,421,216 | 10,246,856 | 90,203
73881 | WPIX | 20,638,932 | 20,213,158 | 177,936
53113 | WPLG | 5,587,129 | 5,587,129 | 49,183
11906 | WPMI-TV | 1,468,001 | 1,467,594 | 12,919
10213 | WPMT | 2,412,561 | 2,191,501 | 19,292
18798 | WPNE-TV | 1,161,295 | 1,160,631 | 10,217
73907 | WPNT | 3,172,170 | 3,064,423 | 26,976
28480 | WPPT | 10,613,847 | 9,474,797 | 83,407
51984 | WPPX-TV | 8,206,117 | 7,995,941 | 70,388
47404 | WPRI-TV | 7,254,721 | 6,990,606 | 61,538
51991 | WPSD-TV | 883,814 | 879,213 | 7,740
12499 | WPSG | 10,798,264 | 10,529,460 | 92,691
66219 | WPSU-TV | 1,055,133 | 868,013 | 7,641
73905 | WPTA | 1,099,180 | 1,099,180 | 9,676
25067 | WPTD | 3,423,417 | 3,411,727 | 30,033
25065 | WPTO | 2,961,254 | 2,951,883 | 25,985
59443 | WPTV-TV | 5,840,102 | 5,840,102 | 51,410
57476 | WPTZ | 792,551 | 676,539 | 5,956
8616 | WPVI-TV | 11,491,587 | 11,302,701 | 99,498
48772 | WPWR-TV | 9,957,301 | 9,954,828 | 87,632
51969 | WPXA-TV | 6,587,205 | 6,458,510 | 56,854
71236 | WPXC-TV | 1,561,014 | 1,561,014 | 13,742
5800 | WPXD-TV | 5,249,447 | 5,249,447 | 46,211
37104 | WPXE-TV | 3,067,071 | 3,057,388 | 26,914
48406 | WPXG-TV | 2,577,848 | 2,512,150 | 22,114
73312 | WPXH-TV | 1,471,601 | 1,451,634 | 12,779
73910 | WPXI | 3,300,896 | 3,197,864 | 28,151
2325 | WPXJ-TV | 2,357,870 | 2,289,706 | 20,156
52628 | WPXK-TV | 1,801,997 | 1,577,806 | 13,889
21729 | WPXL-TV | 1,639,180 | 1,639,180 | 14,430
48608 | WPXM-TV | 5,153,621 | 5,153,621 | 45,367
73356 | WPXN-TV | 20,878,066 | 20,454,468 | 180,061
27290 | WPXP-TV | 5,565,072 | 5,565,072 | 48,989
50063 | WPXQ-TV | 3,281,532 | 3,150,875 | 27,737
70251 | WPXR-TV | 1,375,640 | 1,200,331 | 10,567
40861 | WPXS | 2,339,305 | 2,251,498 | 19,820
53065 | WPXT | 1,002,128 | 952,535 | 8,385
37971 | WPXU-TV | 700,488 | 700,488 | 6,166
67077 | WPXV-TV | 1,919,794 | 1,919,794 | 16,900
74091 | WPXW-TV | 8,075,268 | 8,024,342 | 70,638
21726 | WPXX-TV | 1,562,675 | 1,560,834 | 13,740
73319 | WQAD-TV | 1,101,012 | 1,089,523 | 9,591
65130 | WQCW | 1,307,345 | 1,236,020 | 10,881
71561 | WQEC | 183,969 | 183,690 | 1,617
41315 | WQED | 3,529,305 | 3,426,684 | 30,165
3255 | WQHA | 3,229,803 | 1,875,347 | 16,509
60556 | WQHS-DT | 3,996,567 | 3,952,672 | 34,795
53716 | WQLN | 602,232 | 577,633 | 5,085
52075 | WQMY | 410,269 | 254,586 | 2,241
64550 | WQOW | 369,066 | 358,576 | 3,157
5468 | WQPT-TV | 941,381 | 933,107 | 8,214
64690 | WQPX-TV | 1,644,283 | 1,212,587 | 10,674
52408 | WQRF-TV | 1,375,774 | 1,354,979 | 11,928
2175 | WQTO ¹¹ | 2,864,201 | 1,598,365 | 6,468
8688 | WRAL-TV | 3,852,675 | 3,848,801 | 33,881
10133 | WRAY-TV | 4,184,851 | 4,166,318 | 36,676
64611 | WRAZ | 3,800,594 | 3,797,515 | 33,430
136749 | WRBJ-TV | 1,030,831 | 1,028,010 | 9,050
3359 | WRBL | 1,493,140 | 1,461,459 | 12,865
57221 | WRBU | 2,933,497 | 2,929,776 | 25,791
54940 | WRBW | 4,080,267 | 4,077,341 | 35,893
59137 | WRCB | 1,587,742 | 1,363,582 | 12,004
47904 | WRC-TV | 8,188,601 | 8,146,696 | 71,715
54963 | WRDC | 3,972,477 | 3,966,864 | 34,920
55454 | WRDQ | 3,930,315 | 3,930,315 | 34,599
73937 | WRDW-TV | 1,564,584 | 1,533,682 | 13,501
66174 | WREG-TV | 1,642,307 | 1,638,585 | 14,424
61011 | WRET-TV | 2,419,841 | 2,211,019 | 19,464
73940 | WREX | 2,303,027 | 2,047,951 | 18,028
54443 | WRFB ¹³ | 2,674,527 | 1,975,375 | 2,969
73942 | WRGB | 1,757,575 | 1,645,483 | 14,485
411 | WRGT-TV | 3,451,036 | 3,416,078 | 30,072
74416 | WRIC-TV | 2,059,152 | 1,996,075 | 17,571
61012 | WRJA-TV | 1,204,291 | 1,201,900 | 10,580
412 | WRLH-TV | 2,017,508 | 1,959,111 | 17,246
61013 | WRLK-TV | 1,229,094 | 1,228,616 | 10,816
43870 | WRLM | 3,960,217 | 3,945,408 | 34,731
74156 | WRNN-TV | 19,853,836 | 19,615,370 | 172,674
73964 | WROC-TV | 1,203,412 | 1,185,203 | 10,433
159007 | WRPT | 110,009 | 109,937 | 968
20590 | WRPX-TV | 2,637,949 | 2,634,141 | 23,188
62009 | WRSP-TV | 1,156,134 | 1,154,040 | 10,159
40877 | WRTV | 2,919,683 | 2,895,164 | 25,486
15320 | WRUA | 2,905,193 | 2,121,362 | 18,674
71580 | WRXY-TV | 1,784,000 | 1,784,000 | 15,705
48662 | WSAV-TV | 1,000,315 | 1,000,309 | 8,806
6867 | WSAW-TV | 652,442 | 646,386 | 5,690
36912 | WSAZ-TV | 1,239,187 | 1,168,954 | 10,290
56092 | WSBE-TV | 7,535,710 | 7,266,304 | 63,965
73982 | WSBK-TV | 7,290,901 | 7,225,463 | 63,606
72053 | WSBS-TV | 42,952 | 42,952 | 378
73983 | WSBT-TV | 1,763,215 | 1,752,698 | 15,429
23960 | WSB-TV | 5,897,425 | 5,828,269 | 51,306
69446 | WSCG | 867,516 | 867,490 | 7,637
64971 | WSCV | 5,465,435 | 5,465,435 | 48,112
70536 | WSEC | 538,090 | 536,891 | 4,726
49711 | WSEE-TV | 613,176 | 595,476 | 5,242
21258 | WSES | 1,829,499 | 1,796,561 | 15,815
73988 | WSET-TV | 1,575,886 | 1,340,273 | 11,798
13993 | WSFA | 1,166,744 | 1,132,826 | 9,972
11118 | WSFJ-TV | 1,675,987 | 1,667,150 | 14,676
10203 | WSFL-TV | 5,344,129 | 5,344,129 | 47,044
72871 | WSFX-TV | 970,833 | 970,833 | 8,546
73999 | WSIL-TV | 672,560 | 669,176 | 5,891
4297 | WSIU-TV | 1,019,939 | 937,070 | 8,249
74007 | WSJV | 1,651,178 | 1,644,683 | 14,478
78908 | WSKA | 546,588 | 431,354 | 3,797
74034 | WSKG-TV | 892,402 | 633,163 | 5,574
76324 | WSKY-TV | 1,934,585 | 1,934,519 | 17,030
57840 | WSLS-TV | 1,447,286 | 1,277,753 | 11,248
21737 | WSMH | 2,339,224 | 2,327,660 | 20,490
41232 | WSMV-TV | 2,447,769 | 2,404,766 | 21,169
70119 | WSNS-TV | 9,914,395 | 9,913,272 | 87,267
74070 | WSOC-TV | 3,706,808 | 3,638,832 | 32,033
66391 | WSPA-TV | 3,388,945 | 3,227,025 | 28,408
64352 | WSPX-TV | 1,298,295 | 1,174,763 | 10,341
17611 | WSRE | 1,354,495 | 1,353,634 | 11,916
63867 | WSST-TV | 331,907 | 331,601 | 2,919
60341 | WSTE-DT | 3,723,967 | 3,033,272 | 26,702
21252 | WSTM-TV | 1,455,586 | 1,379,393 | 12,143
11204 | WSTR-TV | 3,297,280 | 3,286,795 | 28,934
19776 | WSUR-DT ⁸ | 3,714,790 | 3,015,529 | 8,332
2370 | WSVI | 50,601 | 50,601 | 445
63840 | WSVN | 5,588,748 | 5,588,748 | 49,198
73374 | WSWB | 1,530,002 | 1,102,316 | 9,704
28155 | WSWG | 381,004 | 380,910 | 3,353
71680 | WSWP-TV | 902,592 | 694,697 | 6,115
74094 | WSYM-TV | 1,498,905 | 1,498,671 | 13,193
73113 | WSYR-TV | 1,329,977 | 1,243,098 | 10,943
40758 | WSYT | 1,970,721 | 1,739,071 | 15,309
56549 | WSYX | 2,635,937 | 2,592,420 | 22,821
65681 | WTAE-TV | 2,995,755 | 2,860,979 | 25,185
23341 | WTAJ-TV | 1,187,718 | 948,598 | 8,351
4685 | WTAP-TV | 512,358 | 494,914 | 4,357
416 | WTAT-TV | 1,111,476 | 1,111,476 | 9,784
67993 | WTBY-TV | 15,858,470 | 15,766,438 | 138,792
29715 | WTCE-TV | 2,620,599 | 2,620,599 | 23,069
65667 | WTCI | 1,216,209 | 1,104,698 | 9,725
67786 | WTCT | 608,457 | 607,620 | 5,349
28954 | WTCV ⁵ ⁹ | 3,254,481 | 2,500,195 | 22,009
74422 | WTEN | 1,902,431 | 1,613,747 | 14,206
9881 | WTGL | 3,707,507 | 3,707,507 | 32,637
27245 | WTGS | 966,519 | 966,357 | 8,507
70655 | WTHI-TV | 928,934 | 886,846 | 7,807
70162 | WTHR | 2,949,339 | 2,901,633 | 25,543
147 | WTIC-TV | 5,318,753 | 4,707,697 | 41,442
26681 | WTIN-TV ⁷ | 3,714,547 | 2,898,224 | 2,688
66536 | WTIU | 1,570,257 | 1,569,135 | 13,813
1002 | WTJP-TV | 1,947,743 | 1,907,300 | 16,790
4593 | WTJR | 334,527 | 334,221 | 2,942
70287 | WTJX-TV | 135,017 | 121,498 | 1,070
47401 | WTKR | 2,149,376 | 2,149,375 | 18,921
82735 | WTLF | 349,696 | 349,691 | 3,078
23486 | WTLH | 1,065,127 | 1,065,105 | 9,376
67781 | WTLJ | 1,622,365 | 1,621,227 | 14,272
65046 | WTLV | 1,757,600 | 1,739,021 | 15,309
1222 | WTLW | 1,646,714 | 1,644,206 | 14,474
74098 | WTMJ-TV | 3,096,406 | 3,085,983 | 27,166
74109 | WTNH | 7,845,782 | 7,332,431 | 64,547
19200 | WTNZ | 1,699,427 | 1,513,754 | 13,326
590 | WTOC-TV | 993,098 | 992,658 | 8,738
74112 | WTOG | 5,268,364 | 5,267,177 | 46,367
4686 | WTOK-TV | 417,919 | 412,276 | 3,629
13992 | WTOL | 4,184,020 | 4,174,198 | 36,745
21254 | WTOM-TV | 120,369 | 117,121 | 1,031
74122 | WTOV-TV | 3,892,886 | 3,619,899 | 31,866
82574 | WTPC-TV | 2,049,246 | 2,042,851 | 17,983
86496 | WTPX-TV | 255,972 | 255,791 | 2,252
6869 | WTRF-TV | 2,941,511 | 2,565,375 | 22,583
67798 | WTSF | 922,441 | 851,465 | 7,495
11290 | WTSP | 5,506,869 | 5,489,954 | 48,328
4108 | WTTA | 5,583,544 | 5,576,649 | 49,091
74137 | WTTE | 2,690,341 | 2,650,354 | 23,331
22207 | WTTG | 8,101,358 | 8,049,329 | 70,858
56526 | WTTK | 2,844,384 | 2,825,807 | 24,876
74138 | WTTO | 1,877,570 | 1,844,214 | 16,235
56523 | WTTV | 2,522,077 | 2,518,133 | 22,167
10802 | WTTW | 9,729,982 | 9,729,634 | 85,650
74148 | WTVA | 823,492 | 810,123 | 7,132
22590 | WTVC | 1,579,628 | 1,366,976 | 12,033
8617 | WTVD | 3,790,354 | 3,775,757 | 33,238
55305 | WTVE | 5,156,905 | 5,152,997 | 45,362
36504 | WTVF | 2,384,622 | 2,367,601 | 20,842
74150 | WTVG | 4,405,350 | 4,397,113 | 38,708
74151 | WTVH | 1,390,502 | 1,327,319 | 11,684
10645 | WTVI | 2,856,703 | 2,829,960 | 24,912
63154 | WTVJ | 5,458,451 | 5,458,451 | 48,051
595 | WTVM | 1,498,667 | 1,405,957 | 12,377
72945 | WTVO | 1,409,708 | 1,398,825 | 12,314
28311 | WTVP | 678,884 | 678,539 | 5,973
51597 | WTVQ-DT | 989,786 | 983,552 | 8,658
57832 | WTVR-TV | 1,816,197 | 1,809,035 | 15,925
16817 | WTVS | 5,511,091 | 5,510,837 | 48,512
68569 | WTVT | 5,473,148 | 5,460,179 | 48,066
3661 | WTVW | 839,003 | 834,187 | 7,343
35575 | WTVX | 3,157,609 | 3,157,609 | 27,796
4152 | WTVY | 974,532 | 971,173 | 8,549
40759 | WTVZ-TV | 2,156,534 | 2,156,346 | 18,982
66908 | WTWC-TV | 1,061,101 | 1,061,079 | 9,341
20426 | WTWO | 737,341 | 731,294 | 6,438
81692 | WTWV | 1,527,511 | 1,526,625 | 13,439
51568 | WTXF-TV | 10,784,256 | 10,492,549 | 92,366
41065 | WTXL-TV | 1,054,514 | 1,054,322 | 9,281
8532 | WUAB | 3,821,233 | 3,745,335 | 32,970
12855 | WUCF-TV | 3,707,507 | 3,707,507 | 32,637
36395 | WUCW | 3,664,480 | 3,657,236 | 32,195
69440 | WUFT | 1,372,142 | 1,372,142 | 12,079
413 | WUHF | 1,152,580 | 1,147,972 | 10,106
8156 | WUJA | 2,638,361 | 1,977,410 | 17,407
69080 | WUNC-TV | 4,184,851 | 4,166,318 | 36,676
69292 | WUND-TV | 1,504,532 | 1,504,532 | 13,244
69114 | WUNE-TV | 3,146,865 | 2,625,942 | 23,116
69300 | WUNF-TV | 2,625,583 | 2,331,723 | 20,526
69124 | WUNG-TV | 3,605,143 | 3,588,220 | 31,587
60551 | WUNI | 7,209,571 | 7,084,349 | 62,364
69332 | WUNJ-TV | 1,116,458 | 1,116,458 | 9,828
69149 | WUNK-TV | 1,991,039 | 1,985,696 | 17,480
69360 | WUNL-TV | 3,055,263 | 2,834,274 | 24,950
69444 | WUNM-TV | 1,357,346 | 1,357,346 | 11,949
69397 | WUNP-TV | 1,402,186 | 1,393,524 | 12,267
69416 | WUNU | 1,202,495 | 1,201,481 | 10,577
83822 | WUNW | 1,109,237 | 570,072 | 5,018
6900 | WUPA | 5,966,454 | 5,888,379 | 51,835
13938 | WUPL | 1,721,320 | 1,721,320 | 15,153
10897 | WUPV | 1,933,664 | 1,914,643 | 16,855
19190 | WUPW | 2,100,914 | 2,099,572 | 18,483
23128 | WUPX-TV | 1,102,435 | 1,089,118 | 9,588
65593 | WUSA | 8,750,706 | 8,446,074 | 74,351
4301 | WUSI-TV | 339,507 | 339,507 | 2,989
60552 | WUTB | 8,523,983 | 8,381,042 | 73,778
30577 | WUTF-TV | 7,918,927 | 7,709,189 | 67,864
57837 | WUTR | 526,114 | 481,957 | 4,243
415 | WUTV | 1,589,376 | 1,557,474 | 13,710
16517 | WUVC-DT | 3,768,817 | 3,748,841 | 33,001
48813 | WUVG-DT | 6,029,495 | 5,965,975 | 52,518
3072 | WUVN | 1,233,568 | 1,157,140 | 10,186
60560 | WUVP-DT | 10,421,216 | 10,246,856 | 90,203
9971 | WUXP-TV | 2,316,872 | 2,305,293 | 20,293
417 | WVAH-TV | 1,373,555 | 1,295,383 | 11,403
23947 | WVAN-TV | 1,026,862 | 1,025,950 | 9,031
65387 | WVBT | 1,885,169 | 1,885,169 | 16,595
72342 | WVCY-TV | 3,111,641 | 3,102,097 | 27,308
60559 | WVEA-TV | 4,553,004 | 4,552,113 | 40,072
74167 | WVEC | 2,098,679 | 2,092,868 | 18,424
5802 | WVEN-TV | 3,921,016 | 3,919,361 | 34,502
61573 | WVEO ⁵ | 1,091,825 | 757,978 | 5,281
69946 | WVER | 888,756 | 758,441 | 6,677
10976 | WVFX | 731,193 | 609,763 | 5,368
47929 | WVIA-TV | 3,429,213 | 2,838,000 | 24,983
3667 | WVII-TV | 368,022 | 346,874 | 3,054
70309 | WVIR-TV | 1,945,637 | 1,908,395 | 16,800
74170 | WVIT | 5,846,093 | 5,357,639 | 47,163
18753 | WVIZ | 3,695,223 | 3,689,173 | 32,476
70021 | WVLA-TV | 1,897,179 | 1,897,007 | 16,699
81750 | WVLR | 1,412,728 | 1,300,554 | 11,449
35908 | WVLT-TV | 1,888,607 | 1,633,633 | 14,381
74169 | WVNS-TV | 916,451 | 588,963 | 5,185
11259 | WVNY | 742,579 | 659,270 | 5,804
29000 | WVOZ-TV ⁹ | 1,132,932 | 731,199 | 5,281
71657 | WVPB-TV | 992,798 | 959,526 | 8,447
60111 | WVPT | 767,268 | 642,173 | 5,653
70491 | WVPX-TV | 4,147,298 | 4,114,920 | 36,224
66378 | WVPY | 756,696 | 632,649 | 5,569
67190 | WVSN | 2,948,832 | 2,137,333 | 18,815
69943 | WVTA | 888,756 | 758,441 | 6,677
69940 | WVTB | 455,880 | 257,445 | 2,266
74173 | WVTM-TV | 2,009,346 | 1,940,153 | 17,079
74174 | WVTV | 3,091,132 | 3,083,108 | 27,141
77496 | WVUA | 2,209,921 | 2,160,101 | 19,015
4149 | WVUE-DT | 1,658,125 | 1,658,125 | 14,596
4329 | WVUT | 273,293 | 273,215 | 2,405
74176 | WVVA | 1,037,632 | 722,666 | 6,362
3113 | WVXF | 85,191 | 78,556 | 692
12033 | WWAY | 1,208,625 | 1,208,625 | 10,640
30833 | WWBT | 1,924,502 | 1,892,842 | 16,663
20295 | WWCP-TV | 2,811,278 | 2,548,691 | 22,436
24812 | WWCW | 1,390,985 | 1,212,308 | 10,672
23671 | WWDP | 5,792,048 | 5,564,295 | 48,982
21158 | WWHO | 2,762,344 | 2,721,504 | 23,957
14682 | WWJE-DT | 7,209,571 | 7,084,349 | 62,364
72123 | WWJ-TV | 5,562,031 | 5,561,777 | 48,960
166512 | WWJX | 518,866 | 518,846 | 4,567
6868 | WWLP | 3,838,272 | 3,077,800 | 27,094
74192 | WWL-TV | 1,788,624 | 1,788,624 | 15,745
3133 | WWMB | 1,547,974 | 1,544,778 | 13,599
74195 | WWMT | 2,538,485 | 2,531,309 | 22,283
68851 | WWNY-TV | 375,600 | 346,623 | 3,051
74197 | WWOR-TV | 19,853,836 | 19,615,370 | 172,674
65943 | WWPB | 3,197,858 | 2,775,966 | 24,437
23264 | WWPX-TV | 2,299,441 | 2,231,612 | 19,645
68547 | WWRS-TV | 2,324,155 | 2,321,066 | 20,432
61251 | WWSB | 3,340,133 | 3,340,133 | 29,403
23142 | WWSI | 11,269,831 | 11,098,540 | 97,700
16747 | WWTI | 196,531 | 190,097 | 1,673
998 | WWTO-TV | 5,613,737 | 5,613,737 | 49,418
26994 | WWTV | 1,034,174 | 1,022,322 | 9,000
84214 | WWTW | 1,527,511 | 1,526,625 | 13,439
26993 | WWUP-TV | 116,638 | 110,592 | 974
23338 | WXBU | 4,030,693 | 3,538,096 | 31,146
61504 | WXCW | 1,749,847 | 1,749,847 | 15,404
61084 | WXEL-TV | 5,416,604 | 5,416,604 | 47,682
60539 | WXFT-DT | 10,174,464 | 10,170,757 | 89,533
23929 | WXGA-TV | 608,494 | 606,849 | 5,342
51163 | WXIA-TV | 6,179,680 | 6,035,625 | 53,132
53921 | WXII-TV | 3,630,551 | 3,299,114 | 29,042
146 | WXIN | 2,836,532 | 2,814,815 | 24,779
39738 | WXIX-TV | 2,911,054 | 2,900,875 | 25,536
414 | WXLV-TV | 4,364,244 | 4,334,365 | 38,155
68433 | WXMI | 1,988,970 | 1,988,589 | 17,506
64549 | WXOW | 425,378 | 413,264 | 3,638
6601 | WXPX-TV | 4,594,588 | 4,592,639 | 40,429
74215 | WXTV-DT | 20,362,721 | 19,974,644 | 175,837
12472 | WXTX | 699,095 | 694,837 | 6,117
11970 | WXXA-TV | 1,680,670 | 1,537,868 | 13,538
57274 | WXXI-TV | 1,184,860 | 1,168,696 | 10,288
53517 | WXXV-TV | 1,191,123 | 1,189,584 | 10,472
10267 | WXYZ-TV | 5,622,543 | 5,622,140 | 49,492
12279 | WYCC | 9,729,982 | 9,729,634 | 85,650
77515 | WYCI | 35,873 | 26,508 | 233
70149 | WYCW | 3,388,945 | 3,227,025 | 28,408
62219 | WYDC | 560,266 | 449,486 | 3,957
18783 | WYDN | 2,577,848 | 2,512,150 | 22,114
35582 | WYDO | 1,330,728 | 1,330,728 | 11,714
25090 | WYES-TV | 1,872,245 | 1,872,059 | 16,480
53905 | WYFF | 2,626,363 | 2,416,551 | 21,273
49803 | WYIN | 6,956,141 | 6,956,141 | 61,235
24915 | WYMT-TV | 1,180,276 | 863,881 | 7,605
17010 | WYOU | 2,879,196 | 2,226,883 | 19,603
77789 | WYOW | 91,839 | 91,311 | 804
13933 | WYPX-TV | 1,529,500 | 1,413,583 | 12,444
4693 | WYTV | 4,898,622 | 4,535,576 | 39,927
5875 | WYZZ-TV | 1,042,140 | 1,036,721 | 9,126
15507 | WZBJ | 1,626,017 | 1,435,762 | 12,639
28119 | WZDX | 1,596,771 | 1,514,654 | 13,333
70493 | WZME | 5,996,408 | 5,544,708 | 48,810
81448 | WZMQ | 73,423 | 72,945 | 642
71871 | WZPX-TV | 2,039,157 | 2,039,157 | 17,951
136750 | WZRB | 952,279 | 951,693 | 8,378
418 | WZTV | 2,312,658 | 2,301,187 | 20,257
83270 | WZVI | 76,992 | 75,863 | 668
19183 | WZVN-TV | 1,981,488 | 1,981,488 | 17,443
49713 | WZZM | 1,574,546 | 1,548,835 | 13,634
¹ Call signs WIPM and WIPR are stations in Puerto Rico that are linked together with a total fee of $27,290.
² Call signs WNJX and WAPA are stations in Puerto Rico that are linked together with a total fee of $27,290.
³ Call signs WKAQ and WORA are stations in Puerto Rico that are linked together with a total fee of $27,290.
⁴ Call signs WOLE and WLII are stations in Puerto Rico that are linked together with a total fee of $27,290.
⁵ Call signs WVEO and WTCV are stations in Puerto Rico that are linked together with a total fee of $27,290.
⁶ Call signs WJPX and WJWN are stations in Puerto Rico that are linked together with a total fee of $27,290.
⁷ Call signs WAPA and WTIN are stations in Puerto Rico that are linked together with a total fee of $27,290.
⁸ Call signs WSUR and WLII are stations in Puerto Rico that are linked together with a total fee of $27,290.
⁹ Call signs WVOZ and WTCV are stations in Puerto Rico that are linked together with a total fee of $27,290.
¹⁰ Call signs WJPX and WKPV are stations in Puerto Rico that are linked together with a total fee of $27,290.
¹¹ Call signs WMTJ and WQTO are stations in Puerto Rico that are linked together with a total fee of $27,290.
¹² Call signs WIRS and WJPX are stations in Puerto Rico that are linked together with a total fee of $27,290.
¹³ Call signs WRFB and WORA are stations in Puerto Rico that are linked together with a total fee of $27,290.

Regulatory fees for the categories shaded in gray are collected by the Commission in advance to cover the term of the license and are submitted at the time the application is filed.

Table 8—FY 2021 Schedule of Regulatory Fees
Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80, and 90) (Includes Non-Geographic telephone numbers) | .15.
CMRS Messaging Services (per unit) (47 CFR parts 20, 22, 24, and 90) | .08.
Broadband Radio Service (formerly MMDS/MDS) (per license) (47 CFR part 27) Local Multipoint Distribution Service (per call sign) (47 CFR part 101) | 605. 605.
AM Radio Construction Permits | 610.
FM Radio Construction Permits | 1,070.
AM and FM Broadcast Radio Station Fees | See Table Below.
Digital TV (47 CFR part 73) VHF and UHF Commercial Fee Factor | $.007793.
| See Table 7 for fee amounts due, also available at https://www.fcc.gov/licensing-databases/fees/regulatory-fees.
Digital TV Construction Permits | 5,100.
Low Power TV, Class A TV, TV/FM Translators & FM Boosters (47 CFR part 74) | 320.
CARS (47 CFR part 78) | 1,555.
Cable Television Systems (per subscriber) (47 CFR part 76), Including IPTV (per subscriber) and Direct Broadcast Satellite (DBS) (per subscriber) | .98.
Interstate Telecommunication Service Providers (per revenue dollar) | .00400.
Toll Free (per toll free subscriber) (47 CFR 52.101(f)) | .12.
Earth Stations (47 CFR part 25) | 595.
Space Stations (per operational station in geostationary orbit) (47 CFR part 25) also includes DBS Service (per operational station) (47 CFR part 100) | 116,855.
Space Stations (per operational system in non-geostationary orbit) (47 CFR part 25) (Other) | 343,555.
Space Stations (per operational system in non-geostationary orbit) (47 CFR part 25) (Less Complex) | 122,695.
International Bearer Circuits—Terrestrial/Satellites (per Gbps circuit) | 43.
Submarine Cable Landing Licenses Fee (per cable system) | See Table Below.

FY 2021 Radio Station Regulatory Fees
Population served | AM Class A | AM Class B | AM Class C | AM Class D | FM Classes A, B1 & C3 | FM Classes B, C, C0, C1 & C2
<25,000 | $975 | $700 | $610 | $670 | $1,070 | $1,220
25,001-75,000 | 1,465 | 1,050 | 915 | 1,000 | 1,605 | 1,830
75,001-150,000 | 2,195 | 1,575 | 1,375 | 1,510 | 2,410 | 2,745
150,001-500,000 | 3,295 | 2,365 | 2,060 | 2,265 | 3,615 | 4,125
500,001-1,200,000 | 4,935 | 3,540 | 3,085 | 3,390 | 5,415 | 6,175
1,200,001-3,000,000 | 7,410 | 5,320 | 4,635 | 5,090 | 8,130 | 9,270
3,000,001-6,000,000 | 11,105 | 7,975 | 6,950 | 7,630 | 12,185 | 13,895
>6,000,000 | 16,665 | 11,965 | 10,425 | 11,450 | 18,285 | 20,850

FY 2021 International Bearer Circuits—Submarine Cable Systems
Submarine cable systems (capacity as of December 31, 2020) | Fee ratio (units) | FY 2021 regulatory fees
Less than 50 Gbps | .0625 | $9,495
50 Gbps or greater, but less than 250 Gbps | .125 | 18,990
250 Gbps or greater, but less than 1,500 Gbps | .25 | 37,980
1,500 Gbps or greater, but less than 3,500 Gbps | .5 | 75,955
3,500 Gbps or greater, but less than 6,500 Gbps | 1.0 | 151,910
6,500 Gbps or greater | 2.0 | 303,820

VI. Initial Regulatory Flexibility Analysis

1. As required by the Regulatory Flexibility Act of 1980, as amended (RFA) the Commission prepared this Initial Regulatory Flexibility Analysis (IRFA) of the possible significant economic impact on small entities by the policies and rules proposed in the NPRM. Written comments are requested on this IRFA. Comments must be identified as responses to the IRFA and must be filed by the deadline for comments on the NPRM. The Commission will send a copy of the NPRM, including the IRFA, to the Chief Counsel for Advocacy of the Small Business Administration (SBA). In addition, the NPRM and IRFA (or summaries thereof) will be published in the Federal Register.

A. Need for, and Objectives of, the Proposed Rules

2. The Commission is required by Congress to assess regulatory fees each year in an amount that can reasonably be expected to equal the amount of its annual appropriation. For fiscal year (FY) 2022, the Commission must recover $381,950,000, as set forth in the FY 2022 Appropriations Act. The objective of the NPRM is to propose the regulatory fees to be paid by the regulatory fee payors in the Commission's core bureaus (Media Bureau, Wireless Telecommunications Bureau, Wireline Competition Bureau, and International Bureau) by the end of the fiscal year for FY 2022 equal to the full amount of the annual appropriation, and to seek comment on the proposed fees. Accordingly, in the NPRM, we seek comment on the Commission's historic methodology for calculating regulatory fees as required by section 9 of the Communications Act of 1934, as amended (Communications Act), and on the schedule of FY 2022 regulatory fees as set forth in Tables 2 and 3 of the NPRM. We also seek comment on several other issues related to the collection of regulatory fees: (i) continuing to use our methodology for calculating television broadcaster regulatory fees based on population by station contour; (ii) the proposed regulatory fee rates for the categories of small satellite, “NGSO—less complex,” and “NGSO—Other” space stations; (iii) calculating the costs of collection of regulatory fees in establishing the annual de minimis threshold; and (iv) how our proposals may promote or inhibit advances in diversity, equity, inclusion, and accessibility.

B. Legal Basis

3. This action, including publication of proposed rules, is authorized under sections (4)(i) and (j), 159, 159A, and 303(r) of the Communications Act of 1934, as amended.

C. Description and Estimate of the Number of Small Entities to Which the Proposed Rules Will Apply

4. The RFA directs agencies to provide a description of, and where feasible, an estimate of the number of small entities that may be affected by the proposed rules and policies, if adopted. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the SBA.

5. Small Businesses, Small Organizations, Small Governmental Jurisdictions. Our actions, over time, may affect small entities that are not easily categorized at present. We therefore describe here, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 30.7 million businesses.

6. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2018, there were approximately 571,709 small exempt organizations in the U.S. reporting revenues of $50,000 or less according to the registration and tax data for exempt organizations available from the IRS.

7. Finally, the small entity described as a “small governmental jurisdiction” is defined generally as “governments of cities, counties, towns, townships, villages, school districts, or special districts, with a population of less than fifty thousand.” U.S. Census Bureau data from the 2017 Census of Governments indicate that there were 90,075 local governmental jurisdictions consisting of general purpose governments and special purpose governments in the United States. Of this number there were 36,931 general purpose governments (county, municipal and town or township) with populations of less than 50,000 and 12,040 special purpose governments—independent school districts with enrollment populations of less than 5ll governmental jurisdictions.”

8. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

9. The SBA small business size standard for Wired Telecommunications Carriers classifies firms having 1,500 or fewer employees as small. U.S. Census Bureau data for 2017 shows that there were 3,054 firms that operated in this industry for the entire year. Of this number, 2,964 firms operated with fewer than 250 employees. Additionally, based on Commission data in the 2021 Universal Service Monitoring Report, as of December 31, 2020, there were 5,183 providers that reported they were engaged in the provision of fixed local services. Of these providers, the Commission estimates that 4,737 providers have 1,500 or fewer employees. Consequently, using the SBA's small business size standard, most of these providers can be considered small entities.

10. Local Exchange Carriers (LECs). Neither the Commission nor the SBA has developed a size standard for small businesses specifically applicable to local exchange services. Providers of these services include both incumbent and competitive local exchange service providers. Wired Telecommunications Carriers is the closest industry with a SBA small business size standard. Wired Telecommunications Carriers are also referred to as wireline carriers or fixed local service providers. The SBA small business size standard for Wired Telecommunications Carriers classifies firms having 1,500 or fewer employees as small. U.S. Census Bureau data for 2017 shows that there were 3,054 firms that operated in this industry for the entire year. Of this number, 2,964 firms operated with fewer than 250 employees. Additionally, based on Commission data in the 2021 Universal Service Monitoring Report, as of December 31, 2020, there were 5,183 providers that reported they were fixed local exchange service providers. Of these providers, the Commission estimates that 4,737 providers have 1,500 or fewer employees. Consequently, using the SBA's small business size standard, most of these providers can be considered small entities.

11. Incumbent Local Exchange Carriers (Incumbent LECs). Neither the Commission nor the SBA have developed a small business size standard specifically for incumbent local exchange carriers. Wired Telecommunications Carriers is the closest industry with an SBA small business size standard. The SBA small business size standard for Wired Telecommunications Carriers classifies firms having 1,500 or fewer employees as small. U.S. Census Bureau data for 2017 shows that there were 3,054 firms in this industry that operated for the entire year. Of this number, 2,964 firms operated with fewer than 250 employees. Additionally, based on Commission data in the 2021 Universal Service Monitoring Report, as of December 31, 2020, there were 1,227 providers that reported they were incumbent local exchange service providers. Of these providers, the Commission estimates that 929 providers have 1,500 or fewer employees. Consequently, using the SBA's small business size standard, the Commission estimates that the majority of incumbent local exchange carriers can be considered small entities.

12. Competitive Local Exchange Carriers (LECs). Neither the Commission nor the SBA has developed a size standard for small businesses specifically applicable to local exchange services. Providers of these services include several types of competitive local exchange service providers. Wired Telecommunications Carriers is the closest industry with an SBA small business size standard. The SBA small business size standard for Wired Telecommunications Carriers classifies firms having 1,500 or fewer employees as small. U.S. Census Bureau data for 2017 shows that there were 3,054 firms that operated in this industry for the entire year. Of this number, 2,964 firms operated with fewer than 250 employees. Additionally, based on Commission data in the 2021 Universal Service Monitoring Report, as of December 31, 2020, there were 3,956 providers that reported they were competitive local exchange service providers. Of these providers, the Commission estimates that 3,808 providers have 1,500 or fewer employees. Consequently, using the SBA's small business size standard, most of these providers can be considered small entities.

13. Interexchange Carriers (IXCs). Neither the Commission nor the SBA have developed a small business size standard specifically for Interexchange Carriers. Wired Telecommunications Carriers is the closest industry with an SBA small business size standard. The SBA small business size standard for Wired Telecommunications Carriers classifies firms having 1,500 or fewer employees as small. U.S. Census Bureau data for 2017 shows that there were 3,054 firms that operated in this industry for the entire year. Of this number, 2,964 firms operated with fewer than 250 employees. Additionally, based on Commission data in the 2021 Universal Service Monitoring Report, as of December 31, 2020, there were 151 providers that reported they were engaged in the provision of interexchange services. Of these providers, the Commission estimates that 131 providers have 1,500 or fewer employees. Consequently, using the SBA's small business size standard, the Commission estimates that the majority of providers in this industry can be considered small entities.

14. Prepaid Calling Card Providers. Neither the Commission nor the SBA has developed a small business size standard specifically for prepaid calling card providers. Telecommunications Resellers is the closest industry with an SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 shows that 1,386 firms in this industry provided resale services for the entire year. Of that number, 1,375 firms operated with fewer than 250 employees. Additionally, based on Commission data in the 2021 Universal Service Monitoring Report, as of December 31, 2020, there were 58 providers that reported they were engaged in the provision of payphone services. Of these providers, the Commission estimates that 57 providers have 1,500 or fewer employees. Consequently, using the SBA's small business size standard, most of these providers can be considered small entities.

15. Local Resellers. Neither the Commission nor the SBA have developed a small business size standard specifically for Local Resellers. Telecommunications Resellers is the closest industry with an SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 shows that 1,386 firms in this industry provided resale services for the entire year. Of that number, 1,375 firms operated with fewer than 250 employees. Additionally, based on Commission data in the 2021 Universal Service Monitoring Report, as of December 31, 2020, there were 293 providers that reported they were engaged in the provision of local resale services. Of these providers, the Commission estimates that 289 providers have 1,500 or fewer employees. Consequently, using the SBA's small business size standard, most of these providers can be considered small entities.

16. Toll Resellers. Neither the Commission nor the SBA have developed a small business size standard specifically for Toll Resellers. Telecommunications Resellers is the closest industry with an SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 shows that 1,386 firms in this industry provided resale services for the entire year. Of that number, 1,375 firms operated with fewer than 250 employees. Additionally, based on Commission data in the 2021 Universal Service Monitoring Report, as of December 31, 2020, there were 518 providers that reported they were engaged in the provision of toll services. Of these providers, the Commission estimates that 495 providers have 1,500 or fewer employees. Consequently, using the SBA's small business size standard, most of these providers can be considered small entities.

17. Other Toll Carriers. Neither the Commission nor the SBA has developed a definition for small businesses specifically applicable to Other Toll Carriers. This category includes toll carriers that do not fall within the categories of interexchange carriers, operator service providers, prepaid calling card providers, satellite service carriers, or toll resellers. Wired Telecommunications Carriers is the closest industry with an SBA small business size standard. The SBA small business size standard for Wired Telecommunications Carriers classifies firms having 1,500 or fewer employees as small. U.S. Census Bureau data for 2017 shows that there were 3,054 firms in this industry that operated for the entire year. Of this number, 2,964 firms operated with fewer than 250 employees. Additionally, based on Commission data in the 2021 Universal Service Monitoring Report, as of December 31, 2020, there were 115 providers that reported they were engaged in the provision of other toll services. Of these providers, the Commission estimates that 113 providers have 1,500 or fewer employees. Consequently, using the SBA's small business size standard, most of these providers can be considered small entities.

18. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 shows that there were 2,893 firms in this industry that operated for the entire year. Of that number, 2,837 firms employed fewer than 250 employees. Additionally, based on Commission data in the 2021 Universal Service Monitoring Report, as of December 31, 2020, there were 797 providers that reported they were engaged in the provision of wireless services. Of these providers, the Commission estimates that 715 providers have 1,500 or fewer employees. Consequently, using the SBA's small business size standard, most of these providers can be considered small entities.

19. Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $41.5 million or less in annual receipts as small. The 2017 U.S. Census Bureau data indicates that 744 firms in this industry operated for the entire year. Of that number, 657 firms had revenue of less than $25,000,000. Based on this data we estimate that the majority of television broadcasters are small entities under the SBA small business size standard.

20. The Commission estimates that as of September 2021, there were 1,374 licensed commercial television stations, 384 licensed noncommercial educational (NCE) television stations, 2,276 low power television stations, including Class A stations (LPTV) and 3,106 TV translator stations. The Commission however does not compile, and otherwise does not have access to financial information for these television broadcast stations that would permit it to determine how many of these stations qualify as small entities under the SBA small business size standard. Nevertheless, given the SBA's large annual receipts threshold for this industry and the nature of television station licensees, we presume that all of these entities qualify as small entities under the above SBA small business size standard.

21. Radio Stations. This industry is comprised of “establishments primarily engaged in broadcasting aural programs by radio to the public.” Programming may originate in their own studio, from an affiliated network, or from external sources. The SBA small business size standard for this industry classifies firms having $41.5 million or less in annual receipts as small. U.S. Census Bureau data for 2017 shows that 2,963 firms operated in this industry during that year. Of this number, 1,879 firms operated with revenue of less than $25 million per year. Based on this data and the SBA's small business size standard, we estimate a majority of such entities are small entities.

22. The Commission estimates that as of September 2021, there were 4,519 licensed commercial AM radio stations, 6,682 licensed commercial FM radio stations and 4,211 licensed noncommercial (NCE) FM radio stations. The Commission however does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

23. Cable Companies and Systems (Rate Regulation). The Commission has developed its own small business size standard for the purpose of cable rate regulation. Under the Commission's rules, a “small cable company” is one serving 400,000 or fewer subscribers nationwide. Based on available data, as of December 2020, there were approximately 45,308,192 basic cable video subscribers in the top Cable multiple system operators (MSOs) in the United States. Only five cable operators serving cable video subscribers in the top Cable MSOs had more than 400,000 subscribers. Accordingly, the Commission estimates that the majority of cable operators are small.

24. Cable System Operators (Telecom Act Standard). The Communications Act of 1934, as amended, contains a size standard for small cable system operators, which classifies “a cable operator that, directly or through an affiliate, serves in the aggregate fewer than one percent of all subscribers in the United States and is not affiliated with any entity or entities whose gross annual revenues in the aggregate exceed $250,000,000,” as small. As of December 2020, there were approximately 45,308,192 basic cable video subscribers in the top Cable MSOs in the United States. Accordingly, an operator serving fewer than 453,082 subscribers shall be deemed a small operator if its annual revenues, when combined with the total annual revenues of all its affiliates, do not exceed $250 million in the aggregate. Based on available data, all but five of the cable operators in the Top Cable MSOs have less than 453,082 subscribers and can be considered small entities under this size standard. We note however, that the Commission neither requests nor collects information on whether cable system operators are affiliated with entities whose gross annual revenues exceed $250 million. Therefore, we are unable at this time to estimate with greater precision the number of cable system operators that would qualify as small cable operators under the definition in the Communications Act.

25. Direct Broadcast Satellite (DBS) Service. DBS service is a nationally distributed subscription service that delivers video and audio programming via satellite to a small parabolic “dish” antenna at the subscriber's location. DBS is included in the Wired Telecommunications Carriers industry which comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including voice over internet protocol (VoIP) services, wired (cable) audio and video programming distribution; and wired broadband internet services. By exception, establishments providing satellite television distribution services using facilities and infrastructure that they operate are included in this industry.

26. The SBA small business size standard for Wired Telecommunications Carriers classifies firms having 1,500 or fewer employees as small. U.S. Census Bureau data for 2017 shows that 3,054 firms operated in this industry for the entire year. Of this number, 2,964 firms operated with fewer than 250 employees. Based on this data, the majority of firms in this industry can be considered small under the SBA small business size standard. According to Commission data however, only two entities provide DBS service—DIRECTV (owned by AT&T) and DISH Network, which require a great deal of capital for operation. DIRECTV and DISH Network both exceed the SBA size standard for classification as a small business. Therefore, we must conclude based on internally developed Commission data, in general DBS service is provided only by large firms.

27. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $35 million or less in annual receipts as small. U.S. Census Bureau data for 2017 shows that 275 firms in this industry operated for the entire year. Of this number, 242 firms had revenue of less than $25 million. Additionally, based on Commission data in the 2021 Universal Service Monitoring Report, as of December 31, 2020, there were 71 providers that reported they were engaged in the provision of satellite telecommunications services. Of these providers, the Commission estimates that approximately 48 providers have 1,500 or fewer employees. Consequently, using the SBA's small business size standard, a little more than of these providers can be considered small entities.

28. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up internet service providers (ISPs)) or VoIP services, via client-supplied telecommunications connections are also included in this industry. The SBA small business size standard for this industry classifies firms with annual receipts of $35 million or less as small. U.S. Census Bureau data for 2017 shows that there were 1,079 firms in this industry that operated for the entire year. Of those firms, 1,039 had revenue of less than $25 million. Based on this data, the Commission estimates that the majority of “All Other Telecommunications” firms can be considered small.

29. RespOrgs. Responsible Organizations, or RespOrgs (also referred to as Toll-Free Number (TFN) providers), are entities chosen by toll free subscribers to manage and administer the appropriate records in the toll-free Service Management System for the toll-free subscriber. Based on information on the website of SOMOS, the entity that maintains a registry of Toll-Free Number providers (SMS/800 TFN Registry) for the more than 42 million Toll-Free numbers in North America, and the TSS Registry, a centralized registry for the use of Toll-Free Numbers in text messaging and multimedia services, there were approximately 446 registered RespOrgs/Toll-Free Number providers in July 2021. RespOrgs are often wireline carriers, however they can be include non-carrier entities. Accordingly, the description below for RespOrgs include both Carrier RespOrgs and Non-Carrier RespOrgs.

30. Carrier RespOrgs. Neither the Commission nor the SBA have developed a small business size standard for Carrier RespOrgs. Wired Telecommunications Carriers, and Wireless Telecommunications Carriers (except Satellite) are the closest industries with an SBA small business size applicable to Carrier RespOrgs.

31. Wired Telecommunications Carriers are establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. The SBA small business size standard for this industry classifies a business as small if it has 1,500 or fewer employees. U.S. Census Bureau data for 2017 shows that there were 3,054 firms that operated for the entire year. Of this number, 2,964 firms operated with fewer than 250 employees. Based on that data, we conclude that the majority of Carrier RespOrgs that operated with wireline-based technology are small.

32. Wireless Telecommunications Carriers (except Satellite) engage in operating and maintaining switching and transmission facilities to provide communications via the airwaves. Establishments in this industry have spectrum licenses and provide services using that spectrum, such as cellular services, paging services, wireless internet access, and wireless video services. The SBA small business size standard for this industry classifies a business as small if it has 1,500 or fewer employees. For this industry, U.S. Census Bureau data for 2017 shows that there were 2,893 firms that operated for the entire year. Of this number, 2,837 firms employed fewer than 250 employees. Based on this data, we conclude that the majority of Carrier RespOrgs that operated with wireless-based technology are small.

33. Non-Carrier RespOrgs. Neither the Commission, nor the SBA have developed a small business size standard Non-Carrier RespOrgs. Other Services Related to Advertising and Other Management Consulting Services” are the closest industries with an SBA small business size applicable to Non-Carrier RespOrgs.

34. The Other Services Related to Advertising industry contains establishments primarily engaged in providing advertising services (except advertising agency services, public relations agency services, media buying agency services, media representative services, display advertising services, direct mail advertising services, advertising material distribution services, and marketing consulting services). The SBA small business size standard for this industry classifies a business as small that has annual receipts of $16.5 million or less. U.S. Census Bureau data for 2017 shows that 5,650 firms operated in this industry for the entire year. Of that number, 3,693 firms operated with revenue of less than $10 million. Based on this data, we conclude that a majority of non-carrier RespOrgs who provide TFN-related management consulting services are small.

35. The Other Management Consulting Services industry contains establishments primarily engaged in providing management consulting services (except administrative and general management consulting; human resources consulting; marketing consulting; or process, physical distribution, and logistics consulting). Establishments providing telecommunications or utilities management consulting services are included in this industry. The SBA small business size standard for this industry classifies a business as small if it has annual receipts of $16.5 million or less. U.S. Census Bureau data for 2017 shows that 4,696 firms operated in this industry for the entire year. Of that number, 3,700 firms had revenue of less than $10 million. Based on this data, we conclude that a majority of non-carrier RespOrgs who provide TFN-related management consulting services are small.

D. Description of Projected Reporting, Recordkeeping and Other Compliance Requirements for Small Entities

36. The NPRM does not propose any changes to the Commission's current information collection, reporting, recordkeeping, or compliance requirements for small entities. Regulatory fee payors, including small entities, will be required to pay the regulatory fees after such fees are adopted.

E. Steps Taken To Minimize Significant Economic Impact on Small Entities, and Significant Alternatives Considered

37. The RFA requires an agency to describe any significant alternatives that it has considered in reaching its approach, which may include the following four alternatives, among others: (1) the establishment of differing compliance or reporting requirements or timetables that take into account the resources available to small entities; (2) the clarification, consolidation, or simplification of compliance or reporting requirements under the rule for small entities; (3) the use of performance, rather than design, standards; and (4) an exemption from coverage of the rule, or any part thereof, for small entities.

38. The Commission has taken steps to minimize the economic impact on small entities by adopting a de minimis threshold under the section 9(e)(2) exemption in the Communications Act. Section 9(e)(2) of the Communications Act permits the Commission to exempt a party from paying regulatory fees if “in the judgment of the Commission, the cost of collecting a regulatory fee established under this section from a party would exceed the amount collected from such party . . . .” The threshold applies only to filers of annual regulatory fees, not regulatory fees paid through multi-year filings. Currently, the de minimis threshold for annual regulatory fee payors is $1,000 or less for the fiscal year. In the NPRM, the Commission seeks comment on the feasibility of raising the de minimis threshold.

F. Federal Rules That May Duplicate, Overlap, or Conflict With the Proposed Rules

39. None.

VII. Ordering Clauses

40. Accordingly, it is ordered that, pursuant to sections 47 U.S.C. 4(i), 4(j), 9, 9A, and 303(r) of the Communications Act of 1934, as amended, 47 U.S.C. 154(i), 154(j), 159, 159A, and 303(r), this NPRM is hereby adopted.

Federal Communications Commission.
Marlene Dortch,
Secretary.

[FR Doc. 2022-13231 Filed 6-27-22; 8:45 am]

BILLING CODE 6712-01-P